OFFICE OF PERSONNEL MANAGEMENT

SES Positions That Were Career Reserved During CY 2012

AGENCY: U.S. Office of Personnel Management (OPM).

ACTION: Notice.

SUMMARY: As required by section 3132(b) (4) of title 5, United States Code, this gives notice of all positions in the Senior Executive Service (SES) that were “career reserved” i.e., SES positions that could only be encumbered by career Federal employees during calendar year 2012.

FOR FURTHER INFORMATION CONTACT: Demetrice Douglas, Senior Executive Resources Services, Senior Executive Service and Performance Management, Employee Services, 202-606-2246.

SUPPLEMENTARY INFORMATION: Below is a list of titles of SES positions that were career reserved at any time during calendar year 2012, regardless of whether those positions were still career reserved as of December 31, 2012. Section 3132(b)(4) of title 5, United States Code, requires that the head of each agency publish such lists by March 1 of the following year. OPM is publishing this consolidated list for all agencies.

Agency | Organization | Title
ADMINISTRATIVE CONFERENCE OF THE UNITED STATES | Administrative Conference of the United States | Executive Director.
|  | General Counsel.
ADVISORY COUNCIL ON HISTORIC PRESERVATION | Office of the Executive Director | Executive Director.
DEPARTMENT OF AGRICULTURE | Office of Communications | Deputy Director, Creative Development.
| Office of the Chief Information Officer | Associate Chief Information Officer.
|  | Deputy Chief Information Officer.
| Office of the Chief Financial Officer | Associate Chief Financial Officer for Financial Policy and Planning.
|  | Deputy Chief Financial Officer.
|  | Associate Chief Financial Officer for Financial Systems Planning and Management.
| National Finance Center | Director, Financial Services Division.
|  | Director, Information Resources Management Division.
|  | Deputy Director, National Finance Center.
| Office of the General Counsel | Assistant General Counsel.
|  | Associate General Counsel, General Law and Research Division.
| Office of the Chief Economist | Director, Office of Risk Assessment and Cost-Benefit Analysis.
|  | Chairperson.
|  | Director, Global Change Program Office.
|  | Director, Office of Energy Policy and New Uses.
| Office of Human Resources Management | Provost, United States Department of Agriculture Virtual University.
| Office of Advocacy and Outreach | Director, Office of Advocacy and Outreach.
| Office of Operations | Director, Office of Operations.
| Procurement and Property Management | Director, Procurement and Property Management.
| Rural Business Service | Deputy Administrator, Business Programs.
| Rural Housing Service | Deputy Administrator, Centralized Servicing Center.
|  | Director, Human Resources.
|  | Administrator, Operations and Management.
|  | Chief Financial Officer.
|  | Budget Officer.
|  | Deputy Administrator, Multi-Family Housing.
|  | Deputy Administrator, Operations and Management.
| Agricultural Marketing Service | Deputy Administrator, Fruit and Vegetable Programs.
|  | Deputy Administrator, Dairy Programs.
|  | Deputy Administrator, Livestock and Seed Programs.
|  | Deputy Administrator, Information Technology Services.
|  | Associate Administrator.
|  | Deputy Administrator, Compliance and Analysis.
|  | Deputy Administrator, Poultry Programs.
|  | Deputy Administrator, Transportation and Marketing Programs.
|  | Deputy Administrator, Cotton and Tobacco Programs.
|  | Deputy Administrator, National Organic Programs.
|  | Deputy Administrator, Science and Technology Programs.
| Animal and Plant Health Inspection Service | Director, Information Technology Division.
|  | International Services Area Director (Trade).
|  | Director, Center for Veterinary Biologics.
|  | Associate Deputy Administrator, Emerging and International Programs.
|  | Deputy Administrator, Legislative and Public Affairs.
|  | Deputy Administrator, International Services.
|  | Deputy Administrator, Biotechnology Regulatory Programs.
|  | Associate Deputy Administrator, Veterinary Services, Emergency Programs.
|  | Director, Western Region Wildlife Services.
|  | Director, Eastern Region Wildlife Services.
|  | Deputy Administrator, Marketing and Regulatory Programs—Business Services.
|  | Associate Deputy Administrator, Marketing and Regulatory Programs—Business Services.
|  | Deputy Administrator, Wildlife Services.
|  | Deputy Administrator, Animal Care.
|  | Associate Deputy Administrator, Wildlife Services.
|  | Director, Center for Plant Health Science and Technology.
|  | Assistant Deputy Administrator, Emergency and Domestic Programs.
|  | Senior Animal and Plant Health Inspection Service International Organization Coordinator.
|  | Chief Financial Officer.
|  | Chief Advisor, Government, Academia and Industry Partnership.
|  | Associate Deputy Administrator, Animal Care.
|  | Human Resources Officer.
|  | Director, National Wildlife Research Center.
|  | Director, Investigative and Enforcement Services.
| Veterinary Services | Director, Eastern Region Veterinary Services.
|  | Director, Western Region Veterinary Services.
|  | Associate Deputy Administrator, National Animal Health Policy Programs.
|  | Director, Center for Epidemiology and Animal Health.
| Plant Protection and Quarantine Service | Director, Western Region Plant Protection and Quarantine.
|  | Director, Plant Health Programs, Plant Protection and Quarantine.
|  | Director, Eastern Region Plant Protection and Quarantine.
| Food Safety and Inspection Service | Deputy Assistant Administrator, Office of Field Operations.
|  | Executive Associate, Regulatory Operations, Office of Field Operations.
|  | Deputy Assistant Administrator, Office of Program Evaluation Enforcement and Review.
|  | Assistant Administrator, Office of Policy and Program Development.
|  | Deputy Administrator.
|  | Deputy Assistant Administrator, Office of Policy and Program Development.
|  | Executive Associate, Regulatory Operations, Office of Field Operations.
|  | Deputy Assistant Administrator, Office of International Affairs.
|  | Executive Associate, Regulatory Operations, Office of Field Operations.
|  | Executive Associate, Laboratory Services, Office of Public Health Science.
|  | Assistant Administrator, Office of International Affairs.
|  | Assistant Administrator.
|  | Deputy Assistant Administrator, Office of Public Health Science.
|  | Assistant Administrator, Office of Program Evaluation Enforcement and Review.
|  | United States Manager for Codex.
|  | Deputy Assistant Administrator, Office of Management.
|  | Assistant Administrator, Office of Catfish Inspection Programs.
|  | Chief Information Officer.
|  | Chief Financial Officer.
|  | Assistant Administrator, Office of Field Operations.
|  | Deputy Administrator.
|  | Deputy Assistant Administrator, Office of Data Integration and Food Program.
|  | Assistant Administrator, Office of Data Integration and Food Protection.
|  | Assistant Administrator, Office of Management.
|  | Assistant Administrator, Office of Public Affairs, Education and Outreach.
|  | Executive Associate, Public Health.
|  | Executive Associate, Regulatory Operations, Office of Field Operations.
| Food and Nutrition Service | Program Manager (Deputy Administrator for Management).
|  | Director, Office of Research, Nutrition and Analysis.
|  | Program Manager (Associate Administrator for Regional Operations and Support).
|  | Associate Administrator, Management and Finance.
|  | Financial Manager.
| Foreign Agricultural Service | Associate Administrator (Chief Operating Officer).
|  | Deputy Administrator, Office of Scientific and Technical Affairs.
|  | Deputy Administrator, Office of Global Analysis.
| Farm Service Agency | Assistant Deputy Administrator, Farm Programs.
|  | Deputy Director, Office of Budget and Finance.
|  | Deputy Administrator, Farm Loan Programs.
|  | Director, Office of Budget and Finance.
|  | Director, Conservation Environment Programs Division.
| Risk Management Agency | Deputy Administrator, Insurance Services Division.
|  | Deputy Administrator, Research and Development.
| Office of the Under Secretary for Research, Education and Economics | Director, Office of the USDA Chief Scientist.
| Agricultural Research Service | Associate Administrator, Research Operations and Management.
|  | Assistant Administrator, Technology Transfer.
|  | Director, National Animal Disease Center.
|  | Director, Office of Pest Management Policy.
|  | Deputy Administrator, Administrative and Financial Management.
|  | Associate Deputy Administrator, Administrative and Financial Management.
|  | Chief Financial Officer.
|  | Deputy Administrator, Food Nutrition, Safety and Quality.
|  | Director, Office of International Research Programs.
|  | Deputy Administrator, Animal Production and Protection.
| National Program Staff Office | Deputy Administrator.
|  | Associate Administrator, National Programs.
|  | Deputy Administrator, Natural Resources and Sustainable Agriculture Systems.
| Beltsville Area Office | Director, Plant Sciences Institute.
|  | Director, Beltsville Human Nutrition Research Center.
|  | Director, Animal and Natural Resources Institute.
|  | Director, United States National Arboretum.
|  | Associate Director, Beltsville Area.
|  | Chief Information Officer.
|  | Director, Beltsville Area Office.
| North Atlantic Area Office | Director, Eastern Regional Research Center.
|  | Director, North Atlantic Area.
|  | Associate Director, North Atlantic Area.
| South Atlantic Area Office | Director, South Atlantic Area.
|  | Associate Director, South Atlantic Area.
| Midwest Area Office | Director, National Center for Agriculture Utilization.
|  | Associate Director, Midwest Area.
|  | Director, Midwest Area.
| Mid-South Area Office | Director, Southern Regional Research Center.
|  | Director, Mid-South Area.
|  | Associate Director, Mid-South Area.
| Southern Plains Area Office | Director, Southern Plains Area.
|  | Associate Director, Southern Plains Area.
| Northern Plains Area Office | Associate Director, Northern Plains Area Office.
|  | Director, United States Meat Animal Research Center.
|  | Director, Northern Plains Area.
| Pacific West Area Office | Director, Western Human Nutrition Research Center.
|  | Director, Pacific West Area Office.
|  | Director, Western Regional Research Center.
|  | Associate Director, Pacific West Area Office.
| National Institute of Food and Agriculture | Assistant Director, Institute of Food Safety and Nutrition (2).
|  | Senior Advisor to the Director.
|  | Assistant Director, Institute of Bioenergy, Climate and Environment.
|  | Assistant Director, Office of Grants and Financial Management.
|  | Assistant Director, Office of Information Technology.
| Economic Research Service | Administrator, Economic Research Service.
|  | Associate Administrator, Economic Research Service.
|  | Director, Food and Rural Economics Division.
|  | Budget Coordinator and Strategic Planner.
|  | Director, Information Services Division.
|  | Director, Resource Economics Division.
|  | Director, Market and Trade Economics Division.
| National Agricultural Statistics Service | Associate Administrator.
|  | Director, Western Field Operations.
|  | Associate Deputy Administrator (Western United States).
|  | Director, Eastern Field Operations.
|  | Director, Statistics Division.
|  | Director, Census and Survey Division.
|  | Administrator, National Agricultural Statistics Service.
|  | Deputy Chief, Programs.
|  | Director, Research and Development Division.
|  | Director, National Operations Center.
|  | Special Assistant.
|  | Chairperson of the United States Agricultural Statistics Board.
|  | Director, Information Technology Division.
| Natural Resources Conservation Service | Director, Soil Survey Division.
|  | Director, Conservation Engineering Division.
|  | Director, Ecological Sciences Division.
|  | Associate Deputy Chief, Management.
|  | Director, Easement Programs Division.
|  | Deputy Chief, Strategic Planning and Accountability.
|  | Director, Resource Inventory Division.
|  | Director, Conservation Planning and Technical Assistance Division.
|  | Director, Resource Economics, Analysis and Policy Division.
|  | Regional Conservationist (Northeast).
|  | Special Assistant to the Chief.
|  | Director, Financial Assistance Programs Division.
|  | Deputy Chief, Programs.
|  | Director, Resource Assessment Division.
|  | Chief Financial Officer.
|  | Special Assistant to Chief (2).
| Forest Service | Deputy Chief, Business Operations.
|  | Chief Financial Officer.
|  | Director, Fire and Aviation Staff.
|  | Associate Deputy Chief, Business Operations.
|  | Director, Acquisition Management.
|  | Director, Law Enforcement and Investigations.
|  | Associate Deputy Chief, Research and Development (2).
| Research | Director, Environmental Sciences.
|  | Director, Resource Use Sciences.
|  | Director, Vegetation Management and Protection Research Staff.
|  | Director, Science Policy, Planning and Information Staff.
| National Forest System | Director, Water, Fish, Wasteland, Air and Rare Plants.
|  | Director, Ecosystem Management Coordination.
|  | Director, Lands Management Staff.
|  | Director, Engineering.
|  | Director, Forest Management Staff.
|  | Director, Rangeland Management.
|  | Director, Minerals and Geology Management Staff.
| State and Private Forestry | Senior Advisor to the Deputy Chief, State and Private Forestry.
|  | Director, Forest Health Protection.
|  | Director, Cooperative Forestry.
| Field Units | Director, Pacific Northwest Research Station.
|  | Director, Rocky Mountain Forest and Range Experiment Station (Fort Collins).
|  | Director, Forest Products Laboratory (Madison).
|  | Director, Southern Research Station (Asheville).
|  | Director, Pacific Southwest Forest and Range Experiment Station (Vallejo).
|  | Northeast Area Director, State and Private Forestry.
|  | Station Director, North Eastern Forest Experiment Station (Newtown Square).
| International Forest System | Director, International Institute of Tropical Forest (Rio Piedras).
DEPARTMENT OF AGRICULTURE—OFFICE OF THE INSPECTOR GENERAL | Department of Agriculture—Office of the Inspector General | Counsel to the Inspector General. Deputy Inspector General.
| Assistant Inspector General for Management | Assistant Inspector General for Management.
| Assistant Inspector General for Audit | Deputy Assistant Inspector General for Audit (3).
|  | Assistant Inspector General for Audit.
| Assistant Inspector General for Investigations | Assistant Inspector General for Investigations.
|  | Deputy Assistant Inspector General for Investigations.
AMERICAN BATTLE MONUMENTS COMMISSION | Executive Director Director, European Region | Deputy Secretary. Director, European Region.
ARCHITECTURAL AND TRANSPORTATION BARRIERS COMPLIANCE BOARD (UNITED STATES ACCESS BOARD) | Architectural and Transportation Barriers Compliance Board (United States Access Board) | Director, Office of Technical and Information Services. Executive Director.
BROADCASTING BOARD OF GOVERNORS | International Broadcasting Bureau | Deputy, Engineering Resource Control.
|  | Deputy, Network Operations.
|  | Associate Director, Management.
|  | Director, Engineering and Technical Operations.
CHEMICAL SAFETY AND HAZARD INVESTIGATION BOARD | Office of the Chief Operating Officer | Chief Operating Officer.
DEPARTMENT OF COMMERCE | Department of Commerce | Director, Governmental Affairs.
|  | General Counsel.
|  | Deputy Chief Financial Officer/Deputy Chief Administrative Officer.
|  | Deputy Assistant Inspector General, Auditing.
| Office of the Chief Information Officer | Director, Cyber Security and Chief Information Security Officer.
|  | Special Assistant, Program Management.
|  | Deputy Chief Information Officer and Chief Technology Officer.
| Office of the General Counsel | Director, Office of Executive Support.
|  | Chief, Ethics Division.
|  | Assistant General Counsel, Finance and Litigation.
| Office of the Chief Financial Officer and Assistant Secretary for Administration | Deputy, Acquisition Program Management. Deputy Chief Information Officer, Management and Business Operations.
|  | Deputy Director, Office of Budget.
|  | Director, Administrative Services.
|  | Deputy, Procurement Performance Excellence.
|  | Deputy Assistant Secretary, Resource Management.
|  | Director, Office of Budget.
|  | Executive Director, Commerce Connect.
|  | Director, Human Resources Operations Center.
|  | Deputy Director, Administrative Services and Building Management.
|  | Director, Office of Acquisition Management.
|  | Director for Y2k Outreach.
| Office of the Deputy Assistant Secretary for Administration | Deputy Director, Acquisition Management. Director, Office of Security.
|  | Deputy Director, Sustainability and Facilities Asset Management.
|  | Deputy, Procurement Management, Policy and Performance Excellence.
| Office of Human Resources Management | Deputy Director, Human Resources Management.
|  | Director, Human Resources Management.
| Office of the Deputy Chief Financial Officer for Financial Management | Director, Financial Management and Deputy Chief Financial Officer.
|  | Director, OS Financial Management.
|  | Director, Financial Reporting and Internal Controls.
| Office of Budget | Director, Office of Budget.
| Office of Acquisition Management | Director, Federal Assistant and Management Support.
| Office of Security | Director, Office of Security.
|  | Deputy Director, Office of Security.
| Office of Administrative Services | Director, Technology Management.
|  | Deputy Assistant Secretary/Director, Security.
| Office of the Inspector General | Deputy Assistant Inspector General, Economic and Statistical Program Assessment.
| Office of Inspector General | Assistant Inspector General, Systems Evaluation.
|  | Assistant Inspector General, Administration.
| Office of Counsel to the Inspector General | Counsel to the Inspector General.
| Office of Inspections and Program Evaluation | Assistant Inspector General, Inspections and Program Evaluation.
| Office of Audits | Assistant Inspector General, Auditing.
| Office of Investigations | Assistant Inspector General, Investigations.
| Economics and Statistics Administration | Chief Financial Officer/Director, Administration.
| Bureau of the Census | Chief Technology Officer.
|  | Senior Advisor, Project Management.
|  | Associate Director, Administration and Chief Financial Officer.
|  | Chief, Budget Division.
|  | Associate Director, Strategic Planning and Innovation.
|  | Associate Director, Information Technology and Chief Information Officer.
|  | Chief, Center for Economic Studies and Chief Economist.
|  | Assistant Director, American Community Survey and Decennial Census.
|  | Chief, Field Division.
|  | Chief, Human Resources Division.
|  | Senior Advisor, Service Delivery.
|  | Chief, Decennial Research and Planning Office.
|  | Associate Director, 2020 Census.
|  | Chief, Center for Administrative Records Research and Applications.
|  | Assistant Director, Research and Methodology.
|  | Associate Director, Research and Methodology.
| Office of the Director | Chief, Decennial Systems and Contracts Management Office.
|  | Associate Director, Field Operations.
| Administrative and Customer Services Division | Chief, Administrative and Customer Services Division.
| Associate Director for Finance and Administration | Chief, Acquisition Division. Chief, Finance Division.
| Data Preparation Division | Chief, National Processing Center.
| Associate Director for Economic Programs | Associate Director, Economic Programs.
|  | Assistant Director, Economic Programs.
| Economic Planning and Coordination Division | Chief, Economic Planning and Coordination Division.
| Economic Statistical Methods and Programming Division | Chief, Economic Programming Division.
| Agriculture and Financial Statistics Division | Chief, Company Statistics Division.
| Services Division | Chief, Service Sector Statistics Division.
| Foreign Trade Division | Chief, Foreign Trade Division.
| Governments Division | Chief, Governments Division.
| Manufacturing and Construction Division | Chief, Manufacturing and Construction Division.
| Associate Director for Decennial Census | Associate Director, Decennial Census.
|  | Chief, American Community Survey Office.
| Decennial Management Division | Chief, Decennial Management Division.
| Geography Division | Chief, Geography Division.
| Decennial Statistical Studies Division | Chief, Decennial Statistical Studies Division.
| Associate Director for Demographic Programs | Chief, Demographic Surveys Division.
|  | Associate Director, Demographic Programs.
|  | Assistant Director, Demographic Programs.
|  | Chief, Population Division.
| Housing and Household Economic Statistics Division | Chief, Social, Economic, and Housing Statistics Division.
| Demographic Statistical Methods Division | Chief, Demographic Statistical Methods Division.
| Statistical Research Division | Chief, Statistical Research Division.
| Bureau of Economic Analysis | Chief, Administrative Officer.
|  | Chief, Balance of Payments Division.
|  | Associate Director for Industry Accounts.
|  | Chief Information Officer.
| Office of the Director | Chief Statistician.
|  | Chief Economist.
|  | Deputy Director, Bureau of Economic Analysis.
|  | Director, Bureau of Economic Analysis.
| Associate Director for Regional Economics | Associate Director, Regional Economics.
| Associate Director for International Economics | Associate Director, International Economics.
| Associate Director for National Income, Expenditure and Wealth Accounts | Associate Director, National Income, Expenditure and Wealth Accounts.
|  | Chief, National Income and Wealth Division.
| Bureau of Industry and Security | Deputy Chief Financial Officer.
|  | Director, Office of Enforcement Analysis.
|  | Chief Financial Officer and Director of Administration.
| Office of the Assistant Secretary for Export Enforcement | Director, Office of Export Enforcement. Deputy Assistant Secretary, Export Enforcement.
|  | Deputy Director, Office of Export Enforcement.
| Office of the Assistant Secretary for Economic Development | Chief Financial Officer/Chief Administrative Officer.
| Office of the Deputy Assistant Secretary | Chief Financial Officer/Chief Administrative Officer.
| International Trade Administration | Director, Office of Environmental Technologies Industries.
|  | Senior Director, China/Non-Market Economy Compliance Unit.
|  | Executive Director, Antidumping and Countervailing Duty Operations.
| Office of the Under Secretary | Chief, Financial Officer and Director of Administration.
| Office of the Deputy Under Secretary | Human Resources Manager.
|  | Deputy Chief Administrative Officer.
| Deputy Assistant Secretary for Textiles and Apparel | Director, Office of Consumer Goods.
| Assistant Secretary for Market Access and Compliance | Director, Trade Compliance Center.
| Market Access and Compliance | Director, Office of China Economic Area.
|  | Director, Office of Multilateral Affairs.
| Deputy Assistant Secretary for Trade Agreements and Compliance | Associate Director, Management.
| National Oceanic and Atmospheric Administration | Director, Office of Ocean Exploration and Research.
|  | Chief Administrative Officer.
|  | Director, Integrated Ocean Observing System.
|  | Deputy Assistant Administrator, Systems.
|  | Director, Ocean Prediction Center.
|  | Director, Office of Education.
|  | Deputy Director, Acquisition and Grants Office.
|  | Chief Financial Officer/Chief Administrator Officer.
|  | Director, Space Weather Prediction Center.
|  | Chief Information Officer/Director, High Performance Computing and Communications.
|  | Deputy Chief Administrative Officer.
|  | Chief Financial Officer.
|  | Chief Information Officer, NESDIS.
|  | Director, Program Risk Management.
|  | Deputy Director, Office of Satellite and Product Operations.
|  | Deputy Director, Office of Marine and Aviation Operations.
|  | Deputy Director, Workforce Management.
|  | Director, Joint Polar Satellite Systems.
|  | Deputy Chief Information Officer.
|  | Director, Acquisition and Grants Office.
|  | Chief, Resource and Operations Management.
| National Oceanic and Atmospheric Administration, Coastal Ocean Program Office | Director, Budget Office.
| Office of Finance and Administration | Director, Workforce Management.
|  | Director, Finance Office/Comptroller.
|  | Director, Real Property, Facilities and Logistics Office.
| National Ocean Service | Technical Director.
|  | Director, Office of National Geodetic Survey.
|  | Associate Assistant Administrator, Management and Chief Financial Officer/Chief Administrative Officer.
|  | Director, Center for Operational Oceanographic Products and Services.
| National Oceanic and Atmospheric Administration, Coastal Services Center | Director, National Centers for Coastal Ocean Science.
| Hazardous Materials Response and Assessment Division | Director, Office of Response and Restoration.
| Office of the Assistant Administrator for Weather Services | Director, Strategic Planning and Policy Office.
| Office of the Chief Information Officer | Chief Information Officer, Weather Service.
| Office of the Federal Coordinator for Meteorology | Director, Office of the Federal Coordinator for Meteorology.
| Office of Hydrologic Development | Director, Office of Hydrologic Development.
| Hydrology Laboratory | Chief, Hydrology Laboratory.
| Office of Science and Technology | Director, Office of Science and Technology.
|  | Chief, Programs and Plans Division.
| Meteorological Development Laboratory | Director, Meteorological Development Laboratory.
| Systems Engineering Center | Director, Systems Engineering Center.
| Office of Operational Systems | Director, Office of Operational Systems.
| Telecommunications Operations Center | Chief, Telecommunications Operations Center.
| Maintenance, Logistics, and Acquisition Division | Chief, Operations Division.
| Radar Operations Center | Director, Radar Operations Center.
| National Data Buoy Center | Director, National Data Buoy Center.
| Office of Climate, Water, and Weather Services | Chief, Meteorological Services Division. Director, Office of Climate, Water, and Weather Services.
| Eastern Region | Director, Eastern Region National Weather Service.
| Southern Region | Director, Southern Region.
| Central Region | Director, Central Region.
| Western Region | Director, Western Region.
| Alaska Region | Director, Alaska Region, Anchorage.
| National Centers for Environmental Prediction | Director, National Center for Environmental Prediction.
|  | Director, Aviation Weather Center.
|  | Director, Environmental Modeling Center.
|  | Director, National Severe Storms Laboratory.
| National Centers for Environmental Prediction, Central Operations | Director, Central Operations.
| Hydrometeorological Prediction Center | Chief, Meteorological Operations Division.
| Climate Prediction Center | Director, Climate Prediction Center.
| Storm Prediction Center | Director, Storm Prediction Center.
| Tropical Prediction Center | Director, National Hurricane Center.
| Office of Assistant Administrator for Fisheries | Director, Office of Management and Budget.
| National Marine Fisheries Service | Director, Office of Habitat Conservation.
|  | Deputy Assistant Administrator, Regulatory Programs.
|  | Director, Office of Sustainable Fisheries.
|  | Science and Research Director, Southwest Region.
|  | Science and Research Director, Pacific Island Region.
|  | Director, International Affairs.
| Office of Fisheries Conservation and Management | Director, Scientific Programs and Chief Science Advisor.
|  | Director, Office of Enforcement.
| Office of Protected Resources | Director, Office of Science and Technology.
| Northeast Fisheries Science Center | Director, Science and Research, Northeast Region.
| Southeast Fisheries Science Center | Director, Science and Research, Southeast Region.
| Northwest Fisheries Science Center | Director, Science and Research, Northwest Region.
| Alaska Fisheries Science Center | Director, Science and Research.
| Office of the Assistant Administrator, Satellite, Data and Information Service | Senior Scientist, Environmental Satellite, Data and Information Services (National Environmental Satellite, Data and Information Services).
|  | Chief Financial Officer/Chief Administrative Officer.
|  | System Program Director, Goes-R Program.
| National Climatic Data Center | Director, National Climatic Data Center.
| National Oceanographic Data Center | Director, National Oceanographic Data Center.
| National Geophysical Data Center | Director, National Geophysical Data Center.
| Office of Systems Development | Director, Satellite and Ground Systems Program.
|  | Director, Requirements, Planning and System Integration Division.
|  | Director, Office of Systems Development.
| Office of Assistant Administrator, Ocean and Atmospheric Research | Deputy Assistant Administrator, Laboratories and Cooperative Institutes and Director, Air Resources Laboratory.
|  | Director, ESRL and Principal Science Advisor.
|  | Deputy Assistant Administrator, Laboratories and Cooperative Institutes and Director.
|  | Chief Financial Officer/Chief Administrative Officer.
|  | Director, Climate Program Office.
| National Sea Grant College Program | Director, National Sea Grant College Program.
| Aeronomy Laboratory | Director, Chemical Science Division.
| Air Resources Laboratory | Director, Air Resources Laboratory.
| Atlantic Ocean and Meteorology Laboratory | Director, Atlantic Oceanographic and Meteorological.
| Geophysical Fluid Dynamics Laboratory | Director, Office of Geophysical Fluid Dynamics Laboratory.
| Great Lakes Environmental Research Laboratory | Director, Office of Great Lakes Environmental Research Laboratory.
| Pacific Marine Environmental Research Laboratory | Director, Office of Pacific Marine Environmental Laboratory.
| Environmental Technology Laboratory | Director, Physical Science Division.
| Forecast Systems Laboratory | Director, Global Systems Division.
| Climate Monitoring and Diagnostics Laboratory | Director, Global Monitoring Division.
| National Telecommunications and Information Administration | Chief Financial Officer/Director of Administration.
| Institute for Telecommunication Sciences | Associate Administrator, Telecommunications Science.
|  | Deputy Director, Systems and Networks.
| Patent and Trademark Office | Regional Group Director.
|  | Associate Commissioner, Patent Recourses and Planning.
|  | Director, Trademark Information Resources.
|  | Administrator, Policy and External Affairs.
|  | Deputy Commissioner, Trademark Operations.
|  | Director, Office of Equal Employment Opportunity and Diversity.
|  | Associate Commissioner, Patent Examination Policy.
|  | Deputy Associate Commissioner, Patent Information Management.
|  | Deputy General Counsel, Enrollment and Discipline.
|  | Director, Office of Procurement.
|  | Deputy Solicitor/Assistant General Counsel, Intellectual Property Law.
| Administrator for External Affairs | Director, Intellectual Property Policy and Enforcement.
|  | Associate Director, Education and Training.
|  | Deputy Director, Intellectual Property Policy and Enforcement.
| Office of the General Counsel | Deputy General Counsel, Intellectual Property Law and Solicitor.
| Board of Patent Appeals and Interferences | Chief Administrative Patent Judge.
|  | Vice Chief Administrative Patent Judge.
|  | Chief Administrative Patent Judge.
| Trademark Trial and Appeal Board | Chairman, Trademark Trial and Appeal Board.
| Office of the Chief Financial Officer | Chief Financial Officer.
|  | Deputy Chief Financial Officer.
| Office of the Chief Administrative Officer | Director, Human Capital Management.
| Office of the Chief Information Officer | Chief Technology Officer.
| Office of the Commissioner for Patents | Deputy Director, Office of Patent Training.
|  | Director, Office of Patent Training.
|  | Administrator, Search and Information Resources Administration.
|  | Deputy Commissioner, Patent Operations.
| Examining Group Directors | Group Director (33).
| Office of the Commissioner for Trademarks | Deputy Commissioner, Trademark Operations.
|  | Group Director, Trademark Law Offices (2).
|  | Deputy Commissioner, Trademark Examination Policy.
| National Institute of Standards and Technology | Director, Law Enforcement Standards Office. Senior Information Technology Policy Advisor.
|  | Director, Center for Neutron Research.
|  | Chief of Staff.
|  | Deputy Director, Center for Neutron Research.
|  | Director, Center for Nano Scale Science and Technology.
|  | Director, Information Technology and Applications Office.
|  | Deputy Director, Building and Fire Research.
|  | Chief Facilities Management Officer.
|  | Chief Human Capital Officer.
|  | Deputy Director, Physical Measurement Laboratory.
|  | Director, Special Programs Office.
|  | Director, Smart Grid and Cyber-Physical Systems Program Office.
|  | Special Assistant, International Metrology.
|  | Director, Standards Coordination Office.
|  | Senior Advisor, Voting Standards.
|  | Associate Director, Laboratory Programs.
|  | Associate Director, Management Resources.
|  | Associate Director, Innovation and Industry Services.
|  | Senior Advisor, Cloud Computing.
|  | Boulder Laboratories Site Manager.
|  | Chief Safety Officer.
|  | Program Manager, Coordinated National Security Standards Program.
|  | Director, Technology Innovation Program.
|  | Chief Cybersecurity Advisor.
|  | Deputy Director, Center for Nano Scale Science and Technology.
| Office of the Director | Chief Information Officer.
|  | Chief Financial Officer.
|  | Senior Advisor, Interdisciplinary Technologies.
| Baldrige Performance Excellence Program | Director.
|  | Deputy Director, Office of Quality Programs.
| Manufacturing Extension Partnership Program | Director.
|  | Deputy Director.
| Electronics and Electrical Engineering Laboratory | Deputy Director, Measurement Services.
| Manufacturing Engineering Laboratory | Deputy Director, Manufacturing.
| Chemical Science and Technology Laboratory Office | Deputy Director, Chemical Scientist and Technology Laboratory.
|  | Director, Material Measurement Laboratory.
| Physics Laboratory Office | Deputy Director, Measurement Science.
|  | Director, Physical Measurement Laboratory.
| Electron and Optical Physics Division | Chief, Electron and Optical Physics Division.
| Building and Fire Research Laboratory | Chief, Fire Safety Engineering Division.
|  | Director, Engineering Laboratory.
| National Technical Information Service | Deputy Director.
| Information Technology Laboratory | Director.
|  | Deputy Director.
| Office of the Chief Financial Officer | Director, Office of Budget and Planning.
|  | Director, Acquisition and Grants Management.
DEPARTMENT OF COMMERCE—OFFICE OF THE INSPECTOR GENERAL | Immediate Office | Deputy Inspector General.
| Office of Audit and Evaluation | Principal Assistant Inspector General.
| Office of Economic and Statistical Program Assessment | Assistant Inspector General, Economic and Statistical Program Assessment.
| Office of Systems Acquisitions and IT Security | Assistant Inspector General, Systems Acquisitions and IT Security.
| Office of Audit | Assistant Inspector General, Audit.
| Office of Program Assessment | Assistant Inspector General, Administration.
| Office of Investigations | Principal Assistant Inspector General, Investigations and Whistleblower Protection.
| Office of Counsel | Counsel to the Inspector General.
CONSUMER PRODUCT SAFETY COMMISSION | Office of Executive Director | Assistant Executive Director, Compliance and Administrative Litigation.
|  | Director, Office of International Programs and Intergovernmental Affairs.
|  | Assistant Executive Director, Information and Tech Services.
| Office of Hazard Identification and Reduction | Deputy Assistant Executive Director, Hazard Identification and Reduction.
|  | Associate Executive Director, Engineering Sciences.
|  | Associate Executive Director, Economic Analysis.
|  | Assistant Executive Director, Hazard Identification and Reduction.
|  | Associate Executive Director, Epidemiology.
COURT SERVICES AND OFFENDER SUPERVISION AGENCY FOR THE DISTRICT OF COLUMBIA | Court Services and Offender Supervision Agency for the District of Columbia | Chief Financial Officer. Deputy Director. Attorney (General Counsel).
|  | Associate Director, Human Resources.
|  | Chief Financial Officer.
|  | Director.
|  | Associate Director, Special Criminal Justice Programs.
|  | Associate Director, Research and Evaluation.
|  | Associate Director, Legislative, Intergovernmental and Public Affairs.
|  | Associate Director, Community Justice Programs.
|  | Associate Director, Community Supervision.
|  | Chief Information Officer.
|  | Associate Director, Management and Administration.
| Pretrial Services Agency | Associate Director, Operations.
|  | Director.
|  | Deputy Director.
|  | Director, Finance and Administration.
OFFICE OF THE SECRETARY OF DEFENSE | Office of the Secretary | Assistant to the Secretary of Defense, Intelligence Oversight.
| Office of the Under Secretary of Defense (Policy) | Foreign Relations and Defense Policy Manager (Deputy Director, Defense Technology Security Administration.
|  | Deputy Assistant Secretary of Defense (Defense Continuity and Crisis Management).
|  | Foreign Relations and Defense Policy Manager/Defense Technology Security Administration.
| Office of the Assistant Secretary of Defense (Global Strategic Affairs) | Foreign Relations and Defense Policy Manager (Principal Director, Cyber Policy).
| Office of the Assistant Secretary of Defense (International Security Affairs) | Foreign Relations and Defense Policy Manager (Principal Director, Russia, Ukraine, Eurasia).
| Office of the Assistant Secretary of Defense (Special Operations/Low Intensity Conflict and Interdependent Capabilities) | Director, Resources.
| Director, Operational Test and Evaluation | Deputy Director, Live Fire Test and Evaluation.
| Office of the Inspector General | Principal Deputy Inspector General.
|  | General Counsel and Assistant Inspector General, Office of Legal Counsel.
|  | Principal Audit Inspector General, Auditing.
|  | Assistant Inspector General, Office of Communications and Congressional Liaison.
|  | Principal Deputy Assistant Inspector General, Defense Financial Auditing Service.
|  | Assistant Inspector General, Defense Financial Auditing Service.
|  | Deputy Director, Defense Criminal Investigative Service.
|  | Assistant Inspector General, Inspections and Evaluations.
|  | Assistant Inspector General, Investigative Policy and Oversight.
|  | Assistant Inspector General, Administration and Management.
|  | Assistant Inspector General, Acquisition and Contract Management.
|  | Deputy Inspector General, Investigations.
|  | Deputy Inspector General, Auditing.
|  | Assistant Inspector General, Administrative Investigations.
|  | Director, Defense Criminal Investigative Service—Assistant Inspector General, Investigations.
|  | Deputy Inspector General, Inspections and Policy and Oversight.
|  | Deputy Inspector General, Intelligence.
|  | Assistant Inspector General, Readiness and Operations Support.
|  | Assistant Inspector General, Audit Policy and Oversight.
| Office of the Under Secretary of Defense (Personnel and Readiness) | Chief of Staff.
| Office of the Assistant Secretary of Defense (Health Affairs) | General Counsel. Military Health System Chief Information Officer.
|  | Deputy Chief, Tricare Acquisitions Directorate.
|  | Regional Director, Tricare Regional Office—North.
|  | Regional Director, Tricare Regional Office—South.
| Office of the Assistant Secretary of Defense (Reserve Affairs) | Principal Director (Manpower and Personnel).
| Office of the Assistant Secretary of Defense (Public Affairs) | Director, Defense Media Activity. Director, Armed Forces Radio and Television Service.
| Office of the Under Secretary of Defense (Comptroller) | Deputy Director, Operation. Deputy Chief Financial Officer.
|  | Director, Program and Financial Control.
|  | Deputy Director, Program and Financial Control.
| Office of the Director of Administration and Management | Director, Department of Defense Central Adjudications Facility.
| Washington Headquarters Services | Director, Acquisition Directorate.
|  | Deputy Director, Human Resources Directorate.
|  | Director, Human Resources Directorate.
|  | Deputy Director, Defense Facilities Directorate.
| Pentagon Force Protection Agency | Principal Deputy Director, Pentagon Force Protection Agency.
|  | Director, Pentagon Force Protection Agency.
|  | Assistant Director, Law Enforcement.
| Office of the General Counsel | Director, Office of Litigation.
|  | Director, Defense Office of Hearings and Appeals.
| Office of the Department of Defense Chief Information Officer | Deputy Chief Information Officer (Information and Identity Assurance).
| Office of the Under Secretary of Defense (Acquisition, Technology and Logistics) | Principal Deputy, Acquisition Resources and Analysis.
|  | Deputy Director, Treaty Compliance and Homeland Defense.
|  | Deputy Director, Enterprise Information and OSD Studies.
|  | Director, Defense Procurement and Acquisition Policy.
|  | Director, Acquisition Resources and Analysis.
|  | Director, Environmental Readiness and Safety.
|  | Deputy Director, Resource Analysis.
|  | Director (Planning and Analysis).
|  | Director for Administration.
| Assistant Secretary of Defense (Acquisition) | Deputy Director, Program Acquisition and Strategic Sourcing.
|  | Assistant Deputy Under Secretary of Defense (Acquisition Process and Policies).
|  | Deputy Director, Developmental Test and Evaluation.
|  | Deputy Director, Air Warfare.
|  | Special Assistant, Concepts and Plans.
|  | Deputy Director, Naval Warfare.
|  | Deputy Director, Defense Acquisition Regulations System.
|  | Technical Director, Force Development.
|  | Deputy Director, Cost, Price and Finance.
|  | Deputy Director, Assessments and Support.
|  | Deputy Director, Land Warfare and Munitions.
|  | Deputy Director, Contract Policy and International Contracting.
| Assistant to the Secretary of Defense for Nuclear, Chemical and Biological Defense Programs | Deputy Assistant Secretary of Defense (Nuclear Matters).
| Office of the Director of Defense, Research and Engineering | Principal Deputy Assistant Secretary of Defense (Research and Engineering)/Director, Plans and Programs.
|  | Director, Human Performance, Training and Biosystems.
|  | Director, Information Technology.
|  | Director, Space and Sensor Technology.
|  | Director, Weapons Systems.
| Defense Advanced Research Projects Agency | Director, Support Services Office.
|  | Joint Applications Study Group Program Manager.
|  | Deputy Director, Advanced Technology Office.
|  | Deputy Director, Defense Advanced Research Projects Agency.
|  | Director, Tactical Technology Office.
|  | Director, Information Processing Technology Office.
|  | Director, Contracts Management Office.
|  | Deputy Director, Defense Advanced Research Project Agency.
| Office of the Joint Chiefs of Staff | Executive Director, Force Generation.
|  | Vice Deputy Director, Joint and Coalition Warfighting.
|  | Assistant Deputy Director, Command and Control.
|  | Executive Director, Joint Capabilities Development (Forward).
|  | Assistant Deputy Director, Synchronization and Integration.
|  | Vice Assistant Deputy Director, Joint Development.
| Missile Defense Agency | Deputy, Acquisition Management.
|  | Executive Director.
|  | Program Director, Multiple Kill Vehicle.
|  | Director, Advanced Technology.
|  | Program Director, Ground Missile Defense.
|  | Chief Engineer, Ground-Based Midcourse Defense.
|  | Program Director, Targets and Countermeasures.
|  | Director, Systems Engineering and Integration.
|  | Deputy Program Director, Battle Management, Command and Control.
|  | Director, Contracting.
|  | Deputy Director, Joint National Integration Center.
|  | Program Director, Battle Management, Command and Control.
|  | Program Director, Ground Missile Defense.
|  | Deputy Program Director, BC.
|  | Deputy Program Manager, Assessment and Integration, Ballistic Missile Defense System.
|  | Director, Acquisition.
|  | Deputy, Engineering.
| Defense Contract Audit Agency | Assistant Director, Policy and Plans.
|  | Assistant Director, Operations.
|  | Deputy Director, Defense Contract Audit Agency.
|  | Special Assistant.
|  | Deputy Regional Director, Western Region.
|  | Director, Defense Contract Audit Agency.
|  | Director, Field Detachment.
| Regional Managers | Assistant Director, Integrity and Quality Control.
|  | Deputy Regional Director, Mid-Atlantic Region.
|  | Deputy Regional Director, Central Region.
|  | Deputy Regional Director, Northeastern Region.
|  | Regional Director, Eastern Region.
|  | Regional Director, Mid-Atlantic Region.
|  | Regional Director, Western Region.
|  | Regional Director, Central Region.
|  | Regional Director, Northeastern Region.
|  | Deputy Regional Director, Eastern Region.
| Defense Logistics Agency | Chief of Staff.
|  | Deputy Director, Defense Logistics Agency Logistics Operations (J3).
|  | Program Executive Officer.
|  | Chief Financial Officer, Director, Defense Logistics Agency.
|  | Deputy Director, Information Operations/Chief Technical Officer.
|  | Executive Director, Material Policy, Process, and Assessment.
|  | Deputy Commander, Defense Logistics Agency, Land and Maritime.
|  | Deputy Commander, Defense Logistics Agency, Aviation.
|  | Deputy Commander, Defense Logistics Agency, Troop Support.
|  | Deputy General Counsel, Defense Logistics Agency.
|  | Vice Director, Defense Logistics Agency.
|  | Deputy Director, Defense Logistics Agency, Acquisition.
|  | Executive Director, Enterprise Solutions.
|  | Deputy Director, Defense Energy Support Center.
|  | Executive Director, BRAC Implementation.
|  | Deputy Director, Customer Operations and Readiness.
|  | Director, Defense Reutilization and Marketing Services.
|  | Director, Defense Energy Support Center.
|  | General Counsel.
|  | Director, Defense Logistics Agency, Human Resources.
|  | Director, Defense Logistics Agency, Information Operation.
|  | Director, Defense Logistics Agency Accountability Office.
|  | Executive Director, Aviation Contracting and Acquisition Management.
|  | Principal Deputy Comptroller.
|  | Deputy Commander, Defense Logistics Agency, Distribution.
| Defense Human Resources Activity | Deputy Director, Defense Manpower Data Center.
|  | Director, Human Resources Operational Programs and Advisory Services.
|  | Chief Actuary.
|  | Director, Defense Manpower Data Center.
|  | Deputy Director, Advisory Service.
| Defense Contract Management Agency | Director.
|  | Executive Director, Naval Sea Systems Division (Boston Division).
|  | Executive Director, Ground Systems and Munitions Division.
|  | Chief Operations Officer.
|  | Deputy Director.
|  | Deputy Executive Director, Contract Management Operations.
|  | General Counsel.
|  | Executive Director, Financial and Business Operations and Comptroller.
|  | DoD Defense Acquisition Regulations Counsel.
|  | Chief Information Officer.
|  | Executive Director, Contract Management Operations.
| Defense Information Systems Agency | Director, Manpower, Personnel and Security.
|  | Deputy Chief Financial Executive/Comptroller.
|  | Deputy Chief Technology Officer for Enterprise Services.
|  | Test and Evaluation Executive.
|  | Chief Information Assurance Executive and Program Executive Officer for Mission Assurance and Network Operations.
|  | Deputy Chief Technology Officer, Mission Assurance.
|  | Vice Director, Procurement/Vice Chief, Defense Information Technology Contracting Office.
|  | Vice Component Acquisition Executive.
|  | Chief, Corporate Planning and Mission Integration.
|  | Program Executive Officer, Communication.
|  | Chief Technology Officer.
|  | Vice Director, Network Services.
|  | Vice Chief Information Officer.
|  | Director, Network Services.
|  | Principal Director, Operations Director.
|  | Test and Evaluation Executive.
|  | Component Acquisition Executive.
|  | BRAC Transition Executive.
|  | Director, Procurement/Chief, Defense Information Technology Contracting Organization.
|  | Vice Director, Computing Services.
|  | Director, Enterprise Engineering.
|  | Chief Information Officer.
|  | Vice Principal Director, Operations.
|  | Director, Manpower, Personnel and Security.
|  | Chief Financial Executive/Comptroller.
|  | Chief Engineer, Information Systems Security.
|  | Congressional Liaison Officer.
|  | Inspector General.
|  | Director, Strategic Planning and Information.
|  | Principal Director, Computing Services.
|  | Vice Chief Information Assurance Executive.
| Defense Threat Reduction Agency | Director, Counter Weapons of Mass Destruction Technologies.
|  | Associate Director, Operations Enterprise.
|  | Associate Director, Strategy and Plans Enterprise.
|  | Executive Director.
|  | Director, Nuclear Technologies Directorate.
|  | Director, Counter Proliferation Support and Operations.
|  | Associate Director, Research and Development Enterprise.
|  | Chief, Simulation and Test Division.
|  | Director, Basic and Applied Sciences Directorate.
|  | Deputy Director, Operations Directorate.
|  | Director, On-Site Inspections Directorate.
|  | Director, Chemical-Biological Defense Technologies Directorate.
| Defense Security Cooperation Agency | Chief Information Officer/Principal Director, Information Technology.
|  | Foreign Relations Defense Policy Manager (Principal Director, Strategy).
DEPARTMENT OF THE AIR FORCE | Department of the Air Force | Director, Joint Staff and Assistant to Chief and Vice Chief, NGB.
|  | Special Assistant to the Deputy Chief of Staff, Operations, Plans and Requirements.
|  | DoD Liaison to the Department of the Interior.
|  | Director, Installations, Logistics and Mission Support.
|  | Director, Communications and Information.
| Office of the Secretary | Deputy Director, Legislative Liaison.
|  | Deputy and Technical Director, Rapid Capabilities Office.
|  | Director, Air Force Rapid Capabilities Office.
| Office of the Under Secretary | Deputy Under Secretary (Space Programs).
| Deputy Under Secretary (International Affairs) | Deputy Under Secretary (International Affairs).
|  | Director, Strategy, Operations and Resources.
|  | Director, Policy, International Affairs.
| Office of the Administrative Assistant to the Secretary | Administrative Assistant. Deputy Administrator Assistant.
|  | Director, Headquarters Air Force Information Management.
| Office of Small and Disadvantaged Business Utilization | Director, Office of Small and Disadvantaged Business Utilization.
| Office of Public Affairs | Deputy Director, Public Affairs.
| Auditor General | Assistant Auditor General, Field Offices Directorate.
|  | Auditor General of the Air Force.
| Air Force Audit Agency (Field Operating Agency) | Assistant Auditor General (Acquisition and Logistics Audits).
|  | Assistant Auditor General (Support and Personnel Audits).
|  | Assistant Auditor General (Financial and Systems Audits).
| Office of the Inspector General | Executive Director, OSI.
| Air Force Office of Special Investigations (Field Operating Agency) | Executive Director. Executive Director, Defense Cyber Crime Center (Defense Cyber Crime Center).
| Office of the General Counsel | Deputy General Counsel (International Affairs).
|  | Deputy General Counsel (Acquisition).
|  | Deputy General Counsel (Installations and Environmental Law).
|  | Principal Deputy General Counsel.
| Office of the Assistant Secretary of the Air Force for Financial Management and Comptroller | Chief Information Officer.
| Office of the Deputy Assistant Secretary, Budget | Director, Budget Investment. Associate Deputy Assistant Secretary, Budget.
|  | Director, Budget Management and Execution.
| Office of the Deputy Assistant Secretary, Cost and Economics | Associate Deputy Assistant Secretary, Cost and Economics.
|  | Deputy Assistant Secretary, Cost and Economics.
| Office of the Deputy Assistant Secretary, Financial Operations | Associate Deputy Assistant Secretary, Financial Operations.
|  | Deputy Assistant Secretary (Plans, Systems and Analysis).
| Office of the Assistant Secretary for Acquisition | Associate Deputy Assistant Secretary, Acquisition Integration.
|  | Director, Information Dominance Programs.
|  | Deputy Assistant Secretary, Science, Technology and Engineering.
|  | Program Executive Office, Space Launch.
|  | Director, Contracting (Special Access Programs).
|  | Deputy Air Force Program Executive Officer, Combat and Mission Support.
|  | Deputy Assistant Secretary, Acquisition Integration.
| Chief Information Office | Deputy Chief Information Officer.
| Office of the Deputy Assistant Secretary, Contracting | Associate Deputy Assistant Secretary, Contracting.
| Directorate of Space and Nuclear Deterrence | Associate Director, Nuclear Weapons and Counter Proliferation.
|  | Deputy Assistant Chief of Staff, Strategic Deterrence and Nuclear Integration.
| Office of the Assistant Secretary for Manpower and Reserve Affairs | Chief Financial Officer, Air Force Review Board Agency.
| Air Force Review Boards Agency, Field Operating Agency | Deputy for Air Force Review Boards.
| Office of the Assistant Secretary, Installations, Environment, and Logistics | Deputy Assistant Secretary, Energy.
|  | Deputy Assistant Secretary, Logistics.
| Air Force Base Conversion Agency (Field Operating Agency) | Director, Air Force Real Property Agency.
| Office of the Deputy Assistant Secretary, Installations | Deputy Assistant Secretary, Installations.
| Office of the Chief of Staff | Deputy Director, Staff.
|  | Director, Air Force History and Museums Policy and Programs.
| Office of Safety and Air Force Safety Center (Field Operating Agency) | Deputy Chief of Safety.
| Judge Advocate General | Director, Administrative Law.
| Test and Evaluation | Director, Test and Evaluation.
|  | Deputy Director, Test and Evaluation.
| Air Force Studies and Analyses Agency, Direct Reporting Unit (DRU) | Director, Air Force Studies and Analyses, Assessments and Lessons Learned.
|  | Principle Deputy Director, Studies and Analyses, Assessments and Lessons Learned.
| Deputy Chief of Staff, Warfighting Integration | Deputy Director, Information Services and Integration.
|  | Director, Architecture and Operational Support Modernization.
|  | Assistant Deputy Chief of Staff, Warfighting Integration.
| Deputy Chief of Staff, Installations and Logistics | Deputy Director, Security Forces. Assistant Deputy Chief of Staff, Installation and Logistics.
| Civil Engineer | Deputy Civil Engineer.
| Maintenance | Deputy Director, Logistics.
| Logistics Readiness | Associate Deputy Director, Logistics.
| Resources | Associate Deputy, Logistics.
|  | Director, Resource Integration.
| Air Force Center for Environmental Excellence (Field Operating Agency) | Director, Air Force Civil Engineer Center.
| Deputy Chief of Staff, Plans and Programs | Associate Director, Programs.
|  | Assistant Deputy Chief of Staff, Strategic Plans and Programs.
|  | Deputy Director, Strategic Planning.
| Deputy Chief of Staff, Personnel | Assistant Deputy Chief, Staff Personnel.
|  | Deputy Director, Force Management Policy.
|  | Director, Airman Development and Sustainment.
|  | Director, Plans and Integration.
|  | Deputy Director, Services.
|  | Deputy Director, Air Force Manpower, Organization and Resources.
|  | Deputy Director, Airman Development and Sustainment.
| Air Force Personnel Center (Field Operating Agency) | Executive Director, Air Force Personnel Center.
|  | Director, Civilian Force Integration.
| Deputy Chief of Staff for Air and Space Operations | Director, Irregular Warfare. Deputy, Operations.
|  | Deputy Director, Operational Planning, Policy and Strategy.
|  | Director, Weather.
|  | Associate Deputy Chief, Staff Operations, Plans and Requirements.
|  | Deputy Director, Operational Planning, Policy and Strategy.
| Deputy Chief of Staff for Intelligence, Surveillance and Reconnaissance | Director of Intelligence, Surveillance and Reconnaissance Innovations and Unmanned Aerial Systems Task Force.
| Air Force Operational Test and Evaluation Center (Direct Reporting Unit) | Executive Director, Air Force Operational Test and Evaluation Center.
| Air Force Material Command | Program Executive Officer, Business Enterprise Systems.
|  | Director, Propulsion.
|  | Director, Enterprise Sourcing Group.
|  | Executive Director, ARMC.
|  | Director, Financial Management.
|  | Executive Director, AFNWC.
|  | Director, Manpower, Personnel and Services.
|  | Executive Director, AFGLSC.
|  | Director, Communications, Installations and Mission Support.
|  | Program Executive Officer, Cyber-Netcentric Programs.
|  | Director, National Museum of the United States Air Force.
| Contracting | Director, Contracting, Air Force Material Command.
| Logistics | Deputy Director, Logistics, Air Force Material Command.
| Engineering and Technical Management | Director, Engineering and Technical Management, Air Force Material Command.
| Financial Management and Comptroller | Deputy Director, Financial Management and Comptroller, Air Force Material Command.
| Plans and Programs | Director, Acquisition, Intelligence and Requirements.
| Requirements | Deputy Director, Intelligence, Surveillance, Reconnaissance and Requirements.
| Operations Directorate | Deputy Director, Air, Space and Information Operations.
| Staff Judge Advocate | Principal Deputy Staff Judge Advocate.
| Air Force Material Command Law Office | Director, Air Force Material Command Law Office.
| Air Force Office of Scientific Research | Director, Air Force Office of Scientific Research.
|  | Director, Physics and Electronics Sciences.
| Electronic Systems Center | Executive Director, Electronic Systems Center.
|  | Director, Engineering and Technical Management, Electronic Systems Center.
|  | Program Executive Officer, Battle Management.
|  | Director, Contracting, Electronic Systems Center.
| Aeronautical Systems Center | Director of Engineering, Joint Strike Fighter.
|  | Executive Director, AFLCMC.
|  | Director, Contracting, Aeronautical Systems Center.
|  | Director Financial Management and Comptroller, Aeronautical Systems Center.
|  | Program Executive Officer, Agile Combat Support.
|  | Program Executive Officer, Mobility Aircraft.
| Engineering Directorate | Director, Engineering, AFLCMC.
| Air Force Research Laboratory | Executive Director, Air Force Research Laboratory.
|  | Director, Plans and Programs, Air Force Research Laboratory.
|  | Director, Human Performance Wing.
| Air Force Research Laboratory—Munitions Directorate | Director, Munitions, AAC.
| Information Directorate | Director, Information.
| Directed Energy Directorate | Director, Directed Energy.
| Materials and Manufacturing Directorate | Director, Materials and Manufacturing.
| Sensors Directorate | Director, Sensors.
| Human Effectiveness Directorate | Director, Human Effectiveness Directorate.
| Air Force Flight Test Center | Executive Director.
| Air Logistics Center, Oklahoma City | Director, 448th Combat Sustainment Wing.
|  | Executive Director, Air Force Flight Test Center.
|  | Director, Logistics, Air Force Flight Test Center.
|  | Director, Contracting, Oklahoma City—Air Logistics Center.
|  | Executive Director.
|  | Director, Engineering and Technical Management, Oklahoma City—Air Logistics Center.
| Air Logistics Center, Warner Robins | Director, Engineering and Technical Management.
|  | Executive Director.
|  | Director, Contracting.
| Air Logistics Center, Ogden | Director, Engineering and Technical Management.
|  | Director, Contracting.
|  | Executive Director.
| Air Armament Center | Director, Armament Systems Wing.
| Air Combat Command | Director, Acquisition Management and Integration Center.
|  | Director, Air Force Global Cyberspace Integration Center.
|  | Deputy Director of Logistics, ACC.
| Air Mobility Command | Deputy Director of Logistics, AMC.
|  | Deputy Director, Installations and Mission Support, AMC.
| Air Education and Training Command | Director, Logistics, Installations and Mission Support.
|  | Director, International Training and Education.
|  | Director, Center for Systems Engineering.
| Air Force Reserve Command | Director, Staff.
|  | Air Commander, 22nd Air Force.
|  | Director, Plans.
| United States Central Command | Deputy Director, Operations Interagency Action Group.
|  | Deputy Director, Logistics and Engineering.
|  | Director, Resources, Requirements, Budget and Assessment.
| Air Force Space Command | Executive Director.
|  | Director, Space Protection Program Office.
|  | Director, Installations and Logistics.
| United States Special Operations Command | Director and Chief Information Officer, Special Operations Networks and Communications Center.
|  | Director, Financial Management and Comptroller.
|  | Director, Interagency Task Force.
|  | President, Joint Special Operations University.
|  | Director, Plans, Policy and Strategy.
|  | Director, Acquisition.
|  | Deputy Director, Center for Special Operations Acquisition and Logistics.
| Air Force Special Operations Command | Director, Financial Management and Comptroller.
| Space and Missile Systems Center | Deputy Director and Chief Technical Advisor.
|  | Director, MIL SATCOM Systems Wing.
| United States Strategic Command | Special Command Advisor, Information Assurance and Cyber Security.
|  | Director, Command, Control, Command Computer Systems.
|  | Director, Global Innovation Strategy Center.
|  | Executive Director, Joint Warfare Analysis Center.
|  | Director, Capability and Resource Integration.
|  | Associate Director, Capability and Resource Integration.
|  | Deputy Director, Plans and Policy.
|  | Director, Joint Exercises and Training.
| United States Transportation Command | Director, Program Analysis and Financial Management.
|  | Executive Director, JECC.
|  | Deputy Director, Command, Control Communications and Computer Systems.
|  | Deputy Director, Strategies and Policy.
|  | Director, Acquisition.
| Joint Staff | Director, Joint Information Operations Warfare Center.
| United States Northern Command | Deputy Commander, Joint Forces Headquarters—National Capital Region.
|  | Director, Interagency Coordination.
|  | Director, Joint Exercises and Training.
|  | Director, Programs and Resources.
|  | Domestic Policy Advisor.
DEPARTMENT OF THE ARMY | Department of the Army | Joint PEO, Chemical and Biological Defense.
|  | Deputy Director, Operations (J3).
|  | Director, Capability Development Integration Directorate.
|  | Director, Partnering.
|  | Director, Forces, Resources and Assessments (J8).
|  | Deputy to the Commanding General, Army North.
|  | Assistant Deputy Chief of Staff (G-6).
|  | Deputy to the Commanding General, Family, Morale, Welfare and Recreation Command.
|  | Executive Director, U.S. Army Information Technology Agency.
|  | Deputy Program Executive Officer, Simulation, Training and Instrumentation.
|  | Deputy G-5/7, Operations and Plans.
|  | Executive Director, U.S. Army Headquarters Services.
|  | Deputy Program Executive Officer, Enterprise Information Systems.
|  | Director, Soldier and Family Legal Services.
|  | Director, Resource Integration.
|  | Deputy Program Executive Officer, Intelligence, Electronic Warfare and Sensors.
|  | Deputy Joint Program Executive Officer, Chemical and Biological Defense.
| Office of the Secretary | Superintendent, Arlington National Cemetery.
|  | Executive Director, Army National Cemeteries Program.
|  | Director, Test and Evaluation Office.
|  | Director, Human Capital Strategy/Deputy to Deputy Under Secretary of the Army.
| Office of the Under Secretary | Director, Business Transformation Directorate.
|  | Director, Business Assessment Directorate.
|  | Deputy Chief Management Officer.
|  | Deputy to the Deputy Under Secretary of the Army.
|  | Deputy Director, Office of Business Transformation, Office of the Under Secretary of the Army.
| Office of the Deputy Under Secretary (Operations Research) | Director, Civilian Senior Leader Management Office.
| Office of the Administrative Assistant to the Secretary of Army | Deputy Administrative Assistant to the Secretary of the Army/Director, Shared Services.
|  | Administrative Assistant to the Secretary of the Army.
| Office of the General Counsel | Deputy General Counsel, Ethics and Fiscal.
| Office of the Assistant to the Secretary of the Army (Civil Works) | Deputy Assistant Secretary of the Army, Management and Budget.
| Office of the Assistant to the Secretary of the Army (Financial Management and Comptroller) | Director, Investment. Deputy Assistant Secretary of the Army, Financial Operations. Director, Business Resources.
|  | Deputy Assistant Secretary of the Army, Cost and Economics.
|  | Director, Programs and Strategy.
|  | Deputy Director and Senior Advisor, Army Budget.
|  | Director, Financial Information Management.
|  | Director, Accountability and Audit Readiness.
|  | Director, Management and Control.
|  | Director, Investment.
|  | Director, Military Personnel and Facilities.
| Office of the Assistant Secretary of the Army (Installations and Environment) | Deputy Assistant Secretary of the Army (Strategic Infrastructure).
| Office of the Assistant Secretary of the Army (Manpower and Reserve Affairs) | Deputy Assistant Secretary of the Army, Marketing/Director, Army Marketing Research Group.
|  | Director, Strategic Initiatives Group.
|  | Deputy Assistant Secretary of the Army (Diversity and Leadership).
|  | Deputy Assistant Secretary of the Army (Force Management)/Director, Civilian Senior Leader Management Office.
|  | Deputy Assistant Secretary of the Army (Military Personnel).
|  | Deputy Assistant Secretary of the Army (Civilian Personnel/Quality of Life).
|  | Deputy Assistant Secretary of the Army (Army Review Boards Agency).
| Office of the Assistant Secretary of the Army (Acquisition, Logistics and Technology) | Program Executive Officer, Intelligence, Electronic Warfare and Sensors.
|  | Deputy Assistant Secretary for Research and Technology/Chief Scientist.
|  | Deputy Assistant Secretary of the Army (Policy and Procurement).
|  | Deputy Assistant Secretary of the Army, Plans, Programs and Resources.
|  | Director, Research and Laboratory Management.
|  | Director, Technology.
|  | Deputy Assistant Secretary of the Army (Elimination of Chemical Weapons).
|  | Director, U.S. Army Acquisition Support Center/Deputy Director, Acquisition Career Management.
|  | Program Executive Officer, Assembled Chemical Weapons Alternative.
|  | Executive Director, Acquisition Services, Assistant Secretary of the Army (Acquisition, Logistics and Technology).
|  | Deputy Assistant Secretary of the Army (Acquisition Policy and Logistics), Assistant Secretary of the Army (Acquisition, Logistics and Technology).
|  | Deputy Assistant Secretary of the Army for Services.
|  | Program Executive Office, Ground Combat Systems.
|  | Deputy Program Executive Officer, Ground Combat Systems.
|  | Director, Systems of Systems Engineering.
|  | Deputy Program Executive Officer, Missiles and Space (Fires).
| Army Acquisition Executive | Director, Combined Test Organization, Program Manager, Future Combat System (Brigade Combat Team).
|  | Program Executive Officer, Simulation, Training and Instrumentation.
|  | Deputy Program Executive Officer for Soldier.
|  | Deputy Program Executive Officer, Ammunition.
|  | Program Executive Officer, Enterprise Information Systems.
|  | Deputy Program Executive Officer, Combat Support and Combat Service Support.
|  | Deputy Program Executive Officer, Command Control and Communications Tactical.
| Army Contracting Agency | Director, Information Technology, Electronic Commerce and Contracting Center.
|  | Director, Northern Region.
|  | Director, Southern Region.
|  | Deputy Director.
| Office of the Inspector General | Principal Director, Inspections.
| Chief Information Officer/G-6 | Deputy Chief Information Officer/G-6.
|  | Director, Army Architecture Integration Cell.
|  | Director, Governance, Acquisition/Chief Knowledge Officer.
|  | Principal Deputy, Chief Information Officer/G-6 for Enterprise Integration.
| Office of the Chief of Public Affairs | Principal Deputy Chief of Public Affairs/Director, Soldiers Media Center.
| Army Audit Agency | Auditor General, U.S. Army.
|  | Principal Deputy Auditor General.
|  | Deputy Auditor General, Acquisition and Logistics Audits.
|  | Deputy Auditor General, Financial Management Audits.
|  | Deputy Auditor General, Manpower and Training Audits.
|  | Deputy Auditor General, Installation, Energy and Environment Audits.
| U.S. Army Test and Evaluation Command | Executive Director, Operational Test Command.
|  | Executive Director, White Sands.
|  | Director, Army Evaluation Center.
|  | Director, Ballistic Missile Evaluation Directorate, Army Evaluation Center.
| Office of the Chief of the Army Reserve | Assistant Chief, Army Reserve.
|  | Director, Resource Management.
| Office of the Assistant Chief of Staff for Installation Management | Regional Director (Atlantic). Regional Director (Central).
|  | Deputy Assistant Chief of Staff, Installation Management.
|  | Regional Director (Pacific).
|  | Regional Director (Europe).
|  | Regional Director (Northeast).
|  | Executive Director/Director of Services.
|  | Director, Installation Services.
|  | Director, Logistics.
|  | Regional Director (West).
|  | Chief Information Technology Officer (OACSIM/IMCOM).
| Office of the Deputy Chief of Staff , G-4 | Director, Maintenance Policy, Programs and Processes.
|  | Director, Resource Management.
|  | Director, Supply Policy, Programs and Processes.
|  | Director, Force Projection and Distribution.
|  | Director, Logistics Innovation Agency.
|  | Assistant Deputy Chief of Staff, G-4.
| Office of the Deputy Chief of Staff, G-8 | Director, Modernization.
|  | Director, Quadrennial Defense Review.
|  | Assistant Deputy Chief of Staff, G-8.
| Office of the Deputy Chief of Staff, G-3 | Director, Capabilities Integration Directorate.
|  | Deputy Director, Plans and Policy.
|  | Deputy Director, Training and Leader Development.
|  | Technical Advisor to the Deputy Chief of Staff, G-3.
|  | Assistant Deputy Chief of Staff, Operations.
|  | Deputy Director, Plans and Policy.
|  | Deputy Director, Force Management.
| Office of the Deputy Chief of Staff, G-1 | Director of Plans, Resources and Operations.
|  | Deputy Assistant G-1 (Civilian Personnel Policy).
|  | Director, United States Army Research Institute and Chief Psychologist.
|  | Assistant Deputy Chief of Staff, G-1.
|  | Assistant G-1 (Civilian Personnel Policy).
|  | Director, MANPRINT Directorate.
|  | Director, Military Human Resources Integration.
|  | Assistant Deputy Chief of Staff, G-1 (Advisory).
| Office of the Surgeon General | Chief of Staff, Health System Administration.
|  | Deputy Chief of Staff/Assistant Surgeon General, Force Management.
| United States Army, Medical Research and Material Command | Principal Assistant, Acquisition. Principal Assistant, Research and Technology.
| United States Army, Medical Department Center and School | Deputy to the Commanding General.
| United States Army, Space and Missile Defense Command | Deputy to the Commander and Senior Department of the Army Civilian, United States Army Space and Missile Defense Command/Army Forces Strategic Command.
|  | Director, Space and Cyberspace Technology Director.
|  | Chief Technology Officer.
|  | Director, Space and Missile Defense Battle Laboratory.
|  | Deputy to the Commander, Research, Development and Acquisition.
|  | Principal Assistant Responsible for Contracting.
|  | Director, Advanced Technology Directorate.
|  | Director, Technology Integration and Interoperability for Space and Missile Defense.
| United States Army, Training and Doctrine Command (TRADOC) | President, Army Logistics University. Deputy to the Commanding General, Combined Arms Center.
|  | Director, Capabilities Development and Integration.
|  | Deputy to the Commanding General, Signal Center of Excellence.
|  | Assistant Deputy Chief of Staff, Combat Development.
|  | Deputy Chief of Staff G-1/4, Personnel and Logistics.
|  | Deputy to the Commanding General, Combined Arms Support Command.
|  | Assistant Deputy Chief of Staff G-3/5/7, TRADOC/Department G-3 for Training.
|  | Deputy to the Commanding General Fires/Director, Capabilities, Development and Integration.
| Training and Doctrine Command Analysis Center | Director, Operations (2). Director.
| Military Surface Deployment Distribution Command | Executive Director, Transportation Engineering Agency/Director, Joint Distribution Process Analysis Center.
|  | Deputy to the Commander, Surface Deployment and Distribution Command.
| United States Army, Forces Command | Assistant Deputy Chief of Staff, G-3/5/7.
|  | Assistant Deputy Chief of Staff, G1.
|  | Assistant Deputy Chief of Staff, Logistics and Readiness.
|  | Deputy Chief of Staff, Resource Management.
|  | Chief Executive Officer.
| United States Army, Network Enterprise Technology Command/9th Army Signal Command | Deputy to Commander, Army Cyber Command/2nd Army. Deputy to Commander/Senior Technical Director/Chief Engineer.
|  | Deputy for Cyber Operations/Director, Operations.
| United States Army Corps of Engineers | Division Programs Director, Transatlantic Division.
|  | Director, Corporate Information.
|  | Division Programs Director (5).
|  | Director, Information Technology Laboratory.
|  | Chief, Military Programs Integration Division.
|  | Director, Research and Development and Director, Engineering Research and Development Center.
|  | Director, Contracting.
|  | Regional Business Director.
|  | Director, Human Resources.
|  | Director, Real Estate.
|  | Director, Resource Management.
|  | Regional Business Director, (Mississippi Valley Division).
| Directorate of Research and Development | Deputy Director.
| Directorate of Civil Works | Chief, Programs Management Division.
|  | Director, Civil Works.
|  | Chief, Planning and Policy Division/Community of Practice.
|  | Chief, Operations Division and Regulatory Community of Practice.
|  | Chief, Engineering and Construction Community of Practice.
| Directorate of Military Programs | Chief, Installation Support Division.
|  | Chief, Interagency and International Services Division.
|  | Director, Military Programs.
|  | Chief, Environmental Community of Practice.
| Directors of Programs Management | Division Programs Director (3).
| Directors of Engineering and Technical Services | Regional Business Director (6).
| Engineer Research and Development Center | Director, Geotechnical and Structures Laboratory.
|  | Director, Environmental Laboratory.
|  | Director, Coastal and Hydraulics Laboratory.
|  | Deputy Director, Engineer Research and Development Center.
| Engineer Topographic Laboratories, Center of Engineers | Director, Army Geospatial Center.
| Construction Engineering Research Laboratory, Champaign, Illinois | Director, Construction Engineering Research Laboratories.
| Cold Regions Research and Engineering Laboratory, Hanover, New Hampshire | Director, Cold Regions Research and Engineering Laboratory.
| United States Army, Material Command | Director, Engineering Plans and Programs.
|  | Deputy to the Commander/Deputy Director, Mission and Installation Command.
|  | Deputy to the Commander, United States Army Expeditionary Contracting Command.
|  | Executive Director, Munitions Engineering Technology Center, ARDEC.
|  | Director, Communications-Electronics Life Cycle Management Command Logistics and Readiness Center.
|  | Executive Director, Weapons and Software Engineer Center.
|  | Deputy Chief of Staff for Corporate Information/Chief Information Officer.
|  | Director, Chemical Materials Agency.
|  | Deputy Chief of Staff for Business Transformation, G-7.
|  | Assistant Deputy Chief of Staff G-4, Support Operations.
|  | Deputy G-3, Current Operations.
|  | Director, Contracting.
|  | Deputy to the Commanding General/Director, Logistics and Readiness Center.
| Office of the Deputy Chief of Staff for Logistics and Operations | Principal Deputy G-3, Operations/Executive Deputy, Supply Chain and Industrial Operations.
|  | Deputy Chief of Staff G-5, Strategy and Concepts.
|  | Deputy G-3, Enterprise Integration.
| Office of the Deputy Commanding General | Executive Deputy to the Commanding General.
| Office of the Deputy Chief of Staff for Personnel | Deputy Chief of Staff, Personnel.
| Office of the Deputy Chief of Staff for Resource Management | Deputy Chief of Staff, Resource Management. Assistant Deputy Chief of Staff, Resource Management, G-8/Executive Director, Business.
| United States Army, Contracting Command | Executive Director, Army Contracting Command—Redstone, Al.
|  | Executive Director, Army Contracting Command—National Capital Region.
| United States Army, Security Assistance Command | Deputy, U.S. Army Security Assistance Command.
| United States Army, Sustainment Command | Deputy to the Commander.
|  | Executive Director, Rock Island Contracting Center.
|  | Executive Director, Ammunition.
|  | Executive Director, Field Support.
|  | Executive Director, Log Cap.
| Natick Soldier Center | Director, Natick Soldier Research and Development Engineering Center.
| United States Army, Soldier and Biological Command | Technical Director. Director, Research and Technology Directorate.
|  | Executive Director, Research Development and Engineering Command, Acquisition Center.
|  | Director, Programs Integration.
|  | Director, Engineering Directorate.
| United States Army, Communications Election Command | Director, Communications Election Command Acquisition Center.
| Communications Electronics Command Research, Development and Engineering Center | Director, Night Vision/Electromagnetics Sensors Directorate. Director, Research, Development and Engineering/Army Systems Engineer.
|  | Director, Software Engineering Directorate.
|  | Director, Intelligence and Information Warfare Directorate.
|  | Director, Space and Terrestrial Committee Directorate.
|  | Director, Command and Control Directorate.
| United States Army, Research Laboratory | Director, Computational and Information Sciences Directorate.
|  | Director, United States Army Research Laboratory.
|  | Director, Human Dimension Simulations and Training Directorate.
| Survivability/Lethality Analysis Directorate | Director, Survivability/Lethality Analysis Directorate.
| Army Research Office | Director, Engineering Sciences Directorate.
|  | Director, Army Research Office.
| Sensors and Electron Devices Directorate | Director.
| Weapons and Material Research Directorate | Director, Weapons and Materials Research Directorate.
| United States Army, Aviation and Missile Command (Army Material Command) | Deputy to the Commander. Executive Director, Acquisition Center.
|  | Executive Director, Integrated Material Management Center.
|  | Executive Director, Aviation and Missile Command G-3 (Operations).
|  | Director, Test Measurement Diagnostic Equipment Activity.
|  | Director, Engineering.
| Missile Research Development and Engineering Center (Research Development and Engineering Center) | Director, Systems Simulation and Development. Director, Missile Guidance.
|  | Technology Director, Missiles and Development, Research, Development and Engineering Center.
|  | Associate Director, Aviation and Missile Systems.
|  | Director, Weapons Development and Integration.
|  | Director, Aviation Development.
| Aviation Research, Development and Engineering Center | Director, Aviation Engineering. Associate Director for Technical Applied/Director of Special Program.
| Research, Development and Engineering Command | Director for Army Research, Development and Engineering Command.
|  | Director, Research, Development and Engineering Command.
|  | Deputy to the Commander.
|  | Director, Communications-Electronics Research, Development and Engineering Center.
| Tank-Automotive and Armaments Command | Director of Acquisition Center.
|  | Deputy to the Commander.
|  | Executive Director, Integrated Logistics Support Center.
| Tank-Automotive Research, Development and Engineering Center | Executive Director for Product Development. Executive Director for Engineering.
|  | Director.
|  | Director, Research, Technology Development and Integration.
| United States Army, Armament Research, Development and Engineering Center | Director for Armament Research, Development and Engineering.
|  | Executive Director, Enterprise and Systems Integration Center.
| United States Army, Simulation, Training and Instrumentation Command | Deputy to the Commander.
| United States Army, Joint Munitions Command | Deputy to the Commander, Joint Munitions Command.
| United States Army, Material Systems Analysis Activity | Director, Army Material Systems Analysis Activity.
|  | Technical Director.
| Headquarters, United States Army, Europe | Director, European Security and Defense Policy Defense Advisor to U.S. Mission EU.
|  | Deputy Chief of Staff, G-8.
|  | Deputy Chief of Staff, G1.
| United States Army, Special Operations Command | Deputy to the Commanding General.
| United States Army, Military District of Washington | Director of Cemetery Operations.
| United States Army, Southern Command | Director, J8 (Resources and Assessments Directorate).
|  | Deputy Director, Strategy and Policy.
|  | Executive Director for Resources and Assessments.
|  | Director, Enterprise Support (ESD).
| United States Army, European Command | Deputy Director, Security Cooperation (Dj5).
|  | Director, Joint Interagency Coordination Group.
|  | Director, Interagency Partnering, (J9).
| United States Army, Africa Command | Director of Resources, United States Africa Command.
|  | Deputy Director of Resources (J1/J8).
|  | Director of Resources (J1/J8), Africom.
DEPARTMENT OF THE NAVY | Office of the Secretary | Director, Sexual Assault Prevention and Response.
|  | Chief Information Officer.
|  | Assistant for Administration.
|  | Director, Operations Directorate.
| Office of the Under Secretary of the Navy | Principal Director to the Under Secretary of the Navy for Plans, Policy, Oversight and Integration.
|  | Director, Operations Integration Group.
|  | Senior Director for Policy.
|  | Director, Small Business Programs.
|  | Principal Deputy Under Secretary of the Navy (Business Operations and Transformation).
|  | Senior Director for Security.
|  | Director, Operations Integration Group.
|  | Senior Director for Intelligence.
| Office of the Naval Inspector General | Deputy Naval Inspector General.
| Office of the Auditor General | Assistant Auditor General for Research, Development, Acquisition and Logistics Audits.
|  | Assistant Auditor General for Financial Management and Comptroller Audits.
|  | Auditor General of the Navy.
|  | Assistant Auditor General for Installation and Environment Audits.
|  | Assistant Auditor General for Manpower and Reserve Affairs Audits.
|  | Deputy Auditor General of the Navy.
| Office of the Assistant Secretary of the Navy (Manpower and Reserve Affairs) | Principal Deputy Assistant Secretary of the Navy (Manpower and Reserve Affairs).
|  | Deputy Assistant Secretary of the Navy (Reserve Affairs and Total Force Integration).
|  | Assistant General Counsel (Manpower and Reserve Affairs).
|  | Deputy Assistant Secretary of the Navy (Civilian Human Resources).
| Office of Civilian Human Resources | Director, Office of Civilian Human Resources.
|  | Director, Human Resources Policy and Program Department.
|  | Director, Human Resources Systems, Processes and Productivity.
|  | Director, Human Resources Operations and Customer Engagement.
| Office of the Assistant Secretary of the Navy (Energy, Installations and Environment) | Deputy Assistant Secretary of the Navy (Energy).
|  | Director, Joint Guam Program Office.
|  | Assistant General Counsel (Energy, Installations and Environment).
| Office Assistant Secretary of the Navy (Research, Development and Acquisition) | Chief of Staff/Policy. Principal Civilian Deputy Assistant Secretary of the Navy (Acquisition Workforce).
|  | Deputy for Test and Evaluation.
|  | Executive Director, Navy International Programs Office.
|  | Deputy Assistant Secretary of the Navy (Management and Budget).
|  | Director, Program Analysis and Business Transformation.
|  | Assistant General Counsel (Research, Development and Acquisition).
|  | Deputy for Test and Evaluation.
|  | Deputy Assistant Secretary of the Navy (Command, Control, Communications, Computers and Intelligence) Space).
|  | Executive Director, F-35, Joint Program Office.
|  | Deputy Assistant Secretary of the Navy (Ships).
| Program Executive Officers | Program Executive Officer (Enterprise Information Systems).
|  | Executive Director, Program Executive Office, Littoral Combat Ships.
|  | Deputy Program Executive Officer for Unmanned Aviation Programs.
|  | Director for Integrated Combat Systems for Integrated Warfare Systems.
|  | Director for Above Water Sensors Directorate.
|  | Program Executive Officer, Littoral and Mine Warfare.
|  | Executive Director, Combatants, Program Executive Officers Ships.
|  | Executive Director, Program Executive Officers for Aircraft Carriers.
|  | Deputy Program Executive Officers for Strike Weapons.
|  | Deputy Program Executive Officers for Tactical Air Programs.
|  | Executive Director, Program Executive Officers for Integrated Warfare Systems.
|  | Executive Director, Amphibious, Auxiliary and Sealift Ships, Program Executive Officers Ships.
|  | Executive Director, Program Executive Office Submarines.
|  | Deputy Program Executive Officers Air Assault and Special Mission.
|  | Program Executive Officer, Land Systems.
|  | Executive Director for Command, Control, Communications, Computers and Intelligence (C4i).
|  | Executive Director, Program Executive Office for Space Systems.
|  | Executive Director, Program Executive Officer for Enterprise Information Systems.
| Strategic Systems Programs | Head, Resources Branch (Comptroller) and Deputy Director, Plans and Program Division.
|  | Technical Plans and Payloads Integration Officer.
|  | Assistant for Systems Integration and Compatibility.
|  | Assistant for Missile Engineering Systems.
|  | Director, Integrated Nuclear Weapons Safety and Security/Director, Strategic Systems Programs.
|  | Chief Engineer.
|  | Counsel, Strategic Systems Programs.
|  | Branch Head, Reentry Systems Branch.
|  | Director, Plans and Programs Division.
|  | Assistant for Missile Production, Assembly and Operations.
|  | Assistant for Shipboard Systems.
| Office of the Assistant Secretary of Navy (Financial Management and Comptroller) | Assistant General Counsel (Financial Management and Comptroller).
|  | Director, Investment and Development Division.
|  | Director, Budget and Policy and Procedures Division.
|  | Deputy Assistant Secretary of the Navy for Financial Operations.
|  | Principal Deputy Assistant Secretary of the Navy (Financial Management and Comptroller).
|  | Director, Program/Budget Coordination Division.
|  | Deputy Assistant Secretary of the Navy for Cost and Economics.
|  | Deputy Director, Financial Operations.
|  | Associate Director, Office of Budget/Fiscal Management Division.
|  | Director, Civilian Resources and Business Affairs Division.
| Office of the General Counsel | Assistant General Counsel (Intelligence Law).
|  | Special Counsel for Litigation.
|  | Assistant General Counsel (Acquisition Integrity).
| Naval Criminal Investigative Service | Criminal Investigator, Executive Assistant Director for Global Operations.
|  | Criminal Investigator, Executive Assistant Director for Management and Administration.
|  | Criminal Investigator, Deputy Director, Naval Criminal Investigative Service.
|  | Criminal Investigator, Executive Assistant Director for Atlantic Operations.
|  | Criminal Investigator, Executive Assistant Director for Pacific Operations.
|  | Criminal Investigator, Director, Naval Criminal Investigative Service.
|  | Criminal Investigator, Executive Assistant Director for Criminal Operations.
| Chief of Naval Operations | Deputy Director, Program Division (N80b).
|  | Assistant Deputy Chief of Naval Operations, Warfare Systems.
|  | Head, Campaign Analysis Branch.
|  | Director, Naval History and Heritage Command.
|  | Technical Director, Oceanographer of the Navy.
|  | Assistant Deputy Chief of Naval Operations (Logistics).
|  | Assistant Deputy Chief of Naval Operations (Resources, Warfare Requirements and Assessments) N8B.
|  | Director, Special Programs Division.
|  | Financial Manager and Chief Resources Officer for Manpower, Personnel, Training and Education.
|  | Director, Logistics Planning and Innovation.
|  | Assistant Deputy Chief of Naval Operations for Information Dominance (N2/N6).
|  | Director, Strategic Sealift Division.
|  | Director, Assessment and Compliance (N2/N6bc).
|  | Assistant Deputy Chief of Naval Operations (Manpower, Personnel, Training and Education).
|  | Deputy Director, Environmental Readiness Division.
|  | Deputy Director for Strategy and Policy.
|  | Deputy Director, Afloat Readiness and Maintenance Division (N43).
|  | Director, Strategic Mobility and Combat Logistics Division.
|  | Director, Special Programs.
| Commander, Navy Installations Command | Deputy Regional Commander (Southeast).
|  | Deputy Regional Commander (Mid-Atlantic Region).
|  | Director, Total Force Manpower.
|  | Deputy Regional Commander (Mid-Atlantic).
|  | Comptroller.
|  | Counsel, Commander Navy Installations Command.
|  | Deputy Commander.
| Bureau of Medicine and Surgery | Comptroller/Deputy Chief of Staff for Resource Management.
|  | Director, Total Force.
| Military Sealift Command | Director, Contractor Operated Ships.
|  | Director, Government Operations NFAF and Special Mission Ships.
|  | Counsel, Military Sealift Command.
|  | Comptroller.
|  | Director, Military Sealift Command Manpower and Personnel.
|  | Executive Director.
| Naval Meteorology and Oceanography Communications, Stennis Space Center, Mississippi | Technical/Deputy Director.
| Office of Commander, United States Fleet Forces Command/Joint Forces Command | Deputy Director, Fleet Warfare Programs. Deputy Chief of Staff, Fleet Installation and Environment.
|  | Executive Director, Fleet Resources and Readiness Integration.
|  | Assistant Deputy Chief of Staff, Fleet Policy and Capabilities Requirements.
|  | Deputy Director, Force Certification.
|  | Deputy Chief of Staff, Personnel Development and Allocation.
|  | Deputy Director, Fleet Readiness and Training.
|  | Deputy for Naval Air and Missile Defense Command.
|  | Director, Fleet Manpower and Personnel.
|  | Chief of Staff.
|  | Deputy Director, Joint Operations and Global Force Management.
| Commander, Submarine Forces | Executive Director, Submarine Forces.
| Commander, Naval Expeditionary Combat Command | Executive Director, Navy Expeditionary Combat Command.
| Navy Cyber Forces | Deputy Commander, Navy Cyber Forces.
|  | Deputy Commander.
| Office of the Commander, United States Pacific Command | Chief Information Officer. Director for Forces Resources and Management.
|  | Director, Pacific Outreach Directorate.
| Office of the Commander, United States Pacific Fleet | Executive Director, Total Force Management.
|  | Executive Director, Pacific Fleet Plans and Policy.
|  | Deputy for Naval Mine and Anti-Submarine Warfare Command.
|  | Executive Director, Naval Air Forces.
|  | Executive Director, Naval Surface Forces.
|  | Executive Director, Fleet Warfare Requirements, Resources and Force Structure.
|  | Executive Director, Fleet Command, Control, Communications and Computer Systems and Command Information Officer.
|  | Deputy Chief of Staff for C4/CIO.
| Naval Air Systems Command Headquarters | Director, Systems Engineering Department.
|  | Director, Air Anti-Submarine Warfare, Assault and Special Mission Programs Contracts Department.
|  | Deputy Counsel, Office of Counsel.
|  | Director, Propulsion and Power.
|  | Director, Design Interface and Maintenance Planning.
|  | Director, Cost Estimating and Analysis.
|  | Principal Assistant for Air Warfare Acquisition Analysis and Planning.
|  | Assistant Commander, Corporate Operations and Total Force.
|  | Deputy Assistant Commander for Logistics and Industrial Operations.
|  | Deputy Commander, Naval Air Systems Command.
|  | Deputy Assistant Commander for Research and Engineering.
|  | Assistant Commander for Acquisition Processes and Execution.
|  | Director, Tactical Aircraft and Missiles Contracts Department.
|  | Director, Logistics Management Integration.
|  | Director, Air Vehicles and Unmanned Air Vehicles.
|  | Director, Avionics Department.
|  | Counsel, Naval Air Systems Command.
|  | Comptroller.
|  | Assistant Commander for Contracts.
|  | Command Information Officer.
|  | F-35 Joint Strike Fighter, Director of Logistics and Sustainment.
|  | Director, Cost Analysis Department.
|  | Director, Air Platform Systems.
|  | Director, Industrial Operations.
|  | Director, Strike Weapons, Unmanned Aviation, Naval Air Programs Contracts Department.
|  | Director, Aviation Readiness and Resource Analysis.
| Naval Air Warfare Center Aircraft Division | Director, Integrated Systems Evaluation Experimentation and Test Department.
|  | Director, Flight Test Engineering.
|  | Director, Aircraft Launch and Recovery Equipment/Support Equipment.
|  | Deputy Assistant Commander for Test and Evaluation/Executive Director Naval Air Warfare Center Aircraft Division/Director, Test and Evaluation NAWCAD.
|  | Director, Battlespace Simulation.
| Naval Air Warfare Center Weapons Division, China Lake, California | Director, Software Engineering. Director, Weapons and Energetics Department.
|  | Director, Electronic Warfare/Combat Systems.
|  | Director, Range Department.
|  | Executive Director, Naval Air Warfare Center Weapons Division/Director, Research Engineering.
| Naval Air Warfare Center Training Systems Division | Director, Human Systems Department.
| Space and Naval Warfare Systems Command | Director, Corporate Operations/Command Information Officer.
|  | Counsel, Space and Naval Warfare Systems Command.
|  | Director, Contracts.
|  | Comptroller, Business Resources Manager.
|  | Director, Readiness/Logistics Directorate.
|  | Executive Director, Fleet Readiness Directorate.
|  | Deputy Chief Engineer.
|  | Assistant Chief Engineer for Mission Engineering.
|  | Assistant Chief Engineer for Certification and Mission Assurance.
|  | Assistant Chief Engineer for Mission Architecture and Systems Engineering.
|  | Director, Corporate Operations/Command Information Officer.
|  | Deputy Commander.
| Space and Naval Warfare Systems Center | Head, Command and Control Department.
|  | Head, Research and Applied Sciences Department.
|  | Director, Science, Technology, and Engineering.
|  | Head, Communication and Information Systems Department.
|  | Head, Intelligence, Surveillance, and Reconnaissance and Information Operations Department.
|  | Executive Director.
| Space and Naval Warfare Systems Center, Charleston | Executive Director.
| Naval Facilities Engineering Command | Director of Environment.
|  | Executive Director.
|  | Director of Assets Management.
|  | Director, Public Works.
|  | Director, Special Venture Acquisition.
|  | Director of Contracts Support.
|  | Counsel, Naval Facilities Engineering Command.
|  | Director, Navy Crane Center.
|  | Program Manager, Base Realignment and Closure Management Office.
|  | Comptroller.
|  | Chief Engineer.
|  | Assistant Commander/Chief Management Officer.
| Naval Sea Systems Command | Executive Director, Undersea Warfare Directorate.
|  | Executive Director for Logistics Maintenance and Industrial Operations Directorate.
|  | Deputy Commander, Corporate Operations Directorate.
|  | Executive Director, Warfare Systems Engineering/Battle Force Systems Engineer.
|  | Deputy for Weapons Safety.
|  | Assistant Deputy Commander for Industrial Operations.
|  | Director, Shipbuilding Contracts Division.
|  | Director, Cost Engineering and Industrial Analysis.
|  | Director for Surface Ship Design and Systems Engineering.
|  | Director, Reactor Materials Division.
|  | Director for Contracts.
|  | Counsel, Naval Sea Systems Command.
|  | Executive Director, Surface Warfare Directorate.
|  | Executive Director.
|  | Director, Nuclear Components Division.
|  | Director, Undersea Systems Contracts Division.
|  | Head, Advanced Reactor Branch.
|  | Director for Machinery Systems.
|  | Director for Ship Survivability and Structural Integrity.
|  | Deputy Director for Advanced Submarine Reactor Servicing and Spent Fuel Management.
|  | Director for Aircraft Carrier Design and Systems Engineering.
|  | Executive Director, Ship Design, and Engineering Directorate.
|  | Deputy Counsel, Naval Sea Systems Command.
|  | Director, Surface Systems Contracts Division.
|  | Director, Fleet Readiness Division.
|  | Deputy Director, Advanced Aircraft Carrier System Division.
|  | Director of Radiological Controls.
|  | Assistant Deputy Commander, Maintenance, Modernization, Environment and Safety.
|  | Director for Advanced Undersea Integration.
|  | Deputy Commander/Comptroller.
|  | Director, Reactor Refueling Division.
|  | Deputy Commander, Human Systems Integration Directorate.
|  | Director, Office of Resource Management.
|  | Program Manager for Commissioned Submarines.
|  | Director for Submarine/Submersible Design and Systems Engineering.
|  | Director, Reactor Safety and Analysis Division.
|  | Director, Surface Ship Systems Division.
|  | Director, Reactor Plant Components and Auxiliary Equipment Division.
| Naval Shipyards | Naval Shipyard Nuclear Engineering and Planning Manager, Norfolk Naval Shipyard.
|  | Nuclear Engineering and Planning Manager; Portsmouth Naval Shipyard.
|  | Nuclear Engineering and Planning Manager; Pearl Harbor Naval Shipyard.
|  | Nuclear Engineering and Planning Manager, Puget Sound Naval Shipyard.
| Naval Surface Warfare Center | Technical Director.
| Naval Undersea Warfare Center | Division Technical Director, Naval Undersea Warfare Center.
|  | Technical Director.
| Naval Surface Warfare Center, Crane Division | Division Technical Director, Naval Surface Warfare Center, Crane Indiana.
| Naval Undersea Warfare Center Division, Keyport, Washington | Division Technical Director, Naval Undersea Warfare Center, Keyport Division.
| Naval Surface Warfare Center, Port Hueneme Division | Division Technical Director, Naval Surface Warfare Center Port Hueneme Division.
| Naval Surface Warfare Center, Corona Division | Division Technical Director, Naval Surface Warfare Center, Corona Division.
| Naval Surface Warfare Center, Indian Head Division | Division Technical Director, Naval Surface Warfare Center, Indian Head Division.
| Naval Surface Warfare Center, Carderock Division | Division Technical Director, Naval Surface Warfare Center, Carderock Division.
| Naval Surface Warfare Center, Dahlgren Division | Division Technical Director, Naval Surface Warfare Center Panama City Division.
|  | Division Technical Director, Naval Surface Warfare Center, Dahlgren Division.
| Naval Undersea Warfare Center Division, Newport, Rhode Island | Division Technical Director, NUWC Division Newport.
|  | Corporate Business Executive.
| Naval Supply Systems Command, Headquarters | Director, Defense Technology Analysis Office. Assistant Commander for Financial Management/Comptroller.
|  | Counsel, Naval Supply Systems Command.
|  | Deputy Commander, Corporate Operations.
|  | Executive Director, Office of Special Projects.
|  | Senior Acquisition Logistician/Enterprise Resource Planning Program Manager.
|  | Vice Commander.
|  | Deputy Commander, Acquisition, Naval Supply Systems Command.
| Fleet and Industrial Supply Centers | Vice Commander, Global Logistics Support.
| Weapon Systems Support | Vice Commander, NAVSUP Weapon Systems Support.
| United States Marine Corps, Headquarters Office | Deputy Counsel for the Commandant. Counsel for the Commandant.
|  | Assistant Deputy Commandant, Installations and Logistics (E-Business and Contracts).
|  | Director, Manpower Plans and Policy Division.
|  | Deputy Assistant Deputy Commandant, Installations and Logistics (Facilities).
|  | Director, Program Assessment and Evaluation Division.
|  | Assistant Deputy Commandant for Aviation (Sustainment).
|  | Assistant Deputy Commandant for Manpower and Reserve Affairs.
|  | Assistant Deputy Commandant for Programs and Resources.
|  | Assistant Deputy Commandant, Installations and Logistics.
|  | Assistant Deputy Commandant, Resources and Fiscal Director, Marine Corps.
|  | Assistant Deputy Commandant for Plans, Policies and Operations (Security).
| Marine Corps, Systems Command | Deputy Commander for Resource Management.
|  | Deputy Commander, Command, Control, Communications, Computer, Intelligence, Surveillance and Reconnaissance.
|  | Executive Director.
| Marine Corps, Logistics Command, Albany, Georgia | Executive Deputy, Marine Corps Logistics Command.
| Office of Naval Research | Director, Life Sciences Research Division.
|  | Director, Ship Systems and Engineering Division.
|  | Director for Aerospace Science Research Division.
|  | Director, Mathematical, Computer, and Information Sciences Division.
|  | Director, Ocean, Atmosphere and Space Science and Technology Processes and Prediction Division.
|  | Director, Undersea Weapons and Naval Materials Science and Technology Division.
|  | Director of Innovation.
|  | Head, Expeditionary Warfare and Combating Terrorism Science and Technology Department.
|  | Head, Air Warfare and Weapons Science and Technology Department.
|  | Patent Counsel of the Navy.
|  | Counsel, Office of Naval Research.
|  | Executive Director.
|  | Head, Warfighter Performance Science and Technology Department.
|  | Head, Command, Control, Communications, Intelligence, Surveillance, and Reconnaissance (C4isr) Science and Technology Department.
|  | Head, Ocean, Battlespace Sensing Science and Technology Department.
|  | Director of Transition.
|  | Director, Hybrid Complex Warfare Sciences Division.
|  | Head, Sea Warfare and Weapons Science and Technology Department.
|  | Executive Director for Acquisition Management.
|  | Comptroller.
|  | Director, Hybrid Complex Warfare Science and Technology Division.
|  | Director, Electronics, Sensors, and Networks Research Division.
| Naval Research Laboratory | Superintendent, Marine Geosciences Division.
|  | Superintendent, Oceanography Division.
|  | Superintendent, Spacecraft Engineering Department.
|  | Superintendent, Center for Bio-Molecular Science and Engineering.
|  | Superintendent, Space Sciences Division.
|  | Superintendent, Radar Division.
|  | Superintendent, Plasma Physics Division.
|  | Superintendent, Electronics Science and Technology Division.
|  | Superintendent, Remote Sensing Division.
|  | Superintendent, Marine Meteorology Division.
|  | Director of Research.
|  | Associate Director of Research for Material Science and Component Technology.
|  | Superintendent, Chemistry Division.
|  | Superintendent, Optical Sciences Division.
|  | Superintendent, Materials Science and Technology Division.
|  | Superintendent, Tactical Electronic Warfare Division.
|  | Associate Director of Research for Business Operations.
|  | Associate Director of Research for Ocean and Atmospheric Science and Technology.
|  | Associate Director of Research for Systems.
|  | Superintendent, Space Systems Development Department.
|  | Director, Naval Center for Space Technology.
|  | Superintendent, Acoustics Division.
|  | Superintendent, Material Science and Technology Division.
|  | Superintendent, Information Technology Division.
OFFICE OF THE SECRETARY OF DEFENSE—OFFICE OF THE INSPECTOR GENERAL | Office of the General Counsel Office of Communications and Congressional Liaison | General Counsel. Assistant Inspector General, Office of Communications and Congressional Liaison.
| Office of the Inspector General | Principal Deputy Inspector General.
| Deputy Inspector General for Auditing | Deputy Inspector General for Auditing.
| Office of the Principal Deputy Inspector General for Auditing | Principal Assistant Inspector General for Auditing.
| Acquisition and Contract Management | Assistant Inspector General for Acquisition and Contract Management.
| Payments and Accounting Operations | Assistant Inspector General for Payments and Accounting Operations.
| Financial Management and Reporting | Assistant Inspector General for Financial Management and Reporting.
| Readiness, Operations and Support | Assistant Inspector General for Readiness, Operations and Support.
| Deputy Inspector General for Investigations | Deputy Inspector General for Investigations.
| Defense Criminal Investigative Service | Assistant Inspector General for Investigations.
|  | Assistant Inspector General for Investigative Operations.
|  | Assistant Inspector General for International Operations.
| Deputy Inspector General for Policy and Oversight | Deputy Inspector General for Policy and Oversight.
| Audit Policy and Oversight | Assistant Inspector General for Audit Policy and Oversight.
| Investigative Policy and Oversight | Assistant Inspector General for Investigative Policy and Oversight.
| Deputy Inspector General for Intelligence and Special Program Assessments | Deputy Inspector General for Intelligence and Special Program Assessments.
| Office of Administration and Management | Assistant Inspector General for Administration and Management.
| Deputy Inspector General for Special Plans and Operations | Deputy Inspector General for Special Plans and Operations.
| Deputy Inspector General for Administrative Investigations | Deputy Inspector General Administrative Investigations.
DEFENSE NUCLEAR FACILITIES SAFETY BOARD | Defense Nuclear Facilities Safety Board | Group Lead for Nuclear Facility Design and Infrastructure.
|  | Technical Advisor for Engineering Studies.
|  | Deputy General Manager.
|  | Deputy General Counsel.
|  | Group Lead for Nuclear Materials Processing and Stabilization.
|  | Technical Director.
|  | Group Lead for Nuclear Weapon Programs.
|  | Group Lead for Nuclear Programs and Analysis.
|  | Deputy Technical Director.
DEPARTMENT OF EDUCATION | Office of the Chief Financial Officer | Director, Contracts and Acquisitions Management.
|  | Executive Assistant to the Chief Financial Officer.
|  | Deputy Chief Financial Officer.
|  | Director, Financial Improvement and Post Audit Operations.
| Office of the Chief Information Officer | Chief Information Officer.
| Office of Management | Chairperson, Education Appeal Board.
|  | Director, Human Resources Services.
| Office of the General Counsel | Assistant General Counsel for Postsecondary Education and Education Research Division.
|  | Assistant General Counsel for Business and Administration Law.
|  | Assistant General Counsel for Educational Equity.
| Office for Civil Rights | Deputy Assistant Secretary for Enforcement.
| Institute of Education Sciences | Associate Commissioner for Assessment.
| Federal Student Aid | Chief Financial Officer.
DEPARTMENT OF EDUCATION—OFFICE OF THE INSPECTOR GENERAL | Office of the Inspector General | Deputy Assistant Inspector General for Investigation Services.
|  | Deputy Assistant Inspector General for Audit Services.
|  | Assistant Inspector General for Evaluation, Inspection and Management Services.
|  | Counsel to the Inspector General.
|  | Assistant Inspector General for Investigative Services.
|  | Assistant Inspector General for Audit Services.
|  | Assistant Inspector General for Information Technology Audits and Computer Crime Investigations.
DEPARTMENT OF ENERGY | Department of Energy | Assistant Manager for Science.
|  | Associate Chief Information Officer for Operations.
| Loan Programs Office | Director for Portfolio Management.
|  | Director for Portfolio Management Division.
| National Nuclear Security Administration | Director of Congressional Intergovernmental and Public Affairs.
|  | Chief of Defense Nuclear Counterintelligence.
| Associate Administrator for Acquisition and Project Management | Director, Office of Acquisition and Supply Management.
| Office of Management and Budget | Director, Diskless Workstation Task Force Office.
|  | Director, Office of Field Financial Management.
| Deputy Administrator for Defense Programs | Senior Advisor for Complex 2030 Implementation.
|  | Deputy Manager, Technical Programs.
|  | Manager, Nevada Site Office.
|  | Manager, Livermore Site Office.
|  | Manager, Sandia Site Office.
|  | Manager, Savannah River Site Office.
|  | Deputy Manager, Pantex Site Office.
|  | Principal Assistant Deputy Administrator for Defense Program.
| Deputy Administrator for Naval Reactors | Director, Advanced Submarine Systems Division.
|  | Deputy Director for Naval Reactors.
|  | Director, Regulatory Affairs.
|  | Director, Instrumentation and Control Division.
|  | Program Manager for Surface Ship Nuclear Propulsion.
|  | Senior Naval Reactors Representative.
|  | Senior Naval Reactors Representative (Puget Sound Naval Ship.
|  | Senior Naval Reactors Representative (Yokosuka, Japan).
|  | Deputy Director, Nuclear Technology Division.
|  | Manager, Naval Reactors Laboratory Field Office.
| Office of Infrastructure and Environment | Director, Office of Infrastructure and Environment.
| Office of Defense Nuclear Security | Director, Office of Nuclear Materials Integration.
| National Nuclear Security Administration, Field Site Offices | Chief Counsel.
| Office of Security | Deputy Director, Office of Security Affairs.
| Office of the Chief Information Officer | Associate Chief Information Officer for IT Support Services.
|  | Chief Information Officer.
|  | Associate Chief Information Officer for Cyber Security.
|  | Associate Chief Information Officer for Energy IT Services.
|  | Deputy Chief Information Officer.
| Office of Human Capital Management | Director, Human Capital Management Strategic Planning and Vision.
|  | Director, Office of Headquarters and Executive Personnel Services.
| Office of Management | Director, Project Management Systems and Assessments.
|  | Director, Office of Administration.
|  | Deputy Director, Office of Management, Budget and Evaluation/Deputy Chief Finance Officer.
| Office of the Chief Financial Officer | Deputy Chief Financial Officer (2).
|  | Director, Office of Budget.
|  | Director, Financial Policy.
| Office of Electricity Delivery and Energy Reliability | Deputy Assistant Secretary for Permitting, Siting and Analysis.
|  | Director, Office of Energy Assurance.
| Office of Independent Oversight and Performance Assurance | Director, Office of Security Oversight.
| Office of Safeguards and Security Evaluations | Deputy Director, Office of Independent Oversight and Performance.
| Office of Security and Safety Performance Assurance | Deputy Director, Office of Headquarters Security Operations.
|  | Director, Office of Safeguards and Security Training.
|  | Director, Office of Headquarters Security Operations.
|  | Director, Office of Independent Oversight and Performance.
|  | Director, Office of Safeguards and Security Evaluations.
|  | Director, Office of Security and Safety Performance.
| Office of Economic Impact and Diversity | Deputy Chief Human Capital Officer.
| Assistant Secretary for Energy Efficiency and Renewable Energy | Manager, Golden Field Office. Program Manager (2).
|  | Director, Regional Office and Deployment Operations.
|  | Deputy Manager, Golden Field Office.
|  | Program Manager, Office of Geothermal Technologies Program.
| Assistant Secretary for Environment, Safety and Health | Director, Office of Nuclear Safety, Policy and Standards.
|  | Director, Office of Regulatory Liaison.
| Energy Information Administration | Director, Coal, Nuclear and Renewables Division.
|  | Director, Coal and Electric Power Division.
|  | Director, Office of Oil and Gas.
|  | Director, Energy Markets and Contingency Information Division.
|  | Director, Natural Gas Division.
|  | Director, Petroleum Division.
|  | Director, Electrical Power Division.
|  | Director, Office of Integration Analysis and Forecasting.
|  | Director, Office of Integrated and International Energy Analysis.
|  | Director, Office of Petroleum Gas and Biofuels Analysis.
|  | Director, Electric Power Division.
|  | Director, Office of Petroleum and Biofuels Statistics.
|  | Director, Office of Oil, Gas and Coal Supply Statistics.
|  | Director, Office of Electricity, Coal Nuclear and Renewables.
|  | Assistant Administrator for Energy Analysis.
|  | Assistant Administrator for Resources and Technology Management.
|  | Assistant Administrator for Communications.
| Office of Environmental Management | Science Advisor.
|  | Director, Office of International Cooperation.
|  | Director, Office of Safeguard and Security/Emergency Management.
| Environmental Management, Consolidated Business Center | Deputy Manager.
| Office of Science | Director, Facilities Division.
|  | Director, High Energy Physics Division.
|  | Site Office Manager, Fermi.
|  | Director, Health Effects and Life Scientist Research Division.
|  | Director, Financial Management Division.
|  | Associate Director, Office of Resource Management.
| Office of Fossil Energy | Director, Materials Partnerships Research Center.
| Albuquerque Operations Office | Director, Transportation Safeguards Division.
|  | Carlsbad Area Office Manager.
|  | Assistant Manager for Management and Administration.
|  | Director, Weapons Programs Division.
| Chicago Operations Office | Director, New Brunswick Laboratory.
|  | Assistant Manager, Acquisition and Assistance.
|  | Deputy Manager, Chicago Office.
| Idaho Operations Office | Chief Financial Officer/Chief Operating Officer.
| Ohio Field Office | Deputy Manager, Ohio Field Office.
|  | Manager, Ohio Field Office.
| Oakland Operations Office | Associate Manager for Site Management.
| Oak Ridge Operations Office | Chief Financial Officer.
|  | Assistant Manager for Administration.
| Rocky Flats Office | Assistant Manager for Administration and Transition.
| Office of General Counsel | Assistant General Counsel for General Law.
| Office of Hearings and Appeals | Deputy Director for Financial Analysis.
|  | Director, Hearings Appeals.
|  | Deputy Director for Economic Analysis.
|  | Deputy Director for Legal Analysis.
| Office of Inspector General | Counsel to the Inspector General.
|  | Assistant Inspector General for Investigations.
| Office of Nuclear Energy | Director, Office of Light Water Reactor Deployment.
|  | Associate Director for Nuclear Facilities Management.
| Office of Assistant Secretary for Policy and International Affairs | Director, Office of Energy Consumption and Energy Efficiency Analysis.
| Western Area Power Administration | Chief Operating Officer.
|  | Transmission Infrastructure Program Manager.
|  | Transmission Infrastructure Program Manager.
|  | Chief Financial Officer.
DEPARTMENT OF ENERGY—OFFICE OF THE INSPECTOR GENERAL | Department of Energy—Office of the Inspector General | Assistant Inspector General for Investigations. Assistant Inspector General for Financial, Technology and Corporate Audits.
|  | Director, Central Audits Division.
|  | Assistant Inspector General for Audits.
|  | Director, Environment Technology Corporate and Financial Audits Division.
|  | Deputy Inspector General for Investigations.
|  | Director, National Nuclear Security Administration and Science Audits Division.
|  | Deputy Inspector General for Audits and Inspections.
|  | Assistant Inspector General for Inspections.
|  | Deputy Inspector General, Management and Administration.
|  | Counsel to the Inspector General.
|  | Deputy Inspector General for Investigations and Inspections.
ENVIRONMENTAL PROTECTION AGENCY | Environmental Appeals Board | Environmental Appeals Judge(4).
| Office of Homeland Security | Director, Office of Homeland Security.
| Office of Executive Support | Director, Office of Executive Services.
| Office of the Chief Financial Officer | Deputy Chief Financial Officer.
|  | Associate Chief Financial Officer.
|  | Senior Advisor.
| Office of Planning, Analysis and Accountability | Director, Office of Planning, Analysis and Accountability.
| Center for Environmental Finance | Director, Center for Environmental Finance.
| Office of Budget | Director, Office of Budget.
| Office of Financial Management | Director, Office of Financial Management.
| Office of Financial Services | Director, Office of Financial Services.
| Office of Technology Solutions | Director, Office of Technology Solutions.
| Office of Environmental Information | Director, Enterprise Information Technology Systems.
| Office of Technology Operations and Planning | Director, National Computer Center.
| Office of the Assistant Administrator for Administration and Resources Management | Senior Policy Advisor. Deputy Assistant Administrator for Administration and Resources Management.
| Office of Policy and Resource Management | Director, Office of Policy and Resource Management.
| Office of Administration | Deputy Director, Office of Administration.
|  | Director, Office of Administration.
|  | Director, Facilities Management and Services Division.
|  | Director, Safety, Health and Environmental Management Division.
| Office of Human Resources | Deputy Director, Office of Human Resources.
|  | Director, Office of Human Resources.
|  | Director, Executive Resources Division.
| Office of Acquisition Management | Director, Superfund/Resource Conservation and Recovery Act Regional Procurement Operations Division.
|  | Director, Office of Acquisition Management.
|  | Deputy Director, Office of Acquisition Management.
| Office of Grants and Debarment | Director, Grants Administration Division.
|  | Director, Office of Grants and Debarment.
|  | Deputy Director, Office of Grants and Debarment.
| Office of Administration and Resources Management, Cincinnati, Ohio | Director, Office of Administration and Resources Management.
| Office of Administration and Resources Management, Research Triangle Park, North Carolina | Director, Office of Administration and Resources Management.
| Federal Facilities Enforcement Office | Director, Federal Facilities Enforcement Office.
| Office of Environmental Justice | Director, Office of Environmental Justice.
| Office of Compliance | Director, Monitoring Assistance and Media Programs Division.
|  | Director, Enforcement Targeting and Data Division.
|  | Director, National Enforcement Training Institute.
|  | Director, Office of Compliance.
|  | Deputy Director, Office of Compliance.
| Office of Criminal Enforcement, Forensics and Training | Director, National Enforcement Investigations Center.
|  | Director, Criminal Investigation Division.
|  | Deputy Director, Office of Criminal Enforcement, Forensics Training.
|  | Director, Office of Criminal Enforcement, Forensics and Training.
|  | Assistant Director, Office of Criminal Enforcement, Forensics and Training.
| Office of Federal Activities | Director, International Compliance Assurance Division.
| Office of Civil Enforcement | Director, Air Enforcement Division.
|  | Director, Office of Civil Enforcement.
|  | Deputy Director, Office of Civil Enforcement.
| Office of Site Remediation Enforcement | Director, Office of Site Remediation Enforcement.
|  | Deputy Director, Office of Site Remediation Enforcement.
| Office of Deputy General Counsel | Director, Resources Management Office.
| Office of the Inspector General | Counsel to the Inspector General.
|  | Deputy Inspector General.
| Office of Audit | Assistant Inspector General for Audits.
| Office of Investigations | Assistant Inspector General for Investigations.
| Office of Program Evaluation | Assistant Inspector General for Program Evaluation.
| Office of Human Capital | Assistant Inspector General for Human Capital.
| Office of Mission Systems | Assistant Inspector General for Mission Systems.
| Office of Planning, Analysis and Results | Assistant Inspector General for Planning, Analysis and Results.
| Office of Congressional and Public Liaison | Assistant Inspector General for Congressional and Public Liaison.
| Office of Ground Water and Drinking Water | Director, Drinking Water Protection Division.
|  | Director, Standards and Risk Management Division.
| Office of Science and Technology | Director, Standards and Health Protection.
|  | Director, Health and Ecological Criteria Division.
|  | Director, Engineering and Analysis Division.
| Office of Waste Water Management | Director, Municipal Support Division.
|  | Director, Water Permits Division.
| Office of Wetlands, Oceans and Watersheds | Director, Oceans and Coastal Protection Division.
|  | Director, Assessment and Watershed Protection Division.
|  | Director, Wetlands Division.
| Office of the Assistant Administrator for Solid Waste and Emergency Response | Director, Land Revitalization Staff.
| Office of Superfund Remediation and Technology Innovation | Director, Assessment and Remediation Division.
|  | Director, Technology Innovation and Field Services Division.
|  | Director, Resources Management Division.
| Office of Resource Conservation and Recovery | Director, Resource Conservation and Sustainability Division.
|  | Director, Program Implementation and Information Division.
|  | Director, Materials Recovery and Waste Management Division.
| Office of the Assistant Administrator for Air and Radiation | Senior Policy Advisor (Agriculture).
|  | Director, Office of Policy Analysis and Review.
|  | Senior Advisor.
| Office of Air Quality Planning and Standards | Director, Sector Policies and Programs Division.
|  | Director, Health and Environmental Impacts Division.
|  | Director, Air Quality Policy Division.
|  | Deputy Director, Office of Air Quality Planning and Standards.
|  | Director, Outreach and Information Division.
|  | Director, Air Quality Assessment Division.
|  | Associate Office Director for Program Integration and International Air Quality Issues.
| Office of Transportation and Air Quality | Director, National Center for Advanced Technology.
|  | Director, Compliance Division.
|  | Director, Assessment and Standards Division.
|  | Director, Transportation and Climate Division.
|  | Director, Testing and Advanced Technology Division.
| Office of Radiation and Indoor Air | Director, Indoor Environments Division.
|  | Director, Radiation Protection Division.
|  | Deputy Director, Office of Radiation and Indoor Air.
| Office of Atmospheric Programs | Director, Climate Change Division.
|  | Director, Clean Air Markets Division.
|  | Director, Climate Protection Partnership Division.
| Office of Program Management Operations | Associate Assistant Administrator (Management).
| Office of Pesticide Programs | Director, Environmental Fate and Effects Division.
|  | Director, Special Review and Reregistration Division.
|  | Director, Health Effects Division.
|  | Director, Information Technology and Resources Management Division.
|  | Director, Field and External Affairs Division.
|  | Director, Antimicrobials Division.
|  | Director, Biopesticides and Pollution Prevention Division.
|  | Director, Registration Division.
|  | Director, Biological and Economic Analysis Division.
| Office of Pollution Prevention and Toxics | Director, Environmental Assistance Division.
|  | Director, Economics Exposure and Technology Division.
|  | Director, Information Management Division.
|  | Director, Chemical Control Division.
|  | Director, Pollution Prevention Division.
|  | Director, National Program Chemicals Division.
|  | Director, Risk Assessment Division.
| Office of the Assistant Administrator for Research and Development | Director, Environmental Technology Innovation Cluster Program.
|  | Chief Innovation Officer.
|  | Director for Ecology.
|  | Director, Office of Scientific Information Management.
| National Homeland Security Research Center | Director, National Homeland Security Research Center.
|  | Deputy Director for Management, National Homeland Security Research Center.
| Office of Program Accountability and Resource Management | Director, Office of Program Accountability and Resource Management.
|  | Director, Office of Resources Management and Administration.
| National Health and Environmental Effects Research Laboratory | Associate Director for Ecology. Associate Director for Health.
|  | Director, National Health and Environmental Effects Research Laboratory.
|  | Deputy Director for Management.
| Atlantic Ecology Division | Director, Atlantic Ecology Division.
| Western Ecology Division | Director, Western Ecology Division.
| Gulf Ecology Division | Director, Gulf Ecology Division.
| Mid-Continent Ecology Division | Director, Mid-Continent Ecology Division.
| Human Studies Division | Director, Human Studies Division.
| National Exposure Research Laboratory | Director, Microbiological and Chemical Assessment Research Division.
|  | Deputy Director for Management.
|  | Director, National Exposure Research Laboratory.
| Environmental Sciences Division | Director, Environmental Sciences Division.
| Ecosystems Research Division | Director, Ecosystems Research Division.
| Human Exposure and Atmospheric Sciences Division | Director, Human Exposure and Atmospheric Science Division.
| National Risk Management Research Laboratory | Deputy Director for Management. Director, National Risk Management Research Laboratory.
| Air Pollution Prevention and Control Division | Director, Air Pollution Prevention and Control Division.
| Ground Water Ecosystems Restoration Division | Director, Ground Water Ecosystems Restoration Division.
| Water Supply and Water Resources Division | Director, Water Supply and Water Resources Division.
| National Center for Environmental Assessment | Associate Director for Ecology. Director, National Center for Environmental Assessment.
|  | Deputy Director for Management.
| National Center for Environmental Assessment, Washington, DC | Director, National Center for Environmental Assessment.
| National Center for Environmental Assessment, Research Triangle Park, North Carolina | Director, National Center for Environmental Assessment.
| National Center for Environmental Assessment, Cincinnati, Ohio | Director, National Center for Environmental Assessment.
| National Center for Environmental Research | Director, National Center for Environmental Research.
|  | Deputy Director for Management.
| Office of Administrative and Research Support | Director, Office of Administrative and Research Support.
|  | Deputy Director, Office of Administrative and Research Support.
| Region 1, Boston, Massachusetts | Director, Office of Site Remediation Restoration.
|  | Director, Office of Ecosystem Protection.
|  | Director, Office of Environmental Stewardship.
|  | Assistant Regional Administrator for Administration and Resources Management.
| Office of Regional Counsel | Regional Counsel.
| Region 2, New York, New York | Director, Environmental Science and Assessment Division.
|  | Assistant Regional Administrator for Policy and Management.
|  | Director, Environmental Planning and Protection Division.
|  | Director, Caribbean Environmental Protection Division.
|  | Director, Clean Air and Sustainability Division.
|  | Director, Enforcement and Compliance Assistance Division.
|  | Director, Office of Emergency and Remedial Response.
| Office of Regional Counsel | Regional Counsel.
| Region 3, Philadelphia, Pennsylvania | Director, Hazardous Site Cleanup Division.
|  | Director, Water Protection Division.
|  | Assistant Regional Administrator for Policy and Management.
|  | Director, Chesapeake Bay Program Office.
|  | Director, Land and Chemicals Division.
|  | Director, Air Protection Division.
|  | Director, Environmental Assessment and Innovation Division.
| Office of Regional Counsel | Regional Counsel.
| Region 4, Atlanta, Georgia | Director, Air, Pesticides and Toxics Management Division.
|  | Director, Science and Ecosystem Support Division.
|  | Director, Water Management Division.
|  | Director, Superfund Division.
|  | Director, Gulf of Mexico Program.
|  | Assistant Regional Administrator for Policy and Management.
|  | Director, Resource Conservation and Recovery Act Division.
| Office of Regional Counsel | Regional Counsel.
| Region 5, Chicago, Illinois | Director, Water Division.
|  | Director, Air and Radiation Division.
|  | Director, Land and Chemicals Division.
|  | Director, Great Lakes National Program Office.
|  | Director, Superfund Division.
|  | Assistant Regional Administrator for Resources Management.
| Office of Regional Counsel | Regional Counsel.
| Region 6, Dallas, Texas | Director, Multimedia Planning and Permitting Division.
|  | Director, Compliance Assurance and Enforcement Division.
|  | Assistant Regional Administrator for Management.
|  | Director, Superfund Division.
|  | Director, Water Quality Protection Division.
| Office of Regional Counsel | Regional Counsel.
| Region 7, Kansas City, Kansas | Director, Superfund Division.
|  | Director, Air, Resource Conversation and Recovery Act and Toxics Division.
|  | Director, Water, Wetlands and Pesticides Division.
|  | Assistant Regional Administrator for Policy and Management.
|  | Director, Environmental Services Division.
| Office of Regional Counsel | Regional Counsel.
| Region 8, Denver, Colorado | Assistant Regional Administrator for Technical and Management Services.
|  | Assistant Regional Administrator for Partnerships and Regulatory Assistance.
|  | Assistant Regional Administrator for Ecosystems Protection and Remediation.
| Office of Regional Counsel | Regional Counsel.
| Region 9, San Francisco, California | Director, Office of Public Affairs.
|  | Director, Waste Management Division.
|  | Director, Air Division.
|  | Assistant Regional Administrator for Management and Technical Services.
|  | Director, Superfund Division.
|  | Director, Cross Media Division.
|  | Director, Water Division.
| Office of Regional Counsel | Regional Counsel.
| Region 10, Seattle, Washington | Senior Advisor.
|  | Director, Office of Environmental Cleanup.
|  | Director, Office of Ecosystems, Tribal and Public Affairs.
|  | Director, Office of Water and Watersheds.
|  | Assistant Regional Administrator for Management Programs.
|  | Director, Office of Compliance and Enforcement.
|  | Director, Office of Air, Waste and Toxics.
| Office of Regional Counsel | Regional Counsel.
ENVIRONMENTAL PROTECTION AGENCY—OFFICE OF THE INSPECTOR GENERAL | Environmental Protection Agency—Office of the Inspector General | Chief of Staff. Assistant Inspector General for Homeland Security and Customer Liaison.
|  | Assistant Inspector General for Mission Systems.
|  | Assistant Inspector General for Program Evaluations.
|  | Assistant Inspector General for Investigations.
|  | Assistant Inspector General for Audits.
|  | Counsel to the Inspector General.
|  | Assistant Inspector General for Congressional and Public Liaison, and Management.
|  | Deputy Inspector General.
| Office of Cyber Investigation and Homeland Security | Assistant Inspector General for Cyber Investigation and Homeland Security.
EQUAL EMPLOYMENT OPPORTUNITY COMMISSION | Office of the Inspector General Office of Field Programs | Inspector General. District Director (Memphis).
|  | District Director (Indianapolis).
|  | District Director (Miami).
|  | District Director (St Louis).
|  | District Director (Chicago).
|  | District Director (Dallas).
|  | District Director (San Francisco).
|  | District Director (Detroit).
|  | District Director (Houston).
|  | District Director (Atlanta).
|  | District Director (New York).
|  | District Director (Baltimore).
|  | Program Manager.
|  | District Director (Milwaukee).
|  | District Director (Denver).
|  | District Director (Los Angeles).
|  | District Director (Birmingham).
|  | National Legal/Enforcement Executive Advisor.
|  | District Director (Philadelphia).
|  | District Director (Cleveland).
|  | National Mediation Executive Advisor.
|  | District Director (Charlotte).
|  | District Director (San Antonio).
|  | District Director (Phoenix).
|  | District Director (New Orleans).
| Field Management Programs | Director, Field Management Programs.
| Field Coordination Programs | Director, Field Coordination Programs.
FEDERAL COMMUNICATIONS COMMISSION | Office of Inspector General | Inspector General.
FEDERAL ENERGY REGULATORY COMMISSION | Office of Energy Projects Office of Administrative Litigation | Director of Dam Safety and Inspection. Director, Technical Division.
|  | Director, Legal Division.
| Office of Enforcement | Chief Accountant and Director, Division of Financial Regulations.
FEDERAL LABOR RELATIONS AUTHORITY | Office of the Chairman | Chief Counsel.
|  | Solicitor.
|  | Director, Policy and Performance Management.
|  | Senior Advisor.
| Office of Member | Chief Counsel (2).
| Federal Service Impasses Panel | Executive Director, Federal Service Impasses Panel.
| Office of the Executive Director | Executive Director.
| Office of the General Counsel | Deputy General Counsel (2).
| Office of the General Counsel, Regional Offices | Regional Director-Washington, DC. Regional Director-Atlanta.
|  | Regional Director-Boston.
|  | Regional Director-Dallas.
|  | Regional Director-Chicago.
|  | Regional Director-San Francisco.
|  | Regional Director-Denver.
FEDERAL MARITIME COMMISSION | Office of the Secretary | Secretary.
| Office of Consumer Affairs and Dispute Resolution Services | Director, Office of Consumer Affairs and Dispute Resolution Services.
| Office of the General Counsel | Deputy General Counsel for Reports Opinions and Decisions.
| Office of the Managing Director | Director, Strategic Planning and Regulatory Review.
|  | Deputy Managing Director.
| Bureau of Certification and Licensing | Director, Bureau of Certification and Licensing.
| Bureau of Trade Analysis | Director, Bureau of Trade Analysis.
| Bureau of Enforcement | Director, Bureau of Enforcement.
FEDERAL MEDIATION AND CONCILIATION SERVICE | Office of the Director | Chief of Staff. National Representative.
| Office of the Deputy Director | Director of Field Operations.
FEDERAL RETIREMENT THRIFT INVESTMENT BOARD | Federal Retirement Thrift Investment Board | Director of Communications and Education. Director of Benefits.
|  | Chief Investment Officer.
|  | Chief Technology Officer.
|  | Chief Financial Officer.
|  | Director, Office of Research and Strategic Planning.
|  | Director of Enterprise Risk Management.
FEDERAL TRADE COMMISSION | Office of International Affairs | Deputy Director for International Consumer Protection.
| Office of the Executive Director | Deputy Executive Director.
|  | Chief Information Officer.
| Bureau of Competition | Deputy Director, Bureau of Competition.
FEDERAL TRADE COMMISSION—OFFICE OF THE INSPECTOR GENERAL | Federal Trade Commission—Office of the Inspector General | Inspector General.
GENERAL SERVICES ADMINISTRATION | Office of Emergency Response and Recovery | Chief Emergency Response and Recovery Officer.
| Office of Citizen Services and Communications | Director, Federal Citizen Information Center.
| Office of the Chief People Officer | Director of Human Capital Management.
|  | Chief Human Capital Officer.
|  | Chief Information Officer.
|  | Director of Human Resources Services.
|  | Deputy Chief Information Officer.
| Office of Governmentwide Policy | Director of the Federal Acquisition Institute.
|  | Deputy Associate Administrator for Technology Strategy.
|  | Deputy Associate Administrator for Travel, Transportation and Asset Management.
|  | Deputy Associate Administrator for Real Property Management.
|  | Director of Governmentwide Acquisition Policy.
| Office of the Chief Acquisition Officer | Deputy Chief Acquisition Officer.
|  | Director of Acquisition Integrity.
|  | Director of Acquisition Systems.
| Office of the Inspector General | Principal Deputy Assistant Inspector General for Auditing.
|  | Deputy Inspector General.
|  | Assistant Inspector General for Administration.
|  | Counsel to the Inspector General.
|  | Assistant Inspector General for Investigations.
|  | Assistant Inspector General for Auditing.
|  | Deputy Assistant Inspector General for Investigations.
| Office of the Chief Financial Officer | Director of Financial Management Systems.
|  | Chief Financial Officer.
|  | Director of Budget.
|  | Director of Financial Policy and Operations.
| Public Buildings Service | Assistant Commissioner for National Customer Services Management.
|  | Assistant Commissioner for Real Property Asset Management.
|  | Deputy Assistant Commissioner for Real Estate Portfolio Management.
|  | Deputy Assistant Commissioner for Real Property Disposal.
|  | Assistant Commissioner for Budget and Financial Management.
|  | Assistant Commissioner for Organizational Resources.
|  | Assistant Commissioner for Construction Programs.
|  | Program Executive.
|  | Assistant Commissioner for Leasing.
|  | Deputy Assistant Commissioner for Vendor Alliance and Vendor Acquisition.
|  | Assistant Commissioner for Facilities Management and Services Programs.
|  | Director of Federal High-Performance Green Buildings.
| Office of the Chief Information Officer | Director of Enterprise Management Services.
|  | Senior Agency Information Security Officer.
|  | Director of Enterprise Infrastructure.
| Federal Acquisition Service | Assistant Commissioner for Strategic Business Planning and Process Improvement.
|  | Director of Motor Vehicle Management.
|  | Director of Supply Operations.
|  | Deputy Assistant Commissioner for General Supplies and Services.
|  | Director of Travel and Transportation Services.
|  | Director of Network Services Programs.
|  | Assistant Commissioner for General Supplies and Services.
|  | Assistant Commissioner for Travel, Motor Vehicle and Card Services.
|  | Assistant Commissioner for Customer Accounts and Research.
|  | Controller.
|  | Chief Information Officer.
|  | Assistant Commissioner for Assisted Acquisition Services.
|  | Assistant Commissioner for Acquisition Management.
|  | Assistant Commissioner for Integrated Technology Services.
|  | Director of Governmentwide Acquisition Contracts and Information Technology Schedule Programs.
|  | Director of Acquisition.
|  | Deputy Chief Information Officer.
|  | Deputy Assistant Commissioner for Integrated Technology Services.
| New England Region | Regional Commissioner for Public Buildings Service.
|  | Regional Commissioner for Federal Acquisition Service, Region 1.
| Northeast and Caribbean Region | Regional Commissioner for Federal Acquisition Service.
|  | Regional Commissioner for Public Buildings Service.
| Mid-Atlantic Region | Regional Commissioner for Public Buildings Service.
|  | Regional Commissioner for Federal Acquisition Service.
|  | Regional Counsel.
| National Capital Region | Regional Commissioner for Federal Acquisition Service.
|  | Regional Commissioner for Public Buildings Service.
|  | Project Executive for Real Estate Development.
|  | Director of Portfolio Management.
|  | Director of Facilities Management and Services Programs.
|  | Director of Project Delivery.
|  | Director of Leasing.
|  | Principal Deputy Regional Commissioner for Public Buildings Service.
|  | Principal Deputy Regional Commissioner for Projects and Real Property Asset Management.
| Southeast Sunbelt Region | Regional Commissioner for Federal Acquisition Service.
|  | Regional Commissioner for Public Buildings Service.
|  | Deputy Regional Commissioner for Real Estate Design, Construction and Development.
| Great Lakes Region | Regional Commissioner for Public Buildings Service.
|  | Regional Commissioner for Federal Acquisition Service.
| The Heartland Region | Regional Commissioner for Federal Acquisition Service.
|  | Regional Commissioner for Public Buildings Service.
| Greater Southwest Region | Regional Commissioner for Federal Acquisition Service.
|  | Regional Commissioner for Public Buildings Service.
| Rocky Mountain Region | Regional Commissioner for Public Buildings Service.
|  | Regional Commissioner for Federal Acquisition Service, Region 8.
| Pacific Rim Region | Assistant Regional Administrator for Federal Supply Service.
|  | Regional Commissioner for Public Buildings Service.
|  | Assistant Regional Administrator, Federal Acquisition Service.
|  | Principal Deputy Regional Commissioner for Public Buildings Service.
| Northwest/Arctic Region | Regional Commissioner for Federal Acquisition Service, Region 10.
|  | Regional Commissioner for Public Buildings Service.
GENERAL SERVICES ADMINISTRATION—OFFICE OF THE INSPECTOR GENERAL | General Services Administration—Office of the Inspector General | Deputy Assistant Inspector General for Real Property Audits.
|  | Principal Deputy Assistant Inspector General for Auditing.
|  | Assistant Inspector General for Auditing.
|  | Deputy Inspector General.
|  | Deputy Assistant Inspector General for Acquisition Programs Audits.
|  | Assistant Inspector General for Administration.
|  | Deputy Assistant Inspector General for Investigations.
|  | Assistant Inspector General for Investigations.
|  | Counsel to the Inspector General.
|  | Deputy Assistant Inspector General for Acquisition Programs Audits.
DEPARTMENT OF HEALTH AND HUMAN SERVICES | Office of Security and Strategic Information | Associate Director for Strategic Information. Associate Director for Personnel and Classified Information Security.
|  | Director, Intel and Counter Intel.
| Office of the Assistant Secretary for Administration | Director, Atlanta Human Resources Center.
| Office of the Assistant Secretary for Financial Resources | Director, Office of Small and Disadvantaged Business Utilization.
| Office of the Deputy Assistant Secretary for Finance | Associate Deputy Assistant Secretary, Finance.
|  | Deputy Assistant Secretary, Finance.
| Office of the Deputy Assistant Secretary for Information Resources Management | Deputy Chief Information Officer.
| Office of the Assistant Secretary for Planning and Evaluation | Associate Deputy Assistant Secretary for Planning and Evaluation (Health Services Policy).
| Office of the Assistant Secretary for Health | Director, Office of Human Immunodeficiency Virus/Acquired Immunodeficiency Syndrome Policy.
|  | Director, Office of Research Integrity.
| Associate General Counsel Divisions | Deputy Associate General Counsel for Claims and Employment Law.
|  | Deputy Associate General Counsel, Business and Administrative Law Division.
|  | Associate General Counsel, General Law Division.
| Office of the Inspector General | Deputy Inspector General for Management and Policy.
|  | Principal Deputy Inspector General.
|  | Deputy Inspector General for Legal Affairs.
| Office of the Deputy Inspector General for Investigations | Deputy Inspector General for Investigations. Assistant Inspector General for Investigations (2).
|  | Assistant Inspector General for Investigative Operations.
| Office of the Deputy Inspector General for Audit Services | Assistant Inspector General for Medicare and Medicaid Service Audits.
|  | Assistant Inspector General for Financial Management and Regional Operations.
|  | Deputy Inspector General for Audit Services.
|  | Assistant Inspector General for Grants and Internal Activities.
|  | Assistant Inspector General for Audit Management and Policy.
| Office of the Deputy Inspector General for Evaluation and Inspections | Deputy Inspector General for Evaluation and Inspections.
| Program Support Center | Director, Information Systems Management Service.
|  | Deputy Assistant Secretary for Program Support.
| Office of Financial Management Service | Director, Financial Management Service.
| Office of Program Support | Director, Office of Financial Management.
| Office of the Actuary | Director, National Health Statistics Group.
|  | Director, Office of the Actuary (Chief Actuary).
|  | Director, Medicare and Medicaid Cost Estimates Group.
|  | Director, Parts C and D Actuarial Group.
| Center for Medicare | Director, Medicare Contractor Management Group.
| Center for Program Integrity | Director, Medicare Program Integrity Group.
|  | Director, Medicaid Integrity Group.
| Office of Acquisitions and Grants Management | Deputy Director, Office of Acquisition and Grants Management.
|  | Director, Office of Acquisitions and Grants Management.
| Office of Information Services | Deputy Director, Office of Information Services (2).
|  | Director, Office of Information Services (Chief Information Officer).
| Office of Financial Management | Deputy Director, Office of Financial Management.
|  | Director, Office of Financial Management.
|  | Director, Financial Services Group.
|  | Director, Accounting Management Group.
| Office of Policy, Planning, and Budget | Associate Administrator for Policy and Programs Coordinator.
| Center for Mental Health Services | Director, Center for Mental Health Services.
|  | Director, Division of State and Community Systems Development.
| Centers for Disease Control and Prevention | Issues Analysis and Coordination Officer.
|  | Chief Learning Officer.
|  | Director, Procurement and Grants Office.
|  | Chief Management Officer, Office of the Director.
|  | Director, Information Technology Services Office.
|  | Director, Buildings and Facilities Office.
|  | Chief Financial Officer.
| National Institute for Occupational Safety and Health | Deputy Director for Management.
| Office of Chief Counsel | Deputy Chief Counsel for Program Review.
|  | Associate Deputy Chief Counsel for Drugs and Biologics.
|  | Associate Deputy Chief Counsel for Devices, Foods and Veterinary Medicine.
| Office of Management | Director, Office of Acquisitions and Grants Services.
| Office of Regulatory Affairs | Deputy Associate Commissioner for Regulatory Affairs.
|  | Associate Commissioner for Regulatory Affairs.
|  | Regional Food and Drug Director, Central Region.
|  | Deputy Director for Investigations.
|  | District Food and Drug Director, Los Angeles District.
|  | District Food and Drug Director, New York District.
|  | Regional Food and Drug Director, Northeast Region.
|  | Regional Food and Drug Director, Southeast Region.
|  | Associate Director, Investigations.
|  | Regional Food and Drug Director, Southwest Region.
|  | Director, Office of Criminal Investigations.
| Center for Biologics Evaluation and Research | Director, Office of Compliance and Biologics Quality.
|  | Associate Director for Compliance and Biologic Quality.
| Center for Drug Evaluation and Research | Senior Advisor for Policy.
|  | Director, Office of Management.
|  | Director, Division of Medical Imaging Surgical and Dental Products.
|  | Director, Office of Generic Drugs.
|  | Director, Office of Epidemiology and Biostatistics.
|  | Director, Office of New Drug Quality Assessment.
|  | Director, Office of Compliance.
| Center for Devices and Radiological Health | Director Office of Compliance.
|  | Director, Office of Science and Technology.
|  | Director, Office of System and Management.
|  | Director, Office of Device Evaluation.
| Center for Food Safety and Applied Nutrition | Director, Office of Seafood.
|  | Director, Office of Field Programs.
|  | Director, Office of Plant and Dairy Foods and Beverages.
|  | Director, Office of Regulations and Policy.
|  | Director, Office of Premarket Approval.
| Center for Veterinary Medicine | Director, Office of Science.
|  | Director, Office of Surveillance and Compliance.
| Office of Operations | Director, Office of Human Resources.
| Special Programs Bureau | Associate Administrator, Special Programs Bureau.
| HIV/AIDS Bureau | Director, Office of Science and Epidemiology.
| Indian Health Service | Director Office of Environmental Health and Engineering.
| National Institutes of Health | Associate Director for Management.
|  | Director.
|  | Associate Director for Administrative Management.
|  | Director, Office of Research Information Systems.
| Office of the Director | Associate Director for Administration.
|  | Associate Director for Disease Prevention.
|  | Director, Office of Medical Applications of Research.
|  | Associate Director for Extramural Affairs.
|  | Director, Office of Financial Management.
|  | Senior Advisor for Policy.
|  | Scientific Advisor for Capacity Development.
|  | Deputy Director for Science, Outreach, and Policy.
|  | Director, Office of Strategic Planning for Administration.
|  | Associate Director for Security and Emergency Response.
|  | Director, Office of Research Facilities Development and Operations.
|  | Director, Office of Policy for Extramural Research Administration.
|  | Senior Policy Officer (Ethics).
|  | Director, Office of Contracts Management.
|  | Director, Office of Reports and Analysis.
|  | Special Advisor to the Director.
| National Heart, Lung and Blood Institute | Director, National Center for Sleep Disorders.
|  | Deputy Director, Division of Heart Vascular Diseases.
|  | Deputy Director, Division of Epidemiology and Clinical Application.
|  | Director, Office of Biostatics Research.
|  | Director, Division of Extramural Affairs.
|  | Director, Epidemiology and Biometry Program.
|  | Director, Division of Lung Diseases.
|  | Director, Division of Blood Diseases and Resources.
|  | Director, Division of Heart and Vascular Diseases.
|  | Associate Director for International Programs.
| Intramural Research | Chief, Macromolecules Section.
|  | Chief, Laboratory of Biophysical Chemistry.
|  | Chief, Laboratory of Biochemistry.
|  | Chief, Laboratory of Biochemical Genetics.
|  | Chief, Laboratory of Kidney and Electrolyte Metabolism.
|  | Chief, Intermediary Metabolism and Bioenergetics Section.
|  | Chief, Laboratory of Cardiac Energetics.
|  | Chief, Metabolic Regulation Section.
| National Cancer Institute | Associate Director for Extramural Management.
|  | Associate Director for Intramural Management.
|  | Deputy Director for Administrative Operations.
|  | Associate Director, Referral Review and Program Coordination.
|  | Associate Director, Cancer Diagnosis Program.
|  | Associate Director for Budget and Financial Management.
|  | Deputy Director for Management.
| Division of Cancer Biology, Diagnosis and Centers | Chief, Laboratory of Biochemistry Intramural Research Program.
|  | Chief, Microbial Genetics and Biochemistry Section, Laboratory of Biochemistry.
|  | Chief, Cell Mediated Immunity Section.
|  | Chief, Dermatology Branch, Intramural Research Program.
|  | Deputy Director, Division of Cancer Biology Diagnosis and Centers.
|  | Associate Director, Extramural Research Program.
|  | Director, Division of Cancer Biology Diagnosis and Centers.
|  | Chief, Laboratory of Tumor and Biological Immunology, Intramural Research Programs.
|  | Associate Director, Centers Training and Resources Program.
| Division of Cancer Etiology | Chief, Laboratory of Experimental Pathology.
|  | Chief, Laboratory of Molecular Carcinogenesis.
|  | Chief, Laboratory of Biology.
|  | Director, Division of Cancer Etiology.
| Division of Cancer Prevention and Control | Deputy Director, Division of Cancer Prevention and Control.
|  | Associate Director, Early Development and Conchology Program.
|  | Associate Director, Surveillance Research Program.
| Division of Extramural Activities | Deputy Director, Division of Extramural Activities.
|  | Director, Division of Extramural Activities.
| Division of Cancer Treatment | Chief, Radiation Conchology Branch.
|  | Associate Director, Cancer Therapy Evaluation Program.
| National Institute of Diabetes and Digestive and Kidney Diseases | Associate Director for Management. Director, Division of Extramural Activities.
|  | Director, Division of Kidney Urologic and Hematologic Diseases.
|  | Associate Director for Management.
|  | Deputy Director for Management and Operations.
|  | Chief, Laboratory of Molecular and Cellular Biology.
| Intramural Research | Chief, Section on Metabolic Enzymes.
|  | Chief, Section on Biochemical Mechanisms.
|  | Chief, Oxidation Mechanisms Section Laboratory of Bioorganic Biochemistry.
|  | Chief, Laboratory of Bio-Organic Chemistry.
|  | Chief, Laboratory of Neuroscience, National Institute of Diabetes and Digestive and Kidney Diseases.
|  | Chief, Section Carbohydrates Laboratory of Chemistry/National Institute of Diabetes and Digestive and Kidney Diseases.
|  | Chief, Section on Molecular Biophysics.
|  | Clinical Director and Chief, Kidney Disease Section.
|  | Chief, Laboratory of Biochemistry and Metabolism.
|  | Chief, Laboratory of Medicinal Chemistry.
|  | Chief, Morphogenesis Section.
|  | Chief, Theoretical Biophysics Section.
|  | Chief, Section on Molecular Structure.
|  | Chief, Section on Physical Chemistry.
| National Institute of Arthritis and Musculoskeletal and Skin Diseases | Director, Extramural Program. Deputy Director.
|  | Associate Director for Management and Operations.
| National Library of Medicine | Deputy Director, Lister Hill National Center for Biomedical Commissioners.
|  | Director, Lister Hill National Center for Biomedical Community.
|  | Associate Director for Extramural Programs.
|  | Associate Director for Library Operations.
|  | Deputy Director for Research and Education.
|  | Director, Information Systems.
|  | Associate Director for Health and Information Programs Development.
|  | Director, National Center for Biotechnology Information.
|  | Associate Director for Administrative Management.
|  | Associate Director for Extramural Programs.
|  | Deputy Director, National Library of Medicine.
| National Institutes of Allergy and Infectious Diseases | Director, Office of Communications and Government Relations.
|  | Chief, Laboratory of Parasitic Diseases.
|  | Director, Division of Allergy/Immunology/Transplantation.
|  | Director, Division of Microbiology/Infectious Diseases.
|  | Chief, Laboratory of Molecular Microbiology.
|  | Chief, Laboratory of Microbial Structure and Function.
|  | Director, Division of Extramural Activities.
|  | Chief, Laboratory of Immunogenetics.
|  | Chief, Laboratory of Infectious Diseases.
|  | Head, Lymphocyte Biology Section.
|  | Chief, Biological Resources Branch.
|  | Director, Division Acquired Immunodeficiency Syndrome.
|  | Chief, Laboratory of Malaria Research.
|  | Head, Epidemiology Section.
|  | Deputy Director, Division of Acquired Immunodeficiency.
|  | Deputy Chief, Laboratory of Immunology and Head Lymphocyte Biology Section.
|  | Director, Division of Intramural Research.
| National Institute on Aging | Clinical Director and Chief Clinical Physiology Branch.
|  | Scientific Director, Gerontology Research Center.
|  | Director of Behavioral and Social Research Program.
|  | Director of Neuroscience and Neuropsychology of Aging Program.
|  | Associate Director, Office of Planning, Analysis and International Activities.
|  | Associate Director, Epidemiology, Demography, and Biometry Program.
|  | Director of Office of Extramural Affairs.
|  | Associate Director Biology of Aging Program.
|  | Director of Management.
| National Institutes of Child Health and Human Development | Chief, Section Neuroendocrinology. Chief, Laboratory of Comparative Ethology.
|  | Associate Director for Administration.
|  | Director, National Center for Medical Rehabilitation Research.
|  | Chief, Section on Growth Factors.
|  | Associate Director for Prevention Research.
|  | Chief, Laboratory of Mammalian Genes and Development.
|  | Director, Center for Population Research.
|  | Director, Center for Research for Mothers and Children.
|  | Chief, Endocrinology and Reproduction Research Branch.
|  | Chief, Laboratory of Molecular Genetics.
|  | Chief, Section on Microbial Genetics.
|  | Chief, Section on Molecular Endocrinology.
| National Institute of Dental and Craniofacial Research | Associate Director for Management. Director, Extramural Program.
|  | Chief, Laboratory of Immunology.
|  | Associate Director for Management.
|  | Associate Director for International Health.
|  | Associate Director for Program Development.
| National Institutes of Environmental Health Sciences | Director, Environmental Toxicology Program. Chief, Laboratory of Pulmonary Pathobiology.
|  | Director National Institute of Environmental Health Science.
|  | Senior Scientific Advisor.
|  | Associate Director for Management.
|  | Chief, Laboratory of Molecular Carcinogenesis.
|  | Head, Mammalian Mutagenesis Section.
|  | Head, Mutagenesis Section.
| National Institutes of General Medical Sciences | Associate Director for Administration and Operations.
|  | Director, Minority Opportunities In Research Program Branch.
|  | Deputy Director, National Institute of General Medical Sciences.
|  | Director, Division of Pharmacology, Physiology, and Biological Chemistry.
|  | Director, Biophysics Physiological Sciences Program Branch.
|  | Associate Director for Extramural Activities.
|  | Director, Genetics Program.
| National Institutes of Neurological Disorders and Stroke | Associate Director for Administration. Director, Basic Neuroscientist Program/Chief, Laboratory of Neurochemistry.
|  | Chief, Laboratory of Molecular and Cellular Neurobiology.
|  | Director, Division of Fundamental Neurosciences.
| Intramural Research | Chief, Brain Structural Plasticity Section.
|  | Chief, Laboratory of Central Nervous System Studies.
|  | Chief, Laboratory of Neurobiology.
|  | Chief, Stroke Branch.
|  | Chief, Laboratory of Neural Control.
|  | Chief, Neuroimaging Branch.
|  | Deputy Chief, Laboratory of Central Nervous System Studies.
|  | Chief, Development and Metabolic Neurology Branch.
| National Eye Institute | Chief, Laboratory of Retinal Cell and Molecular Biology.
|  | Chief, Laboratory of Sensorimotor Research.
|  | Chief, Laboratory of Molecular and Development Biology.
| National Institutes on Deafness and Other Communication Disorders | Director, Division of Human Communication. Chief, Laboratory of Cellular Biology.
|  | Director, Division of Extramural Research.
|  | Associate Director for Administration.
| National Institutes of Health Clinical Center | Chief Financial Officer.
|  | Chief Operating Officer.
|  | Associate Director for Planning.
|  | Deputy Director for Management and Operations.
|  | Associate Chief, Positron Emission Tomography and Radiochemistry.
| Center for Information Technology | Director, Center for Information Technology and Chief Information Officer.
|  | Director, Division of Computer System Services.
|  | Chief, Computer Center Branch.
|  | Deputy Director.
|  | Associate Director Office of Computing Resources Services.
|  | Senior Advisor to Director, Center for Information Technology.
| John E Fogarty International Center | Associate Director for International Advanced Studies.
|  | Deputy Director, Fogarty International Center.
|  | Special Advisor to the Fogarty International Center Director.
| National Center for Research Resources | Associate Director for Comparative Medicine.
|  | Associate Director for Research Infrastructure.
|  | Deputy Director, National Center for Research Resources.
|  | Director, General Clinical Research Center for Research Resources.
|  | Associate Director for Biomedical Technology.
|  | Director, National Center for Research Resources.
| Center for Scientific Review | Associate Director for Statistics and Analysis.
|  | Director, Division of Biologic Basis of Disease.
|  | Senior Scientific Advisor.
|  | Director, Division of Physiological Systems.
|  | Director, Division of Molecular and Cellular Mechanisms.
|  | Associate Director for Referral and Review.
|  | Director, Division of Clinical and Population-Based Studies.
| National Institute of Nursing Research | Director, National Center for Nursing Research.
|  | Deputy Director/Director, Division of Extramural Activities.
| National Human Genome Research Institute | Associate Director for Management.
|  | Director, Division of Intramural Research National Center Human Genome Research.
|  | Chief, Diagnosis Development Branch National Center Human Genome Research Institute.
|  | Deputy Director.
|  | Director, Office of Population Genomics.
|  | Chief, Laboratory of Genetic Disease Research National Center for Human Genome Research Institute.
| National Institute on Drug Abuse | Associate Director for Clinical Neuroscience and Medical Affairs, Division of Treatment Research and Development.
|  | Associate Director for Management and Operations.
|  | Chief, Neuroscience Research Branch.
|  | Director, Medications Development Division.
|  | Director, Division of Clinical Research.
|  | Director, Office of Extramural Program Review.
|  | Senior Advisor and Counselor for Special Initiatives.
| National Institute of Mental Health | Chief, Section on Cognitive Neuroscience.
|  | Chief, Section on Clinical and Experimental Neuropsychology.
|  | Director, Division of Services and Intervention Research.
|  | Director, Office on Acquired Immunodeficiency Syndrome.
|  | Director, Division of Mental Disorders, Behavioral Research and Acquired Immunodeficiency Syndrome.
|  | Director, Division of Neuroscience and Behavioral Scientist.
|  | Chief, Neuropsychiatry Branch.
|  | Chief, Child Psychiatry Branch.
|  | Associate Director for Special Populations.
|  | Chief, Laboratory of Clinical Science.
|  | Chief, Section on Histopharmacology.
|  | Director, Office of Legislative Analysis and Coordinator.
|  | Deputy Director, National Institute of Mental Health.
|  | Chief, Biological Psychiatry Branch.
|  | Associate Director for Prevention.
|  | Executive Officer, National Institute of Mental Health.
| National Institute on Alcohol Abuse and Alcoholism | Director, Division of Basic Research. Associate Director for Administration.
| Agency for Healthcare Research and Quality | Executive Officer.
DEPARTMENT OF HEALTH AND HUMAN SERVICES—OFFICE OF THE INSPECTOR GENERAL | Department of Health and Human Services—Office of the Inspector General Office of Counsel to the Inspector General | Principal Deputy Inspector General. Assistant Inspector General for Legal Affairs.
|  | Chief Counsel to the Inspector General.
| Office of Audit Services | Assistant Inspector General for Audit Management and Policy.
|  | Assistant Inspector General for Grants and Internal Activities.
|  | Assistant Inspector General for Financial Management and Regional Operations.
|  | Assistant Inspector General for Medicare and Medicaid Service Audits.
|  | Deputy Inspector General for Audit Services.
| Office of Evaluation and Inspections | Deputy Inspector General for Evaluation and Inspections.
|  | Assistant Inspector General for Evaluation and Inspections.
| Office of Investigations | Assistant Inspector General for Investigations (3).
|  | Deputy Inspector General for Investigations.
| Office of Management and Policy | Assistant Inspector General for Information Technology (Chief Information Officer).
|  | Assistant Inspector General for Management and Policy (Chief Operating Officer).
|  | Deputy Inspector General for Management and Policy.
DEPARTMENT OF HOMELAND SECURITY | Ombudsman, Citizenship and Immigration Services | Deputy Director, Ombudsman.
| Office of the Executive Secretary for Operations and Administration | Deputy Executive Secretary, Operations and Administration.
| Office of Operations Coordination and Planning Directorate | Senior Department of Homeland Security Advisor to the Commander, U.S. Northern Command/North American Aerospace Defense Command.
| Office of the General Counsel | Assistant General Counsel for Acquisition and Procurement.
|  | Deputy Associate General Counsel for General Law.
|  | Associate General Counsel for Ethics.
| Office for Civil Rights and Civil Liberties | Deputy Civil Rights and Civil Liberties Officer, Equal Employment Opportunity and Diversity Director.
|  | Director, Civil Rights and Civil Liberties Programs Division.
|  | Deputy Civil Rights and Civil Liberties Officer, Programs and Compliance.
| Domestic Nuclear Detection Office | Chief of Staff.
|  | Assistant Director, Architecture and Plans Directorate.
|  | Assistant Director, National Technical Nuclear Forensics Center.
|  | Assistant Director, Transformational and Applied Research Directorate.
|  | Deputy Director.
|  | Assistant Director, Operations Support Directorate.
|  | Assistant Director, Product Acquisition and Deployment Directorate.
| Office of the Assistant Secretary for Policy | Associate Director, Identity Management.
|  | Department of Homeland Security Attaché to Mexico.
| U.S. Citizenship and Immigration Services | Associate Director, Customer Service and Public Engagement.
|  | Deputy Chief Counsel for Field Management.
|  | Deputy Director, Office of Security and Integrity.
|  | Chief, Office of Transformation Coordination.
|  | Deputy Associate Director, Office of Management.
|  | Deputy Chief, Office of Transformation Coordination.
|  | District Director, Field Services, Chicago, Illinois.
|  | District Director, Field Services, Boston, Massachusetts.
|  | Chief, Verification Division.
|  | Chief, Administrative Appeals.
|  | Associate Director, Field Operations.
|  | Deputy Director, Service Center, Saint Albans, Vermont.
|  | Deputy Director, Service Center, Lincoln, Nebraska.
|  | Chief, International Operations.
|  | Deputy Director, Service Center, Dallas, Texas.
|  | Deputy Director, Service Center, Laguna Niguel, California.
|  | Director, National Records Center.
|  | Director, Los Angeles Asylum Office.
|  | Associate Director, Service Center Operations.
|  | Deputy Associate Director, Refugee, Asylum, and International Operations.
|  | Associate Director, Enterprise Services Division.
|  | Chief, Office of Security and Integrity.
|  | District Director, Field Services, Atlanta, Georgia.
|  | District Director, Field Services, Newark, New Jersey.
|  | District Director, Field Services, Tampa, Florida.
|  | Regional Director, Southeast Region.
|  | District Director, Field Services, San Francisco, California.
|  | District Director, Field Services, Los Angeles, California.
|  | Director, National Benefits Center.
|  | Chief, Office of Administration.
|  | District Director, Field Services, Miami, Florida.
|  | Chief Financial Officer.
|  | Eastern Regional Director, Burlington, Vermont.
|  | Western Regional Director, Laguna Niguel, California.
|  | Central Regional Director, Dallas, Texas.
|  | Director, Service Center, Saint Albans, Vermont.
|  | Director, Service Center, Dallas, Texas.
|  | Director, Service Center, Laguna Niguel, California.
|  | Director, Service Center, Lincoln, Nebraska.
|  | Associate Director, Office of Management.
|  | Chief Information Officer.
|  | Chief, Performance and Quality.
|  | Director, Office of Refugee Affairs.
|  | Deputy Associate Director, Office of Field Operations.
|  | Deputy Associate Director, Customer Service and Public Engagement.
|  | Associate Director, Fraud Detection and National Security.
|  | Chief, Intake and Document Production.
|  | Deputy Associate Director, Fraud Detection and National Security.
|  | Associate Director, Refugee, Asylum and International Operations.
|  | Deputy General Counsel.
|  | Deputy Chief Information Officer.
|  | Deputy Associate Director, Enterprise Services Division.
|  | District Director, Field Services, New York, New York.
|  | Deputy Associate Director, Service Center Operations.
|  | Chief, Asylum.
|  | Chief, Human Capital and Training.
| United States Secret Service | Chief Counsel.
|  | Special Agent In Charge, Technical Security Division.
|  | Special Agent In Charge, Vice Presidential Protective Division.
|  | Assistant Director, Human Resources and Training.
|  | Special Agent In Charge, New York Field Office.
|  | Special Agent In Charge, Presidential Protective Division.
|  | Assistant Director, Office of Professional Responsibility.
|  | Assistant Director, Office of Administration.
|  | Assistant Director, Office of Technical Development and Mission Support.
|  | Assistant Director, Protective Operations.
|  | Assistant Director, Investigations.
|  | Deputy Director, United States Secret Service.
|  | Director, United States Secret Service.
|  | Deputy Chief Counsel/Principal Ethics Official.
|  | Special Agent In Charge, Miami Field Office.
|  | Special Agent In Charge, Paris Field Office.
|  | Deputy Assistant Director, Office of Professional Responsibility.
|  | Deputy Assistant Director, Strategic Intelligence and Information.
|  | Deputy Special Agent In Charge, White House Complex.
|  | Deputy Assistant Director, Office of Professional Responsibility.
|  | Assistant Director, Office of Strategic Intelligence and Information.
|  | Assistant Director, Office of Government and Public Affairs.
|  | Special Agent In Charge, Protective Intelligence and Assessment Division.
|  | Special Agent In Charge, Rome Field Office.
|  | Special Agent In Charge, Rowley Training Center.
|  | Special Agent In Charge, Criminal Investigative Division.
|  | Chief of Staff.
|  | Deputy Assistant Director, Office of Government and Public Affairs.
|  | Special Agent In Charge, Special Operations Division.
|  | Chief Financial Officer.
|  | Deputy Assistant Director, Office of Protective Operations.
|  | Deputy Assistant Director, Office of Investigations.
|  | Special Agent In Charge, Philadelphia Field Office.
|  | Deputy Assistant Director, Protective Operations.
|  | Special Agent In Charge, Chicago Field Office.
|  | Chief Technology Officer.
|  | Deputy Assistant Director, Office of Investigations.
|  | Special Agent In Charge, Los Angeles Field Office.
|  | Component Acquisition Executive.
|  | Special Agent In Charge, Washington Field Office.
|  | Deputy Assistant Director, Special Operations Division.
|  | Special Agent In Charge, Honolulu Field Office.
|  | Special Agent In Charge, Atlanta Field Office.
|  | Deputy Special Agent In Charge, Vice Presidential Protective Division.
|  | Chief Information Officer.
|  | Deputy Special Agent In Charge, White House Complex.
|  | Deputy Assistant Director, Technical Development and Mission Support.
|  | Deputy Assistant Director, Rowley Training Center.
|  | Special Agent In Charge, Houston Field Office.
|  | Deputy Assistant Director, Investigations.
|  | Deputy Assistant Director, Human Resources and Training.
|  | Deputy Special Agent In Charge, Presidential Protective Division.
|  | Deputy Assistant Director, Administration.
|  | Special Agent In Charge, Dignitary Protective Division.
|  | Deputy Chief Counsel.
|  | Special Agent In Charge, Dallas Field Office.
|  | Special Agent In Charge, San Francisco Field Office.
| United States Coast Guard | Director, National Pollution Funds Center.
|  | Deputy Assistant Commandant for Command, Control, Communications, Computers, and Information Technology and Deputy Chief Information Officer.
|  | Deputy Assistant Commandant for Acquisition/Director of Acquisition Services.
|  | Senior Procurement Executive/Head of Contracting Activity.
|  | Director, Coast Guard Investigative Service.
|  | Director, Marine Transportation System Management.
|  | Chief Procurement Law Counsel and Chief Trial Attorney.
|  | Deputy Chief Financial Officer.
|  | Deputy Director of Acquisition Programs.
|  | Deputy Assistant Commandant for Intelligence and Criminal Investigations.
|  | Director, Incident Management and Preparedness Policy.
|  | Director of Financial Operations/Comptroller.
|  | Director, Global Maritime Operational Threat Response Coordination Center.
| Office of the Under Secretary for National Protection and Programs Directorate | Director, Budget and Financial Administration. Senior Advisor for Regulatory Policies.
|  | Assistant Director of Risk Management, Federal Protective Service.
|  | Assistant Director of Risk Management.
|  | Director, Cybersecurity Coordination.
|  | Assistant Director, Office of Training and Career Development, Federal Protective Service.
|  | Assistant Director, Office of Resource Management, Federal Protective Service.
|  | Director, Enterprise Performance Management.
|  | Principal Deputy Assistant Secretary for Infrastructure Protection.
|  | Chief Technology Officer, Cyber Security and Communications.
|  | Director, Human Resources Management.
|  | Director, Management.
|  | Director, Office of Compliance and Security.
|  | Chief Technology Officer, US Visit Program.
|  | Director, National Cybersecurity and Communications Integration Center.
|  | Director, Network Security Deployment.
|  | Deputy Director, National Cybersecurity and Communications Integration Center.
|  | Assistant Director of Field Operations (Central), Federal Protective Services.
|  | Assistant Director of Field Operations (West), Federal Protective Services.
|  | Assistant Director of Operations, Federal Protective Services.
|  | Senior Counselor to the Under Secretary for National Protection and Programs Directorate.
|  | Deputy Director, Office of Emergency Communications Division.
|  | Director, Stakeholder Engagement and Cyber-Infrastructure Resilience Division.
|  | Deputy Director, Federal Network Resilience.
|  | Director, Federal Network Security.
|  | Deputy Director, National Cybersecurity Center.
|  | National Protection and Programs Directorate Chief Information Officer.
|  | Deputy Director, Infrastructure Security Compliance Division.
|  | Director, Budget, Finance and Acquisition.
|  | Director, Infrastructure Security Compliance Division.
|  | Director, Sector Specific Agency Executive Management Office.
|  | Deputy Assistant Secretary for Cybersecurity.
|  | Assistant Director for Field Operations (East), Federal Protective Service.
|  | Director, Management.
|  | Director, Infrastructure Partnerships Division.
|  | Director, Office of Emergency Communications Division.
|  | Deputy Director, U.S. Visit Program.
|  | Director, Federal Network Resilience.
|  | Deputy Assistant Secretary for Infrastructure Protection.
|  | Director, Protective Security Coordination.
|  | Director, Federal Protective Service.
|  | Senior Advisor, Office of Infrastructure Protection.
|  | Assistant Director, Program Integration and Mission Services Division.
| Office of the Under Secretary for Intelligence and Analysis | Director, Information Sharing and Intelligence Enterprise Management Division.
|  | Director, Border Intelligence Fusion Section.
|  | Director, Cyber-Infrastructure Intelligence Division.
|  | Deputy Director, Office of Enterprise and Mission Support.
|  | Director, Operations, State and Local Program Office.
|  | Principal Deputy Director, Terrorist Screening Center.
|  | Principal Deputy Counter Terrorism Coordinator.
|  | Director, Collection Requirements Division.
|  | Chief of Staff.
|  | Director, Mission Support Division.
|  | Director for Strategy, Plans, and Policy.
| Assistant Secretary for Health Affairs and Chief Medical Officer | Associate Chief Medical Officer. Principal Deputy Assistant Secretary for Health Affairs/Deputy Chief Medical Officer.
| U.S. Immigration and Customs Enforcement | Field Office Director, Office of Enforcement and Removal Operations, San Diego, California.
|  | Director, Office of Training and Career Development.
|  | Assistant Director for Investigations, Office of Professional Responsibility.
|  | Deputy Director, Office of Professional Responsibility.
|  | Executive Director, State and Local Coordination.
|  | Assistant Director, Enforcement and Removal Operations, Field Operations.
|  | Deputy Chief Financial Officer.
|  | Deputy Director, International Affairs.
|  | Special Agent In Charge, Washington, Dc.
|  | Special Agent In Charge, Atlanta.
|  | Director, Financial Management.
|  | Assistant Director, Management, Office of Enforcement and Removal Operations.
|  | Chief Financial Officer.
|  | Special Agent In Charge, New York.
|  | Deputy Assistant Director, National Security Investigations.
|  | Special Agent In Charge, Miami.
|  | Special Agent In Charge, San Francisco.
|  | Special Agent In Charge, Dallas.
|  | Director, Office of Professional Responsibility.
|  | Special Agent In Charge, San Diego.
|  | Special Agent In Charge, San Antonio.
|  | Special Agent In Charge, New Orleans.
|  | Special Agent In Charge, Los Angeles.
|  | Special Agent In Charge, Houston.
|  | Director, Office of Procurement.
|  | Assistant Director for Secure Communities and Enforcement, Office of Enforcement and Removal Operations.
|  | Deputy Assistant Secretary for Management.
|  | Chief Information Officer.
|  | Director, Office of Budget and Program Performance.
|  | Deputy Assistant Director, Critical Infrastructure, Protection, and Fraud.
|  | Assistant Director, Diversity and Civil Rights.
|  | Deputy Assistant Secretary, Immigration and Customs Enforcement.
|  | Assistant Director, Human Resources Management.
|  | Deputy Principal Legal Advisor.
|  | Director, Office of Homeland Security Investigations.
|  | Deputy Director, Office of Homeland Security Investigations.
|  | Deputy Director, El Paso Intelligence Center.
|  | Special Agent In Charge, Chicago.
|  | Director, Intelligence.
|  | Director, International Affairs.
|  | Deputy Assistant Director, Financial, Narcotics and Public Safety.
|  | Special Agent In Charge, Seattle.
|  | Director, Office of Enforcement and Removal Operations.
|  | Director of Enforcement and Litigation.
|  | Deputy Assistant Director, Mission Support.
|  | Senior Policy Administrator, Brussels.
|  | Senior Management Counsel.
|  | Special Agent In Charge, El Paso.
|  | Special Agent In Charge, Phoenix.
|  | Senior Advisor, Office of International Affairs.
|  | Component Acquisition Executive.
|  | Special Agent In Charge,.
|  | Director, Facilities and Asset Administration.
|  | Director, Federal Export Enforcement Coordination Center.
|  | Special Agent In Charge, San Juan, Puerto Rico.
|  | Deputy Director, Office of Detention Policy and Planning.
|  | Special Agent In Charge, Buffalo, New York.
|  | Special Agent In Charge, Philadelphia, Pennsylvania.
|  | Special Agent In Charge, Boston, Massachusetts.
|  | Special Agent In Charge, Newark, New Jersey.
|  | Special Agent In Charge, Tampa, Florida.
|  | Special Agent In Charge, Saint Paul, Minnesota.
|  | Field Office Director, Office of Enforcement and Removal Operations, New York City, New York.
|  | Field Office Director, Office of Enforcement and Removal Operations, Los Angeles, California.
|  | Field Office Director, Office of Enforcement and Removal Operations, Phoenix, Arizona.
|  | Deputy Assistant Director, Domestic Operations.
|  | Assistant Director for Detention Oversight and Inspections.
|  | Chief Counsel for Los Angeles.
|  | Chief Counsel for Miami.
|  | Field Office Director, Office of Enforcement and Removal Operations, Miami, Florida.
|  | Assistant Director, Homeland Security Investigative Programs.
|  | Special Agent In Charge, Denver.
|  | Director, Intellectual Property Enforcement Operations.
|  | Assistant Director, Enforcement and Removal Operations, Law Enforcement Systems and Analysis Division.
|  | Deputy Chief Information Officer.
|  | Special Agent In Charge, Detroit.
|  | Executive Director, Law Enforcement Information Sharing Initiative.
|  | Deputy Assistant Director, Criminal Alien Division, Office of Enforcement and Removal Operations.
|  | Assistant Director, Operations.
|  | Deputy Assistant Director, Homeland Security Investigative Services.
|  | Deputy Director, Enforcement and Removal Operations.
|  | Deputy Principal Legal Advisor for Headquarters.
|  | Deputy Principal Legal Advisor for Field Operations.
|  | Chief Counsel, New York.
|  | Deputy Director, Medical Affairs, Office of Enforcement and Removal Operations.
|  | Assistant Director, Enforcement and Removal Operations, Custody Operations Division.
|  | Assistant Director, Mission Support, Office of Enforcement and Removal Operations.
|  | Field Office Director, Office of Enforcement and Removal Operations, San Antonio, Texas.
| U.S. Customs and Border Protection | Executive Director, Procurement.
|  | Assistant Commissioner, Administration.
|  | Executive Director, Mission Support.
|  | Executive Director, Agriculture Programs and Trade Liaison.
|  | Port Director, Los Angeles Airport.
|  | Director, Field Operations, Boston.
|  | Deputy Chief Patrol Agent, Rio Grande Valley.
|  | Assistant Commissioner, International Affairs.
|  | Director, National Targeting Center (Passenger).
|  | Executive Director, Programming.
|  | Deputy Joint Field Commander.
|  | Joint Field Commander, State of Arizona, Joint Operations Directorate.
|  | Assistant Commissioner, Intelligence and Investigative Liaison.
|  | Executive Director, Automated Commercial Environment Business Office.
|  | Executive Director, Acquisition Management.
|  | Executive Director, Joint Operations Directorate.
|  | Director, Border Enforcement Coordination Cell, El Paso.
|  | Deputy Assistant Commissioner, International Affairs.
|  | Executive Director, Equal Opportunity.
|  | Port Director, San Ysidro.
|  | Deputy Chief Patrol Agent, Tucson.
|  | Chief Patrol Agent, El Centro, California.
|  | Deputy Chief Patrol Agent, San Diego.
|  | Executive Director, Program Management Office.
|  | Director of Operations, Northern Border, Detroit, Michigan, Office of Customs and Border Protection, Air and Marine.
|  | Director of Operations, Southeastern Border, Miami, Florida, Office of Customs and Border Protection, Air and Marine.
|  | Director, Air and Marine Operations Center, Riverside, Office of Customs and Border Protection, Air and Marine.
|  | Executive Director, Intelligence and Targeting.
|  | Director of Operations, Southwest Border, Office of Customs and Border Protection, Air and Marine.
|  | Executive Director, Passenger Systems Program Office.
|  | Executive Director, National Air Security Operations, Office of Customs and Border Protection, Air and Marine.
|  | Executive Director, Training, Safety and Standards.
|  | Executive Director, Human Resources Operations, Programs and Policy.
|  | Chief Operating Officer.
|  | Executive Director, Financial Operations.
|  | Port Director, Laredo.
|  | Deputy Assistant Commissioner, Intelligence and Investigative Liaison.
|  | Chief, Operations Planning and Analysis Division.
|  | Executive Director, Operations, Air and Marine.
|  | Executive Director, Trade Policy and Programs.
|  | Deputy Assistant Commissioner, Technology Innovation and Acquisition.
|  | Executive Director, Mission Support, Office of Customs and Border Protection, Air and Marine.
|  | Chief, Northern Border and Coastal Division.
|  | Deputy Assistant Commissioner, Internal Affairs.
|  | Executive Director, Enterprise Data Management and Engineering.
|  | Executive Director, Targeting and Analysis Systems.
|  | Executive Director, Field Support.
|  | Executive Director, Cargo Systems Programs Office.
|  | Deputy Chief, Southwest Border Division.
|  | Chief Patrol Agent, Yuma, Arizona.
|  | Executive Director, Admissibility and Passenger Programs.
|  | Chief Patrol Agent, Del Rio.
|  | Assistant Commissioner, Air and Marine.
|  | Deputy Director, Policy and Planning.
|  | Executive Director, Cargo and Conveyance Security.
|  | Director, Field Operations, Atlanta.
|  | Chief, Southwest Border Division.
|  | Executive Director, Enterprise Networks and Technology Support.
|  | Executive Director, Mission Support.
|  | Chief Patrol Agent, Rio Grande Valley.
|  | Deputy Assistant Commissioner, Information and Technology.
|  | Port Director, El Paso.
|  | Port Director, Los Angeles/Long Beach Seaport.
|  | Chief Patrol Agent, Tucson.
|  | Executive Director, Customs and Border Protection Basic Training.
|  | Director, Field Operations, Tucson.
|  | Port Director, San Francisco.
|  | Executive Director, National Targeting Center.
|  | Deputy Assistant Commissioner, International Trade.
|  | Assistant Commissioner, Internal Affairs.
|  | Director, Field Operations, San Juan.
|  | Associate Chief Counsel, Los Angeles.
|  | Associate Chief Counsel, Houston.
|  | Associate Chief Counsel, Chicago.
|  | Associate Chief Counsel, New York.
|  | Associate Chief Counsel, Southeast.
|  | Associate Chief Counsel for Ethics, Labor, and Employment.
|  | Associate Chief Counsel for Trade, Tariffs and Legislation.
|  | Associate Chief Counsel for Enforcement.
|  | Director, Field Operations, El Paso.
|  | Chief Patrol Agent, San Diego.
|  | Chief Patrol Agent, El Paso.
|  | Director, Field Operations, San Francisco.
|  | Chief Patrol Agent, Laredo Sector.
|  | Chief, Border Patrol.
|  | Deputy Assistant Commissioner, Air and Marine.
|  | Director, Field Operations, San Diego.
|  | Director, Field Operations, Laredo.
|  | Director, Field Operations, Houston.
|  | Director, Field Operations, Los Angeles.
|  | Director, Field Operations, Chicago.
|  | Director, Field Operations, Miami.
|  | Port Director, Miami International Airport.
|  | Port Director, Newark.
|  | Principal Executive for the Management of Resources.
|  | Director, Field Operations, New York.
|  | Deputy Assistant Commissioner, Office of Training and Development.
|  | Director, Field Operations, Buffalo.
|  | Director, Field Operations, Detroit.
|  | Director, Field Operations, Seattle.
|  | Executive Director, Operations.
|  | Deputy Chief, Border Patrol.
|  | Deputy Assistant Commissioner, Field Operations.
|  | Assistant Commissioner, Field Operations.
|  | Executive Director, Laboratories and Scientific Services.
|  | Assistant Commissioner, Information and Technology.
|  | Deputy Director, Procurement.
|  | Executive Director, Budget.
|  | Deputy Assistant Commissioner, Administration.
|  | Executive Director, Regulations and Rulings.
|  | Executive Director, Regulatory Audit.
|  | Assistant Commissioner, Office of International Trade.
|  | Assistant Commissioner, Training and Development.
|  | Executive Director, Facilities Management and Engineering.
|  | Executive Director, Labor and Employee Relations.
|  | Deputy Assistant Commissioner, Human Resources Management.
|  | Assistant Commissioner, Human Resources Management.
|  | Deputy Commissioner.
|  | Deputy Chief Counsel.
|  | Executive Director, Planning, Program Analysis and Evaluation.
|  | Port Director, JFK Airport.
|  | Deputy Chief Patrol Agent, El Paso.
|  | Assistant Commissioner, Technology Innovation and Acquisition.
| Federal Law Enforcement Training Center | Assistant Director, Washington Office.
|  | Deputy Assistant Director, Office of Artesia Operations.
|  | Assistant Director, Chief Information Officer.
|  | Assistant Director, Training Innovation and Management Directorate.
|  | Chief Counsel.
|  | Assistant Director, Training Directorate.
|  | Assistant Director, Field Training.
|  | Assistant Director, Administration.
|  | Deputy Director, Federal Law Enforcement Training Center.
|  | Director, Federal Law Enforcement Training Center.
| Federal Emergency Management Agency | Deputy Director, Management and Performance Improvement.
|  | Deputy Principal Legal Advisor for Management.
|  | Director, National Disaster Recovery Planning Division.
|  | Chief, Enterprise Business Unit.
|  | Chief Security Officer.
|  | Chief Technology Officer.
|  | Senior Counselor to the Administrator and International Relations Officer.
|  | Director, Emergency Communication Division.
|  | Chief Administrative Officer.
|  | Deputy Director, Policy and Strategy.
|  | Director, Technological Hazards Division.
|  | Director, Financial Management Division.
|  | Deputy Assistant Administrator, Grants Program.
|  | Deputy Chief Counsel.
|  | Superintendent, Center for Domestic Preparedness.
|  | Deputy Chief Administrative Officer.
|  | Director, National Preparedness Assessment Division.
|  | Deputy Director, External Affairs.
|  | Executive Director for Readiness.
|  | Deputy Executive Administrator, Mount Weathers Emergency Operations Center.
|  | Deputy Assistant Administrator for Response.
|  | Director, Office of Federal Disaster Coordination.
|  | Director, Acquisition Operations Division.
|  | Director, Acquisition Programs and Planning Division.
|  | Deputy Associate Administrator, Mission Support Bureau.
|  | Chief Procurement Officer.
|  | Director, National Exercise Division.
|  | Chief Financial Officer.
|  | Director, National Training and Education Division.
|  | Deputy Chief Component Human Capital Officer.
|  | Deputy Associate Administrator for Insurance, Federal Insurance and Mitigation.
|  | Chief, Risk Reduction Branch (Mitigation).
|  | Director, Grants Management Division.
|  | Director, National Processing Service Center.
|  | Deputy Associate Administrator for Mitigation, Federal Insurance and Mitigation.
|  | Deputy Chief Financial Officer.
| Office of the Chief Security Officer | Chief, Counterintelligence and Investigations.
|  | Deputy Chief Security Officer.
|  | Chief Security Officer.
|  | Chief Personnel Security Officer.
| Office of the Chief Financial Officer | Director, Financial Management.
|  | Director, Departmental General Accounting Office/Inspector General Liaison Office.
|  | Director, Program Analysis and Evaluation.
|  | Deputy Director, Financial Management.
|  | Director, Resource Management Transformation Office.
|  | Director, Internal Control and Risk Management Division.
|  | Director, Office of Budget.
| Office of the Chief Procurement Officer | Director, Enterprise Acquisition and Information Technology.
|  | Deputy Chief Procurement Officer.
|  | Chief Procurement Officer.
|  | Director, Oversight and Strategic Support.
|  | Executive Director, Office of Procurement Operations.
|  | Director, Strategic Initiatives (Acquisition).
|  | Director, Procurement Policy and Oversight.
|  | Executive Director, Program Accountability and Risk Management Office.
|  | Director, Oversight and Strategic Support.
| Office of the Chief Human Capital Officer | Executive Director, Policy and Programs.
|  | Deputy Chief Human Capital Officer.
|  | Executive Director, Human Capital Business Systems.
|  | Executive Director, Diversity and Inclusion.
|  | Executive Director, Labor and Employee Relations.
|  | Executive Director, Human Resources Management and Services.
| Office of the Chief Information Officer | Executive Director, Information Sharing.
|  | Director, Office of Applied Technology.
|  | Executive Director, Information Technology Services Office.
|  | Director, Enterprise Business Management Office.
|  | Executive Director, Chief Information Security Officer.
|  | Deputy Executive Director, Information Technology Services Office.
|  | Deputy Chief Information Officer.
|  | Director, Enterprise System Development Office.
|  | Executive Director, Customer Relationship Management Division.
| Office of the Chief Readiness Support Officer | Director, Headquarters Management and Development.
|  | Deputy Chief Readiness Support Officer.
|  | Director, Administrative Operations.
|  | Director of Asset and Logistics Management.
|  | Director, Safety and Environmental Programs.
| Office of the Under Secretary for Science and Technology | Deputy Director, Homeland Security Advanced Research Projects Agency.
|  | Director, Capstone Analysis and Requirements Office.
|  | Director, Finance and Budget Division.
|  | Director, Infrastructure Protection and Disaster Management Division.
|  | Director, Explosives Division.
|  | Director, Office of National Laboratories.
|  | Director, Acquisition Support and Operations Analysis.
|  | Director, Research and Development Partnerships.
|  | Director, Cyber-Security Division.
|  | Deputy Director, Office of National Laboratories.
|  | Director, Acquisition Support and Operations Analysis Division.
|  | Director, Interagency Office.
|  | Director, Test and Evaluations and Standards Office.
|  | Director, Borders and Maritime Security Division.
|  | Director, Chemical Biological Defense Division.
|  | Director, Human Factors/Behavioral Sciences Division.
DEPARTMENT OF HOMELAND SECURITY—OFFICE OF THE INSPECTOR GENERAL | Department of Homeland Security—Office of the Inspector General | Deputy Assistant Inspector General, Investigations (3).
|  | Deputy Assistant Inspector General, Audits (2).
|  | Deputy Inspector General.
|  | Assistant Inspector General, Management.
|  | Assistant Inspector General, Emergency Management Oversight.
|  | Assistant Inspector General, Inspections.
|  | Assistant Inspector General, Information Technology Audits.
|  | Assistant Inspector General, Investigations.
|  | Counsel to the Inspector General.
|  | Assistant Inspector General , Audits.
|  | Deputy Assistant Inspector General, Emergency Management Oversight.
DEPARTMENT OF HOUSING AND URBAN DEVELOPMENT | Office of the Secretary | Director, Office of Hearings and Appeals.
| Office of the Deputy Secretary | Chief Disaster and Emergency Operations Officer.
| Office of Strategic Planning and Management | Director, Office of Departmental Grants Management and Oversight.
| Office of the Administration | Chief Learning Officer.
| Office of the Chief Financial Officer | Assistant Chief Financial Officer for Accounting.
|  | Deputy Chief Financial Officer.
|  | Assistant Chief Financial Officer for Budget.
|  | Assistant Chief Financial Officer for Financial Management.
| Office of the Chief Information Officer | Chief Technology and Innovation Officer.
| Office of the Chief Procurement Officer | Deputy Chief Procurement Officer.
| Office of Community Planning and Development | Deputy Assistant Secretary for Special Needs Programs.
|  | Director, Office of Community Viability.
| Office of Departmental Equal Employment Opportunity | Director, Office of Departmental Equal Employment Opportunity.
| Office of the General Counsel | Director, Departmental Enforcement Center.
|  | Senior Counsel (Appeals, Advice and Special Projects).
|  | Deputy Director, Operations and Compliance.
|  | Associate General Counsel for Program Enforcement.
| Government National Mortgage Association | Senior Vice President, Office of Management Operations.
|  | Senior Vice President, Office of Enterprise Data and Technology Solutions.
|  | Senior Vice President and Chief Risk Officer.
|  | Senior Vice President, Office of Finance.
|  | Senior Vice President for Mortgage-Backed Securities.
|  | Senior Vice President, Office of Capital Markets.
|  | Senior Vice President, Office of Program Operations.
| Office of Housing | Director, Office of Program Systems Management.
|  | Housing Federal Housing Administration, Comptroller.
|  | Deputy Assistant Secretary for Office of Housing Counseling.
|  | Deputy Assistant Secretary for Finance and Budget.
|  | Housing Federal Housing Administration, Deputy Comptroller.
|  | Associate Deputy Assistant Secretary for Single Family Housing.
| Office of Policy Development and Research | Associate Deputy Assistant Secretary for Policy Development.
|  | Chief of Staff to the Deputy Secretary.
| Office of Public and Indian Housing | Director, Office of Housing Voucher Programs.
|  | General Deputy Assistant Secretary for Public and Indian Housing.
|  | Deputy Assistant Secretary for the Real Estate Assessment Center.
DEPARTMENT OF HOUSING AND URBAN DEVELOPMENT—OFFICE OF THE INSPECTOR GENERAL | Department of Housing and Urban Development—Office of the Inspector General | Assistant Inspector General for Information Technology. Deputy Assistant Inspector General for Audit (Special Operations).
|  | Deputy Assistant Inspector General for Audit (Field Operations).
|  | Deputy Assistant Inspector General for Investigation (Field Operations).
|  | Deputy Assistant Inspector General for Management and Policy.
|  | Counsel to the Inspector General.
|  | Deputy Assistant Inspector General for Investigation (Headquarters Operations).
|  | Assistant Inspector General for Management and Policy.
|  | Deputy Inspector General.
|  | Assistant Inspector General for Audit.
|  | Assistant Inspector General for Investigation.
|  | Deputy Assistant Inspector General for Audit (Headquarters Operations).
DEPARTMENT OF THE INTERIOR | Office of the Solicitor | Director, Office of Administration.
|  | Director, Indian Trust Litigation Office.
|  | Associate Solicitor, Division of Land and Water Resources.
|  | Associate Solicitor for Administration.
|  | Deputy Associate Solicitor, Mineral Resources.
|  | Associate Solicitor, Division of Parks and Wildlife.
|  | Deputy Associate Solicitor, General Law.
|  | Designated Agency Ethics Official.
| Office of the Inspector General | Chief Information Officer.
|  | Deputy Inspector General.
|  | Assistant Inspector General for Auditing.
|  | Assistant Inspector General for Investigations.
|  | Assistant Inspector General for Administrative Services and Information Management.
|  | Deputy Assistant Inspector General for Investigations.
|  | Deputy Assistant Inspector General for Administrative Services and Information Management.
|  | Deputy Assistant Inspector General for Audits.
| Assistant Secretary, Policy, Management and Budget | Assistant Director for Economics.
|  | Manager, Science and Engineering.
|  | Deputy Assistant Secretary, Budget, Finance, Performance and Acquisition.
|  | Director, Office of Financial Management and Deputy Chief Financial Officer.
|  | Chief, Division of Budget and Program Review.
|  | Deputy Assistant Secretary, Law Enforcement, Security and Emergency Management.
|  | Chief, Budget Administration and Departmental Management.
|  | Management Initiatives and Transformation Director.
|  | Deputy Assistant Secretary, Human Capital and Diversity.
|  | Geospatial Information Officer.
|  | Director, Office of Law Enforcement and Security.
|  | Deputy Chief Human Capital Officer.
|  | Deputy Director, Office of Financial Management.
|  | Associate Director for Financial Policy and Operations.
|  | Director, Office of Human Resources.
| Office of Natural Resources Revenue Management | Deputy Director, Office of Natural Resources Revenue Management.
|  | Program Director for Financial and Program Management.
|  | Program Director for Audit and Compliance Management.
|  | Director, Financial and Program Management.
| Office of Hearings and Appeals | Director, Office of Hearings and Appeals.
| United States Fish and Wildlife Service | Chief, Office of Law Enforcement.
| National Park Service | Associate Director, Interpretation and Education.
|  | Financial Advisor (Comptroller).
| Field Offices | Park Manager.
|  | Park Manager, Everglades.
|  | Park Manager, Yosemite (Superintendent).
|  | Park Manager, Everglades National Park (Superintendent).
|  | Park Manager.
|  | Park Manager (Superintendent).
|  | Director, Technical Services Center.
|  | Director, Management Services Office.
| United States Geological Survey | Director, Earth Resources Observation and Science Center and Space Policy Advisor.
|  | Chief Scientist for Hydrology.
|  | Associate Director for Administrative Policy and Services.
|  | Deputy Director, United States Geological Survey.
|  | Associate Chief Biologist for Information.
|  | Associate Director for Human Capital.
|  | Director, Office of Communications and Outreach.
|  | Chief, Office of Budget and Performance.
|  | Chief, Geospatial Information, Integration and Analysis.
|  | Associate Director for Natural Hazards.
|  | Associate Director for Climate Variability and Land Use Change.
|  | Associate Director for Water.
|  | Associate Director for Core Science Systems.
|  | Director, Office of Science Quality and Integrity.
|  | Associate Director for Ecosystems.
|  | Associate Director for Energy, Minerals and Environmental Health.
| Field Offices | Regional Executive—Rocky Mountain.
|  | Regional Executive—Southeast.
|  | Regional Executive—South Central.
|  | Regional Executive—Northeast.
|  | Regional Executive—Alaska.
|  | Regional Executive—Southwest.
|  | Regional Executive—North Central.
|  | Regional Executive—Midwest.
|  | Regional Executive—Northwest.
|  | Deputy Assistant Director, Fire and Aviation at National Interagency Fire Center.
|  | Regional Director (2).
| Bureau of Ocean Energy Management | Strategic Resources Chief.
| Assistant Secretary—Indian Affairs | Director of Human Capital Management.
| Bureau of Indian Affairs | Deputy Director, Field Operations.
DEPARTMENT OF THE INTERIOR—OFFICE OF THE INSPECTOR GENERAL | Office of the Inspector General | Chief of Staff. Chief of Staff.
|  | Deputy Inspector General.
| Office of General Counsel | General Counsel.
| Office of Recovery and Accountability | Assistant Inspector General for Recovery Oversight.
| Office of Investigations | Assistant Inspector General for Investigations.
| Office of Management | Deputy Assistant Inspector General for Management.
|  | Assistant Inspector General for Management.
|  | Deputy Assistant Inspector General for Management.
| Office of Information Technology | Assistant Inspector General for Information Technology.
| Office of Audits, Inspections, and Evaluations | Deputy Assistant Inspector General for Compliance and Finance.
|  | Assistant Inspector General for Audits, Inspections, and Evaluations.
DEPARTMENT OF JUSTICE | Office of the Deputy Attorney General | Chief.
| Office of the Legal Counsel | Special Counsel (2).
| Office of Professional Responsibility | Counsel on Professional Responsibility.
|  | Deputy Counsel on Professional Responsibility.
| Justice Management Division | Deputy Director, Auditing.
|  | Deputy Director, Budget Staff, Programs and Performance.
|  | Director, Operations Services Staff.
|  | Director, Information Technology Policy and Planning Staff.
|  | Director, Security and Emergency Planning Staff.
|  | Director, Human Resources.
|  | Deputy Assistant Attorney General, Policy, Management, and Planning.
|  | Assistant Attorney General for Administration.
|  | Director, Asset Forfeiture Management Staff.
|  | Director, Facilities and Administrative Services Staff.
|  | Director, Library Staff.
|  | Deputy Assistant Attorney General for Human Resources and Administration.
|  | Director, Finance Staff.
|  | Deputy Chief Information Officer for E-Government Services Staff.
|  | Director, Office of Attorney Recruitment and Management.
|  | Director, Equal Employment Opportunity Staff.
|  | General Counsel.
|  | Director, Procurement Services Staff.
|  | Deputy Assistant Attorney General for Information Technology Management/Chief Information Officer.
|  | Senior Policy Advisor.
|  | Director, Debt Collection Management Staff.
|  | Director, Budget Staff.
|  | Information Technology Security Operations Program Manager.
|  | Deputy Director, Budget Staff, Operations and Funds Control.
|  | Director, Departmental Ethics Office.
|  | Deputy Director, Human Resources.
|  | Deputy Chief Information Officer for Information Technology Security.
|  | Special Assistant for Offices, Boards and Divisions, Information Technology Solutions.
|  | Director, Enterprise Solutions Staff.
|  | Deputy Assistant Attorney General (Controller).
| Professional Responsibility Advisory Office | Director, Professional Responsibility Advisory Office.
| Office of Federal Detention Trustee | Director, JPATS.
|  | Federal Detention Trustee.
| Federal Bureau of Prisons | Warden, Federal Medical Center, Rochester, Minnesota.
|  | Warden, Federal Correctional Institution, Phoenix, Arizona.
|  | Senior Deputy Assistant Director, Correctional Programs Division.
|  | Assistant Director for Human Resources Management.
|  | Warden, Federal Correctional Institution, Marianna, Florida.
|  | Warden, Metropolitan Detention Center, Brooklyn, New York.
|  | Warden, Federal Correctional Institution, Otisville, New York.
|  | Warden, Federal Correctional Institution, Beckley, West Virginia.
|  | Warden, Federal Correctional Complex, Coleman, Florida.
|  | Warden, Federal Correctional Complex, Beaumont, Texas.
|  | Senior Deputy Assistant Director, Correctional Programs Division.
|  | Deputy Assistant Director for Administration.
|  | Warden, Metropolitan Correctional Center, New York, New York.
|  | Warden, United States Penitentiary, Atwater, California.
|  | Warden, United States Penitentiary, Lee, Virginia.
|  | Senior Counsel, Office of General Counsel.
|  | Warden, United States Penitentiary, Big Sandy, Kentucky.
|  | Warden, Federal Correctional Institution, Ray Brook, New York.
|  | Warden, Federal Correctional Institution, Williamsburg, South Carolina.
|  | Warden, Federal Correctional Institution, Bennettsville, South Carolina.
|  | Warden, Federal Correctional Institution, Manchester, Kentucky.
|  | Warden, Federal Correctional Institution, Gilmer, West Virginia.
|  | Warden, Federal Correctional Institution, Sheridan, Oregon.
|  | Warden, Federal Correctional Institution, Memphis, Tennessee.
|  | Warden, Metropolitan Detention Center, Guaynabo, Puerto Rico.
|  | Warden, Federal Correctional Institution, Three Rivers, Texas.
|  | Warden, Federal Correctional Institution, Schuylkill, Pennsylvania.
|  | Warden, Federal Correctional Institution, Perkin, Illinois.
|  | Warden, Federal Correctional Institution, Oxford, Wisconsin.
|  | Warden, Federal Correctional Institution, McKean, Pennsylvania.
|  | Warden, Federal Correctional Institution, Greenville, Illinois.
|  | Warden, Federal Correctional Institution, Estill, South Carolina.
|  | Warden, Federal Correctional Institution, Cumberland, Maryland.
|  | Warden, United States Penitentiary, Tucson, Arizona.
|  | Warden, United States Penitentiary Coleman-I, Coleman, Florida.
|  | Correctional Program Officer (Senior Deputy Assistant Director).
|  | Warden, Federal Correctional Complex, Forrest City, Arkansas.
|  | Warden, United States Penitentiary, Canaan, Pennsylvania.
|  | Warden, Federal Correctional Complex, Yazoo City, Mississippi.
|  | Warden, United States Penitentiary, Hazelton, West Virginia.
|  | Warden, Federal Correction Complex, Petersburg, Virginia.
|  | Warden, United States Penitentiary, McCrery, Kentucky.
|  | Warden, Federal Correctional Complex, Victorville, California.
|  | Warden, United States Penitentiary, Pollock, Louisiana.
|  | Warden, Federal Correctional Institution, Jessup, Georgia.
|  | Warden Federal Correctional Complex, Butner, North Carolina.
|  | Warden Federal Correctional Complex, Terre Haute, Indiana.
|  | Assistant Director, Industries, Education, and Vocational Training Division.
|  | Warden, United States Penitentiary, Marion Illinois.
|  | Warden, Federal Medical Center, Lexington, Kentucky.
|  | Warden, United States Medical Center Federal Prisoners, Springfield, Missouri.
|  | Warden, Federal Correctional Complex, Lompoc, California.
|  | Warden, United States Penitentiary, Lewisburg, Pennsylvania.
|  | Warden, United States Penitentiary, Leavenworth, Kansas.
|  | Warden, United States Penitentiary, Atlanta, Georgia.
|  | Regional Director, South Central Region.
|  | Regional Director, Western Region.
|  | Regional Director, North Central Region.
|  | Regional Director, Southeast Region.
|  | Regional Director, Northeast Region.
|  | Assistant Director, Office of General Counsel.
|  | Assistant Director Correctional Programs Division.
|  | Assistant Director for Administration.
|  | Warden, Metropolitan Detention Center, Los Angeles, California.
|  | Warden, Federal Medical Center, Devens, Massachusetts.
|  | Warden, Federal Correctional Institution, Edgefield, South Carolina.
|  | Senior Deputy Assistant Director, Program Review Division.
|  | Warden, Federal Correctional Institution, Fairton, New Jersey.
|  | Warden, Federal Detention Center, Miami, Florida.
|  | Warden, Federal Correctional Institution, El Reno, Oklahoma.
|  | Senior Deputy Assistant Director, Administration.
|  | Warden, Federal Transfer Center, Oklahoma City, Oklahoma.
|  | Warden, Federal Correctional Complex, Allenwood, Pennsylvania.
|  | Warden, Federal Medical Center, Carswell, Texas.
|  | Warden, Federal Correctional Complex, Oakdale, Louisiana.
|  | Warden, United States Penitentiary-High, Florence, Colorado.
|  | Warden, Federal Correctional Complex, Florence, Colorado.
|  | Warden, Federal Correctional Institution, Fort Dix, New Jersey.
|  | Warden, Federal Correctional Institution, Talladega, Alabama.
|  | Assistant Director, Information, Policy, and Public Affairs Division.
|  | Regional Director Middle Atlantic Region.
|  | Warden, Federal Correctional Institution, Berlin, NH.
|  | Deputy General Counsel.
|  | Senior Deputy Assistant Director, Infrastructure, Policy and Public Affairs.
|  | Senior Deputy Assistant Director, Health Services Division.
|  | Senior Deputy Assistant Director, Industries, Education and Vocational Training.
|  | Warden, Federal Correctional Institution, McDowell, West Virginia.
|  | Warden, Federal Correctional Institution, Mendota, California.
|  | Warden, United States Penitentiary, Thomson, Illinois.
|  | Warden, Federal Correctional Institution, Herlong, California.
| Executive Office for Immigration Review | Chief Administrator Hearing Officer.
|  | Assistant Director for Administration.
|  | Vice Chairman, Board of Immigration Appeals.
|  | Associate Director.
|  | Chief Immigration Judge.
|  | General Counsel.
|  | Chairman, Board of Immigration Appeals.
| Criminal Division | Chief, Computer Crime and Intellectual Property Section.
|  | Chief, Public Integrity Section.
|  | Deputy Chief, Computer Crime and Intellectual Property Section.
|  | Deputy Chief, Narcotic and Dangerous Drug Section.
|  | Director, Office of Overseas Prosecutorial Development, Assistance, and Training.
|  | Senior Counsel to the Assistant Attorney General.
|  | Senior Counsel to the Assistant Attorney General.
|  | Deputy Chief for Public Integrity Section.
|  | Chief, Child Exploitation and Obscenity Section.
|  | Director, International Criminal Investigative Training Assistance Program.
|  | Deputy Chief, Appellate Section.
|  | Executive Officer.
|  | Deputy Chief for Litigation.
|  | Chief, Asset Forfeiture and Money Laundering Section.
|  | Deputy Chief, Public Integrity Section.
|  | Chief, Organized Crime and Racketeering Section.
|  | Chief, Appellate Section.
|  | Chief, Fraud Section.
|  | Chief, Narcotic and Dangerous Drug Section.
|  | Chief, Domestic Security Section.
|  | Deputy Chief, Asset Forfeiture and Money Laundering Section.
|  | Senior Litigation Counsel, Public Integrity Section (2).
| National Security Division | Deputy Chief, Operations Section.
|  | Deputy Chief, Counterterrorism Section.
|  | Deputy Chief, Counterespionage Section.
|  | Chief, Oversight Section.
|  | Chief, Appellate Unit.
|  | Deputy Assistant Attorney General, Fisa Operations and Intelligence Oversight.
|  | Deputy Counsel for Intelligence Law.
|  | Deputy Chief, Terrorism and Violent Crime, Counterterrorism Section.
|  | Chief, Operations Section.
| Executive Office for United States Attorneys | Chief, Information Officer.
|  | Deputy Director.
|  | Counsel, Legal Programs and Policy.
|  | General Counsel.
|  | Deputy Director for Administration and Management.
|  | Deputy Director, Financial Management Staff.
|  | Associate Director, Office of Legal Education.
|  | Deputy Director for Operations.
| United States Marshals Service | Associate Director, Administration.
|  | Assistant Director, Judicial Security.
|  | Assistant Director for Prisoner Operations.
|  | Assistant Director, Justice Prisoner and Alien Transportation System.
|  | Assistant Director, Training.
|  | Assistant Director, Investigative Operations.
|  | Assistant Director, Information Technology.
|  | Associate Director, Operations.
|  | Deputy Director.
|  | Assistant Director, Asset Forfeiture.
|  | Assistant Director, Management Support.
|  | Assistant Director, Witness Security.
|  | Assistant Director, Financial Services.
|  | Assistant Director, Human Resources.
|  | Assistant Director, Tactical Operations.
| Office of the Alcohol, Tobacco, Firearms and Explosives | Deputy Director, Terrorist Explosive Device Analytical Center.
|  | Division Director, Special Agent In Charge, Denver.
|  | Division Director, Special Agent In Charge, Newark.
|  | Division Director, Special Agent In Charge, Baltimore.
|  | Division Director, Special Agent In Charge, New Orleans.
|  | Division Director, Special Agent In Charge, Columbus.
|  | Division Director, Special Agent In Charge, Tampa.
|  | Division Director, Special Agent In Charge, Seattle.
|  | Division Director, Special Agent In Charge, Louisville.
|  | Division Director, Special Agent In Charge, Detroit.
|  | Division Director, Special Agent In Charge, Charlotte.
|  | Division Director, Special Agent In Charge, Miami.
|  | Division Director, Special Agent In Charge, San Francisco.
|  | Division Director, Special Agent In Charge, Phoenix.
|  | Division Director, Special Agent In Charge, Philadelphia.
|  | Division Director, Special Agent In Charge, Kansas City.
|  | Division Director, Special Agent In Charge, Chicago.
|  | Division Director, Special Agent In Charge, Boston.
|  | Division Director, Special Agent In Charge, Atlanta.
|  | Division Director, Special Agent In Charge, Saint Paul.
|  | Deputy Assistant Director, Office of Public and Governmental Affairs.
|  | Assistant Director, Office of Public and Governmental Affairs.
|  | Deputy Assistant Director, Office of Strategic Intelligence and Information.
|  | Assistant Director, Office of Strategic Intelligence and Information.
|  | Division Director, Special Agent In Charge, Dallas.
|  | Division Director, Special Agent In Charge, Nashville.
|  | Deputy Assistant Director, Industry Operations.
|  | Deputy Assistant Director, Field Operations-East.
|  | Deputy Assistant Director, Office of Professional Responsibility and Security Operations.
|  | Division Director, Special Agent In Charge, Houston.
|  | Division Director, Special Agent In Charge, Washington, DC.
|  | Division Director, Special Agent In Charge, New York.
|  | Division Director, Special Agent In Charge, Los Angeles.
|  | Deputy Assistant Director, Field Operations—West.
|  | Associate Chief Counsel, Administration and Ethics.
|  | Director, Forensic Services.
|  | Assistant Director, Science and Technology.
|  | Deputy Assistant Director for Information Technology and Deputy Chief Information Officer.
|  | Assistant Director, Management and Chief Financial Officer.
|  | Deputy Assistant Director, Management.
|  | Assistant Director, Office of Professional Responsibility and Security Operations.
|  | Assistant Director, Training and Professional Development.
|  | Deputy Assistant Director, Training and Professional Development.
|  | Deputy Assistant Director, Enforcement Programs and Services.
|  | Assistant Director, Enforcement Programs and Services.
|  | Deputy Assistant Director, Field Operations-Central.
|  | Assistant Director, Field Operations.
|  | Deputy Director.
|  | Chief, Special Operations Division.
|  | Deputy Chief Counsel (Field).
| Antitrust Division | Director, Economic Enforcement.
|  | Chief, Telecommunications and Media Section.
|  | Executive Officer.
| Civil Division | Deputy Branch Director.
| Office of the Assistant Attorney General | Director, Office of Management Programs.
| Appellate Staff | Deputy Director, Appellate Staff.
|  | Special Appellate Litigation Counsel.
| Commercial Litigation Branch, Corporate/Financial Section | Special Litigation Counsel, Corporate/Financial Section.
|  | Deputy Director, Corporate/Financial Section.
| Commercial Litigation Branch, Civil Fraud Section | Deputy Director, Civil Fraud Section. Deputy Director, Civil Fraud Section.
| Commercial Litigation Branch, Foreign Litigation Section | Director, Foreign Litigation Section.
| Federal Programs Branch | Deputy Branch Director, Federal Programs (3).
| Office of Consumer Litigation | Director, Office of Consumer Litigation.
| Torts Branch, Aviation and Admiralty Section | Special Litigation Counsel, Aviation and Admiralty Section.
| Office of Immigration Litigation, Appellate Section | Deputy Director, Office of Immigration Litigation, Appellate Section.
| Environment and Natural Resources Division | Deputy Section Chief, Environmental Defense Section.
|  | Executive Officer.
|  | Deputy Chief, Natural Resources Section.
|  | Deputy Chief, Environmental Enforcement Section.
|  | Senior Litigation Counsel Attorney-Examiner.
|  | Chief, Environmental Defense Section.
|  | Chief, Indian Resources Section.
|  | Chief, Appellate Section.
|  | Chief, Land Acquisition Section.
|  | Chief, Natural Resources Section.
|  | Chief, Wildlife and Marine Resources Section.
|  | Senior Litigation Counsel.
|  | Chief, Environmental Enforcement Section.
|  | Chief, Environmental Crimes Section.
|  | Deputy Chief, Environmental Enforcement Section.
|  | Deputy Section Chief, Natural Resources Section.
| Tax Division | Chief, Criminal Appeals and Tax Enforcement Policy Section.
|  | Chief, Criminal Enforcement Section, North Region.
|  | Chief, Criminal Enforcement Section, South Region.
|  | Senior Litigation Counsel.
|  | Special Litigation Counsel.
|  | Chief Civil Trial Section, Western Region.
|  | Chief Civil Trial Section, Southern Region.
|  | Chief Civil Trial Section, Northern Region.
|  | Chief, Civil Trial Section, Central Region.
|  | Chief, Claims Court Section.
|  | Chief, Appellate Section.
|  | Chief, Criminal Enforcement Section, Western Region.
|  | Chief, Office of Review.
|  | Executive Officer.
|  | Chief, Civil Trial Section Eastern Region.
|  | Chief, Civil Trial Section Southwestern Region.
| Civil Rights Division | Executive Officer.
| Executive Office for Organized Crime Drug Enforcement Task Forces | Director, Organized Crime Drug Enforcement Task Forces.
|  | Executive Director, Organized Crime Drug Enforcement Task Forces.
| Office of Justice Programs | Director, Office of Administration.
|  | Chief Financial Officer.
|  | Deputy Chief Financial Officer.
|  | Director, Office of Audit, Assessment and Management.
|  | Deputy Director, Office for Victims of Crime.
| National Institute of Justice | Deputy Director, National Institute of Justice.
| Office of the Inspector General | Director, Office of Oversight and Review.
|  | Deputy Assistant Inspector General for Audit.
|  | Deputy Assistant Inspector General for Investigation.
|  | General Counsel.
|  | Assistant Inspector General, Evaluation and Inspections Division.
|  | Assistant Inspector General for Audit.
|  | Assistant Inspector General for Investigation.
|  | Assistant Inspector General for Management and Planning.
|  | Deputy Inspector General.
| Office of Tribal Justice | Director.
DEPARTMENT OF JUSTICE—OFFICE OF THE INSPECTOR GENERAL | Audit Division | Deputy Assistant Inspector General, Audit Division.
|  | Assistant Inspector General, Audit Division.
| Evaluation and Inspections Division | Assistant Inspector General, Evaluation and Inspections Division.
| Front Office | General Counsel.
|  | Deputy Inspector General.
| Investigations Division | Deputy Assistant Inspector General, Investigations Division.
|  | Assistant Inspector General, Investigations Division.
| Management and Planning Division | Assistant Inspector General, Management and Planning Division.
| Oversight and Review Division | Assistant Inspector General, Oversight and Review Division.
DEPARTMENT OF LABOR | Office of the Secretary | Deputy National Director, Regional Operations.
|  | Deputy National Director, Regional Operations.
| Women's Bureau | Deputy Director, Women's Bureau.
| Office of the Inspector General | Deputy Inspector General.
|  | Deputy Assistant Inspector General for Labor Racketeering.
|  | Assistant Inspector General for Management and Policy.
|  | Deputy Assistant Inspector General for Audit.
|  | Assistant Inspector General for Audit.
|  | Counsel to the Inspector General.
|  | Assistant Inspector General for Inspections and Special Investigations.
|  | Assistant Inspector General for Investigations.
| Office of Public Affairs | Senior Managing Director.
|  | Director, Division of Enterprise Communications.
| Bureau of International Labor Affairs | Director, Office of Trade and Labor Affairs.
| Office of the Assistant Secretary for Policy | Deputy Assistant Secretary for Policy.
|  | Director, Office of Regulatory and Programmatic Policy.
| Office of the Solicitor | Associate Solicitor for Plan Benefits Security.
|  | Regional Solicitor, New York.
|  | Regional Solicitor, Boston.
|  | Associate Solicitor for Federal Employees' and Energy Workers' Compensation.
|  | Regional Solicitor, Atlanta.
|  | Associate Solicitor for Fair Labor Standards.
|  | Deputy Solicitor, Regional Operations.
|  | Regional Solicitor, San Francisco.
|  | Regional Solicitor, Kansas City.
|  | Regional Solicitor, Dallas.
|  | Regional Solicitor, Philadelphia.
|  | Associate Solicitor for Occupational Safety and Health.
|  | Regional Solicitor, Chicago.
|  | Acting Deputy Assistant Secretary.
|  | Associate Solicitor for Mine Safety and Health.
|  | Associate Solicitor for Black Lung and Longshore Legal Services.
|  | Associate Solicitor for Legal Counsel.
|  | Associate Solicitor for Civil Rights and Labor Management.
|  | Associate Solicitor, Management and Administrative Legal Services Division.
|  | Deputy Solicitor, National Operations.
| Office of Chief Financial Officer | Deputy Chief Financial Officer.
|  | Associate Deputy Chief Financial Officer for Financial Systems.
| Office of the Assistant Secretary for Administration and Management | Director, Office of Budget. Deputy Assistant Secretary for Budget and Performance Planning.
|  | Director, Program Planning and Results Center.
|  | Director, Business Operations Center.
|  | Director of Civil Rights.
|  | Deputy Director, Information Technology Center.
|  | Director, National Capital Service Center.
|  | Deputy Assistant Secretary for Operations.
|  | Deputy Assistant Secretary for Security and Emergency Management.
|  | Associate Deputy CIO.
|  | Director of Enterprise Services.
| Employment Standards Administration | Deputy Assistant Secretary for Operations.
|  | Director, Office of Management, Administration and Planning.
| Wage and Hour Division | Deputy Administrator for Program Operations.
|  | Director of Administrative Operations.
|  | Deputy Wage and Hour Administrator (Operations).
| Office of Workers Compensation Programs | Comptroller.
|  | Director for Federal Employees' Compensation.
|  | Director, Energy Employees' Occupational Illness Compensation.
|  | Regional Director (3).
|  | Director, Office of Enforcement and International Union Audits.
|  | Director of Coal Mine Workers' Compensation.
| Office of Labor-Management Standards | Director, Office of Policy, Reports and Disclosure.
|  | Deputy Director, Office of Labor Management Standards.
| Employee Benefits Security Administration | Regional Director, Philadelphia.
|  | Regional Director, New York.
|  | Chief Accountant.
|  | Deputy Director of Human Resources.
|  | Deputy Assistant Secretary for Program Operations.
|  | Director of Regulations and Interpretations.
|  | Director of Exemption Determinations.
|  | Director of Enforcement.
|  | Regional Director, San Francisco.
|  | Regional Director, Kansas City.
|  | Regional Director, Atlanta.
|  | Regional Director, Boston.
|  | Senior Policy Advisor.
|  | Director of Participant Assistance and Communications.
|  | Director of Health Plan Standards Compliance and Assistance.
|  | Director of Information Management.
| Bureau of Labor Statistics | Associate Commissioner for Compensation and Working Conditions.
|  | Director of Survey Processing.
|  | Director of Technology and Computing Services.
|  | Associate Commissioner for Survey Methods Research.
|  | Associate Commissioner for Employment and Unemployment Statistics.
|  | Associate Commissioner for Field Operations.
|  | Associate Commissioner for Administration.
|  | Associate Commissioner for Prices and Living Conditions.
|  | Associate Commissioner for Productivity and Technology.
|  | Deputy Commissioner for Labor Statistics.
|  | Assistant Commissioner for Industrial Prices and Price Indexes.
|  | Assistant Commissioner for Industry Employment Statistics.
|  | Assistant Commissioner for International Prices.
|  | Associate Commissioner for Publications and Special Studies.
|  | Assistant Commissioner for Current Employment Analysis.
|  | Associate Commissioner for Technology and Survey Processing.
|  | Assistant Commissioner for Compensation Levels and Trends.
|  | Assistant Commissioner for Safety, Health and Working Conditions.
|  | Assistant Commissioner for Occupational Statistics and Employment Projections.
|  | Assistant Commissioner for Consumer Prices and Prices Indexes.
| Employment and Training Administration | Comptroller.
|  | Associate Administrator.
|  | Administrator, Office of Financial and Administrative Management.
| Occupational Safety and Health Administration | Director, Directorate of Evaluation and Analysis.
|  | Directorate of Technical Support and Emergency Management.
|  | Director, Administrative Programs.
|  | Director, Directorate of Cooperative and State Programs.
|  | Director, Directorate of Standards and Guidance.
| Mine Safety and Health Administration | Director of Program Evaluation and Information Resources.
|  | Director of Assessments.
|  | Director of Technical Support.
|  | Director of Administration and Management.
|  | Director, Office of Accountability, Audit, and Program Policy Evaluation.
| Veterans Employment and Training Service | Director, Department of Labor Homeless Assistance Program.
|  | Deputy Assistant Secretary for Operations and Management.
|  | Director of Operations and Programs.
| Office of Disability Employment Policy | Deputy Assistant Secretary for ODEP.
|  | Director, Office of Operations.
DEPARTMENT OF LABOR—OFFICE OF INSPECTOR GENERAL | Department of Labor—Office of Inspector General | Assistant Inspector General for Management and Policy.
|  | Assistant Inspector General for Audit.
|  | Deputy Assistant Inspector General for Labor Racketeering.
|  | Deputy Assistant Inspector General for Audit.
|  | Assistant Inspector General for Inspections and Special Investigations.
|  | Deputy Inspector General.
|  | Assistant Inspector General for Labor Racketeering.
|  | Counsel.
MERIT SYSTEMS PROTECTION BOARD | Office of the Clerk of the Board | Clerk of the Board.
| Office of Financial and Administrative Management | Director, Financial and Administrative Management.
| Office of Policy and Evaluation | Director, Office of Policy and Evaluation.
| Office of Information Resources Management | Director, Information Resources Management.
| Office of Regional Operations | Director, Office of Regional Operations.
| Atlanta Regional Office | Regional Director, Atlanta.
| Central Region, Chicago Regional Office | Regional Director, Chicago.
| Northeast Region, Philadelphia Regional Office | Regional Director, Philadelphia.
| Western Region, San Francisco Regional Office | Regional Director, San Francisco.
| Washington, D.C. Region, Washington Regional Office | Regional Director, Washington, DC.
| Dallas Regional Office | Regional Director, Dallas.
NATIONAL AERONAUTICS AND SPACE ADMINISTRATION | National Aeronautics and Space Administration | KSC Associate Manager, Commercial Crew Program.
|  | Director, Lunar Science Institute.
|  | Director for Ames International Space Station Office.
|  | Deputy Director for Science.
|  | Senior Technical Advisor to the Director.
| Office of the Deputy Administrator | Associate Administrator, Strategy and Policy.
| Chief of Staff | Director, Office of Evaluation.
| Office of the Chief Scientist | Associate Chief Scientist for Life and Microgravity Sciences.
|  | Associate Chief Scientist for Planning and Evaluation.
| Exploration Systems Mission Directorate | Director, Mission Integration Division.
|  | Director, Business Operations Division.
|  | Manager, Strategic Planning.
|  | Assistant Associate Administrator for Administration.
|  | Manager, Advanced Space Technology Program.
|  | Assistant Associate Administrator, Strategic Integration and Managements.
|  | Director, Advanced Capabilities Division.
|  | Director, Directorate Integration Office.
|  | Director, Resources Management Office.
|  | Director, Strategic Integration and Management Office.
|  | Assistant Associate Administrator for Human Exploration Capability.
| Human Exploration and Operations Mission Directorate | Manager, Rocket Propulsion Test Program Office.
|  | Director, International Space Station and Space Shuttle Program Resource.
|  | Assistant Associate Administrator for Space Shuttle Program (2).
|  | Assistant Associate Administrator for International Space Station.
|  | Assistant Associate Administrator for Launch Services.
|  | Director, Program and Strategic Integration Office.
|  | Deputy Associate Administrator for Space Communications and Navigation.
|  | Assistant Associate Administrator for Resources Management and Analysis Office.
|  | Space Operations Mission Directorate Transition Manager.
|  | Director, Advanced Exploration Systems.
|  | Deputy Associate Administrator for Policy and Plans.
|  | Deputy Assistant Administrator for Program Integration.
| Science Mission Directorate | Deputy Associate Administrator for Management.
|  | Deputy Associate Administrator for Programs.
|  | Director, Applications Division.
|  | Deputy Director for Programs, Earth Science Division.
|  | Director, Strategic Integration and Management Division.
|  | Senior Advisor.
| James Webb Space Telescope Program Office | Director, James Webb Space Telescope Program.
| Planetary Science Division | Assistant Director for Strategy Communications and Integration.
|  | Mars Exploration Program Director.
|  | Director, Planetary Science Division.
|  | Deputy Director, Planetary Science Division.
| Astrophysics Division | Director, Astrophysics Division.
|  | Deputy Director, Astrophysics Division.
|  | Director, Astrophysics Division.
| Heliophysics Division | Deputy Director, Heliophysics Division.
|  | Director, Heliophysics Division.
|  | Program Director, Science Information and Telecommunications Systems.
| Earth Science Division | Director, Earth Science Division.
|  | Program Director, Science Division.
|  | Program Director, Research and Analysis Program.
|  | Deputy Director, Earth Science.
| Joint Agency Satellite Division | Deputy Director, Joint Agency Satellite Division.
|  | Director, Joint Agency Satellite Division.
| Strategic Integration and Management Division | Director, Strategic Integration and Management Division.
| Aeronautics Research Mission Directorate | Director, Strategy, Architecture, and Analysis Office.
|  | Director, Airspace Systems Program Office.
|  | Director, Aviation Safety Program Office.
|  | Director, Mission Support Office.
|  | Director, Mission Support Office.
|  | Director, Fundamental Aeronautics.
|  | Director, Integrated Systems Research Program Office.
|  | Director, Strategy Communications and Program Integration.
|  | Director, Integration and Management Office.
| Office of Program Analysis and Evaluation | Director, Independent Program Assessment Office.
|  | Deputy Associate Administrator.
|  | Deputy Director, Strategic Investments Division.
|  | Director, Cost Analysis Division.
|  | Deputy Director, Strategic Investment Division.
|  | Director, Studies and Analysis Division.
|  | Deputy Director, Technical Independent Program Assessment.
| Office of the Chief Financial Officer/Comptroller | Associate Deputy Chief Financial Officer (Finance).
|  | Deputy Chief Financial Officer (Agency Budget, Strategy and Performance).
| Office of Education | Deputy Associate Administrator for Education.
|  | Deputy Associate Administrator for Integration.
| Mission Support Directorate | Assistant Administrator for Agency Operations.
|  | Deputy Associate Administrator for Mission Support.
| Office of Headquarters Operations | Director, Human Resource Management Division.
|  | Director, Headquarters Information Technology and Communications Division.
| Office of Human Capital Management | Assistant Administrator for Human Capital Management.
|  | Director, Workforce Strategy Division.
|  | Director, Workforce Management and Development Division.
|  | Deputy Assistant Administrator for Human Capital Management.
|  | Director, Workforce Systems and Accountability Division.
| Office of Strategic Infrastructure | Director, Environmental Management Division.
|  | Deputy Assistant Administrator for Policy.
|  | Director, Facilities Engineering and Real Property Division.
|  | Director, Strategic Capability Asset Program.
|  | Director, Integrated Asset Management Division.
|  | Director, Facilities Engineering.
| NASA Shared Services Center | Deputy Director.
|  | Executive Director.
|  | Director, Business and Administration.
| Office of Protective Services | Assistant Administrator for Security and Program Protection.
| Office of Procurement | Director, Contract Management Division.
|  | Assistant Administrator for Procurement.
|  | Director, Contract Management Division.
|  | Director, Program Operations Division.
|  | Director, Analysis Division.
| NASA Management Office | Director.
| Office of Safety and Mission Assurance | Director.
|  | Director, Mission Support Division.
|  | Deputy Chief Safety and Mission Assurance Officer.
|  | Director, Safety and Assurance Requirements Division.
|  | Chief, Safety and Mission Assurance Office.
| Office of the Chief Financial Officer/Comptroller | Director, Financial and Budget Systems Management Division.
|  | Director, Policy Division.
|  | Director, Business Integration.
|  | Director for Performance Reporting.
|  | Director, Strategic Management and Planning.
|  | Director, Quality Assurance.
|  | Director, Financial Management.
|  | Senior Advisor to the Deputy Chief Financial Officer.
|  | Deputy Chief Financial Officer.
|  | Director, Budget Division.
| Office of the Chief Information Officer | Deputy Chief Information Officer for Information Technology Reform.
|  | Chief Technology Officer for Information Technology.
|  | Deputy Chief Information Officer for Information Technology Security.
|  | Associate Chief Information Officer for Capital Planning and Governance.
|  | Associate Chief Information Officer for Enterprise Service and Integration Division.
| Office of the Chief Engineer | Senior Advisor.
|  | Aeronautics Research Mission Directorate, Chief Engineer.
|  | Science Mission Chief Engineer.
|  | Exploration Systems Mission Directorate Chief Engineer.
| Office of Communications | Deputy Assistant Administrator for Legislative Affairs.
|  | Director, Media Services Division.
|  | Assistant Administrator for Legislative and Intergovernmental Affairs.
| Office of Program and Institutional Integration | Deputy Director of the Office of Program and Institutional Integration.
|  | Director of Program and Institutional Integration Office.
| Office of International and Interagency Relations | Deputy Director, Export Control and Interagency Liaison Division.
|  | Director, Space Operations Division.
|  | Director, Export Control and Interagency Liaison Division.
|  | Director, Advisory Committee Management Division.
| Office of Legislative and Intergovernmental Affairs | Deputy Associate Administrator for Legislative Affairs.
| Office of Diversity and Equal Opportunity | Director, Programs, Planning and Evaluation Division.
|  | Director, Complaints Management Division.
| Office of Small Business Programs | Associate Administrator, Small Business Programs.
| Johnson Space Center | Deputy Manager, Commercial Crew Program.
|  | Assistant to the Director, Innovation and Partnerships.
|  | Associate Director for Strategic Capabilities.
|  | Director, Astromaterials Research and Exploration Science.
|  | Deputy Associate Administrator, Strategic Program Planning.
|  | Chief of Staff, Office of the Director.
|  | Chief Knowledge Officer.
|  | Manager, Advanced Planning.
|  | Chief Financial Officer.
|  | Director of Human Resources.
|  | Associate Director (Technical).
|  | Assistant to the Director, Engineering.
|  | Associate Director (Management).
|  | Director, External Relations.
| Space Station Program Office | Manager, Mission Integration and Operations Office.
|  | Manager, International Space Station Program.
|  | Deputy Manager, International Space Station Program.
|  | Manager, Safety and Mission Assurance/Program Risk Office, Issp.
|  | Senior Advisor, Exploration and Space Operations.
|  | Manager, Program Projects Integration.
|  | Director, Human Space Flight Program—Russia.
|  | Manager, Avionics and Software Office.
|  | Manager, Program Planning and Control Office, International Space Station.
|  | Manager, Vehicle Office.
|  | Manager, International Space Station Payloads Office.
|  | Manager, Operations Integration.
| Space Shuttle Program | Associate Manager, SSP.
|  | Manager, Safety and Mission Assurance Office.
|  | Deputy Manager, Space Shuttle Program.
|  | Manager, Space Shuttle Systems Engineering and Integration Office.
|  | Manager, Orbiter Project Office.
|  | Deputy Space Shuttle Program Manager for Kennedy Space Center.
|  | Manager, Space Shuttle Business Office.
|  | Manager, Space Shuttle Program.
|  | Manager, Launch Integration (Kennedy Space Center).
| Mission Operations | Chief, Engineering Projects.
|  | Deputy Director, Mission Operations.
|  | Director, Mission Operations.
|  | Chief, Flight Director Office.
| Constellation Program Office | Assistant Orion Project Manager, Program Planning and Control, Constellation.
|  | Transition Manager, Operations and Test Integration Office, CX Program.
|  | Deputy Manager, Orion Project.
|  | Director, Operation Integration, Constellation Program.
|  | Deputy Manager, Orbiter Project Office.
|  | Deputy Manager, Constellation Office.
|  | Director, Program Planning and Control, Constellation.
|  | Director, Systems Engineering and Integration, Constellation.
|  | Associate Program Manager for Lunar Formulation.
|  | Constellation Program Deputy for the Orion Project.
|  | Assistant to the Director for Constellation.
|  | Manager, Constellation Program.
|  | Director, Safety Reliability and Quality Assurance, Constellation.
| Flight Crew Operations | Deputy Director, Flight Crew Operations.
|  | Chief, Aircraft Operations Division.
|  | Director, Flight Crew Operations.
|  | Assistant Director, Flight Crew Operations.
|  | Chief, Astronaut Office.
| Engineering | Manager, Engineering Services and Management Integration Office.
|  | Chief, Crew and Thermal Systems Division.
|  | Director, Engineering.
|  | Chief, Structural Engineering Division.
|  | Manager, Program Engineering Integration Office.
|  | Deputy Director, Engineering.
|  | Manager, Systems Architecture and Integration Office.
| Space and Life Sciences | Deputy Director, Space and Life Sciences.
|  | Director, Space Life Sciences.
|  | Manager, Human Research Program.
| Information Resources | Director, Information Resources.
| Office of Procurement | Director, Office of Procurement.
| Center Operations | Director, Center Operations.
| Safety and Mission Assurance | Deputy Director, Safety and Mission Assurance.
|  | Assistant to the Director, Safety and Mission Assurance.
|  | Director, Safety and Mission Assurance.
| White Sands Test Facility | Manager, National Aeronautics and Space Administration White Sands Test Facility.
| Eva Project Office | Manager, Eva Project Office.
| Kennedy Space Center | Director, Constellation Project Office.
|  | Director, Center Operations.
|  | Chief Financial Officer.
|  | Special Assistant to the Director.
|  | Associate Director for Business Operations, John F Kennedy Space Center.
|  | Director, John F Kennedy Space Center.
|  | Deputy Director , International Space Station and Spacecraft Processing Directorate.
|  | Director, Public Affairs.
|  | Chairperson, Engineering Services Contract Source Evaluation Board.
|  | Manager, Flight and Ground Project Office, Constellation Space Transportation Planning Office.
|  | Manager, Launch Vehicle Project, Constellation Space Transportation Planning Office.
|  | Manager, Spacecraft Flight Hardware Project.
|  | Deputy Director, Constellation Space Transportation Planning Office.
|  | Director, Constellation Space Transportation Planning Office.
|  | Deputy Director, Management, Constellation Project Office.
|  | Associate Director, International Space Station and Spacecraft Processing.
|  | Special Assistant to the Deputy Director.
|  | Special Assistant to the Deputy Director.
|  | Special Assistant for Engineering and Technical Operations.
|  | Associate Director for Engineering and Technical Operations.
|  | Deputy Director, Technical, Engineering and Technology Directorate.
|  | Director, Engineering and Technology Directorate.
|  | Deputy Director, Management, Engineering and Technology Directorate.
|  | Chief, Mechanical Division, Engineering Directorate.
|  | Manager, Constellation Ground System Project Office, Constellation Project Office.
|  | Director, Operational Systems Engineering Office, Engineering Directorate.
|  | Deputy Director, Design and Development, Engineering and Technology Directorate.
|  | Director, International Space Station and Spacecraft Processing Directorate.
|  | Deputy Director, Launch Vehicle Processing Directorate.
|  | Director, Launch Vehicle Processing Directorate.
|  | Chief Medical Officer.
|  | Deputy Director, Constellation Project Office.
| Procurement | Director, Procurement Office.
| Human Resources | Director, Human Resources Office.
| Information Technology and Communications Services | Director, Information Technology and Communications Services.
| Shuttle Processing | Deputy Director, Shuttle Processing.
| Safety and Mission Assurance | Deputy Director, Safety and Mission Assurance.
|  | Director, Safety and Mission Assurance.
| External Relations | Director, External Relations.
|  | Deputy Director, External Relations and Business Development.
| Launch Services Program | Manager, Launch Services Program.
|  | Director, Expendable Launch Vehicle Launch Services.
|  | Deputy Manager, Launch Services Program.
| Marshall Space Flight Center | Assistant for Project Management and Development.
|  | Deputy Director, Flight Projects Office.
| Office of the Director | Deputy Manager, Constellation Program.
|  | Associate Director, Technical.
| Office of the Deputy Director | Senior Executive for Technology and Integration.
|  | Associate Program Manager, Constellation Program.
| Office of the Associate Director | Associate Director, Management.
| Michaud Assembly Facility | Deputy Director.
|  | Director, Michaud Assembly Facility.
|  | Chief Operating Officer, Michaud Assembly Facility.
| Engineering Directorate | Director, Test Laboratory.
|  | Deputy Director, Engineering Directorate.
|  | Deputy Director, Space Systems Department.
|  | Director, Space Systems Department.
|  | Director, Materials and Processes Laboratory.
|  | Director, Propulsion Systems Department.
|  | Deputy Director, Propulsion Systems Department.
|  | Director, Mission Operations Laboratory.
|  | Director, Spacecraft and Vehicle Systems Department.
|  | Deputy Director, Spacecraft and Vehicle Systems Department.
|  | Associate Director for Technical Management.
|  | Assistant to the Chief Engineer.
|  | Deputy Manager, Office of the Chief Engineer.
|  | Manager, Office of the Chief Engineer.
|  | Associate Director for Operations.
|  | Chief Engineer, Space Launch System.
|  | Deputy Chief Engineer, Space Launch System Program.
| Office of the Chief Financial Officer | Chief Financial Officer (2).
|  | Deputy Chief Financial Officer.
| Office of Center Operations | Deputy Director, Office of Center Operations.
|  | Director, Office of Center Operations.
| Office of Procurement | Director, Office of Procurement.
| Shuttle Propulsion Office | Manager, Space Shuttle Main Engine Project, Shuttle Propulsion Office.
|  | Deputy Manager, Shuttle Propulsion Office.
|  | Manager, External Tank Project.
|  | Manager, Propulsion Systems Engineering and Integration Office.
|  | Manager, Shuttle Propulsion Office.
|  | Manager, Reusable Solid Rocket Booster Project.
| Safety and Mission Assurance Directorate | Deputy Director for Program Assurance.
|  | Chief Safety Officer.
|  | Director, Safety and Mission Assurance Directorate.
|  | Deputy Director, Safety and Mission Assurance Directorate.
| Science and Mission Systems Office | Chief Scientist (Aerospace Technology, Science Program Management).
|  | Manager, Science Programs and Projects Office.
|  | Deputy Manager, Science and Mission Systems Office.
|  | Manager, Science and Mission Systems Office.
|  | Manager, Lunar Program and Projects Office.
| Office of Strategic Analysis and Communications | Director, Office of Strategic Analysis and Communications.
| Ares Projects Office | Deputy Manager, Ares Projects Office.
|  | Manager, Upper Stage Engine Office.
|  | Manager, Ares Projects Office.
|  | Manager, Upper Stage Office.
|  | Manager, Vehicle Integration Office.
|  | Manager, First Stage Office.
| Space Launch System Program Office | Associate Program Manager.
|  | Manager, Program Planning and Control Office, Space Launch System Program Office.
|  | Manager, Advanced Development Office, Space Launch System Office.
|  | Manager, Boosters Office.
|  | Manager, Stages Office.
|  | Manager, Engines Office.
|  | Deputy Manager.
|  | Manager.
|  | Manager, Program Planning and Control Office.
| Science and Technology Office | Manager.
|  | Deputy Manager.
|  | Senior Science Advisor.
| Shuttle-Ares Transition Office | Manager.
| Office of Chief Information Officer | Deputy Chief Information Officer.
| Flight Programs and Partnerships Office | Deputy Manager.
|  | Manager.
| Office of Human Capital | Director, Office of Human Capital.
|  | Special Assistant to Director, Office of Human Capital.
| Stennis Space Center | Director, Center Operations Directorate.
|  | Director, Engineering and Science Directorate.
|  | Deputy Director, Stennis Space Center.
|  | Director, Office of Safety and Mission Assurance.
|  | Chief Financial Officer.
|  | Chair, Source Evaluation Board.
|  | Deputy Director, Engineering and Science Directorate.
|  | Director, Projects Directorate.
|  | Director, Business Management Directorate.
|  | Associate Director.
| Chief of Strategic Communications | Director, Business and Administration Operations.
| Ames Research Center | Associate Director for Institutions and Research.
|  | Deputy Director, Exploration Technology.
|  | Director of Engineering.
|  | Chief, Flight Vehicle Research and Technology Division.
|  | Human Capital Director.
|  | Deputy Associate Director for Institutions and Research.
|  | Procurement Officer.
|  | Ames Research Center Liaison for University Affiliated Research Center.
|  | Chief, Aviation Systems Division.
|  | Director, New Ventures and Communications Directorate.
|  | Chief Counsel.
|  | Director, Office of Safety, Environment and Mission Assurance.
|  | Chief, Computational Sciences Division.
|  | Deputy Director, Ames Research Center.
|  | Chief, Space Technology Division.
|  | Deputy Director, Center Operations.
|  | Deputy Director of Aeronautics.
|  | Deputy Director for Research.
|  | Special Assistant to the Director.
|  | Chief Financial Officer.
|  | Director of Center Operations.
|  | Director, Aeronautics Test Program.
|  | Director, Programs and Projects Directorate.
|  | Director, Astrobiology Institute.
|  | Chief, Intelligent Systems Division.
|  | Chief Information Officer.
|  | Director, Exploration Technology Directorate.
|  | Associate Director for Institutional Management and Engineering.
| Astrobiology and Space Research | Chief, Life Sciences Division.
|  | Director of Science.
| Dryden Flight Research Center | Chief Financial Officer (Financial Manager).
|  | Director, Flight Ops Directorate.
|  | Chief Counsel.
|  | Associate Director for Operations.
|  | Deputy Associate Director for Operations.
|  | Director for Programs.
|  | Deputy Associate Director for Programs.
|  | Director of Mission Information and Test Systems.
|  | Program Manager for Sofia.
|  | Director for Safety and Mission Assurance.
| Langley Research Center | Manager, Management and Technical Support Office.
|  | Director, National Aeronautics and Space Administration Engineering and Safety Center.
|  | Special Assistant to the Director.
|  | Chief Financial Officer.
|  | Director, Safety and Mission Assurance Office.
|  | Director, Office of Procurement.
|  | Director, Office of Strategic Analysis, Communications, and Business Development.
|  | Associate Director, Langley Research Center.
|  | Deputy Director, Safety and Mission Assurance Office.
|  | Deputy Director for Advanced Projects.
|  | Chief Information Officer.
|  | Senior Advisor for Space Technology.
|  | Deputy Director, Facilities and Laboratory Operations.
|  | Senior Advisor for Center Revitalization.
|  | Deputy Director for Safety.
|  | Director, Ground Facilities and Testing Directorate.
|  | Director, Earth System Science Pathfinder Program Office.
|  | Director, Technology and Exploration Directorate.
|  | Director, Flight Projects Directorate.
|  | Deputy Director for Programs.
|  | Associate Director for Special Programs.
|  | Deputy Director, Research and Technology Test Operations.
|  | Deputy Director, Research Program Implementation.
|  | Deputy Director, National Aeronautics and Space Administration Engineering and Safety Center.
|  | Director, Research Services Directorate.
|  | Director, Systems Analysis and Advanced Concepts Directorate.
|  | Director, Science Directorate.
|  | Director, Aeronautics Research Directorate.
|  | Director, Center Operations Directorate.
|  | Deputy Director, Research Directorate.
|  | Director, Research Directorate.
|  | Deputy Director, Engineering Directorate.
|  | Director, Engineering Directorate.
|  | Manager, Systems Engineering Office.
|  | Director, Office of Human Capital Management.
| Glenn Research Center | Associate Director for Technical Planning, Policy, Analysis and Evaluation.
|  | Plum Brook Station Manager.
|  | Chief, Office of Acquisition.
|  | Director of Center Operations.
|  | Chief Financial Officer.
|  | Director, Systems Management Office.
| Facilities and Test Directorate | Deputy Director of Facilities and Test.
|  | Director of Facilities and Test.
|  | Chief Facilities and Test Engineering Division.
|  | Associate Director for Infrastructure Assessment.
| Research and Technology Directorate | Chief, Aero Propulsion Division.
|  | Chief, Structures and Materials Division.
|  | Chief, Power and On-Board Propulsion Division.
|  | Chief, Communications, Instrumentation and Controls Division.
|  | Chief, New Business and Partnership Office.
| Space Flight Systems Directorate | Deputy Director, Space Flight Systems.
|  | Chief, Advanced Flight Projects Office.
| Engineering Directorate | Chief, Systems Engineering and Analysis Division.
|  | Chief, Mechanical and Fluid Systems Division.
|  | Director of Engineering.
|  | Deputy Director of Engineering and Technical Services.
|  | Chief, Power and Avionics Division.
|  | Chief, Chief Engineer Office.
| Office of the Chief Information Officer | Chief, Computer Services Division.
| Safety and Mission Assurance Directorate | Director, Office of Safety, Environmental and Mission Assurance.
| NASA Safety Center | Director, Audits and Assessments.
|  | Director, Technical Excellence.
| Goddard Space Flight Center | Assistant Director for Advanced Concepts.
|  | Special Assistant to Deputy Director.
| Human Resources | Director of Human Capital Management.
| Comptroller | Chief Financial Officer/Comptroller.
|  | Deputy Chief Financial Officer.
| Management Operations | Deputy Director of Management Operations.
|  | Associate Director for Acquisition.
| Flight Assurance | Director of Systems Safety and Mission Assurance.
|  | Deputy Director of Safety and Mission Assurance.
| Flight Projects | Associate Director for Earth Science Technology Office.
|  | Deputy Associate Director for Earth Science Projects Division.
|  | Associate Director for Earth Science Projects Division.
|  | Associate Director for Exploration and Space Communications Projects Division.
|  | Deputy Director for Planning and Business Management.
|  | Deputy Director of Flight Projects.
|  | Director of Flight Projects.
|  | Associate Director for Astrophysics Projects Division.
|  | Associate Director for Explorers and Heliophysics Projects Division.
|  | Deputy Associate Director for Explorers and Heliophysics Science Projects Division.
|  | Deputy Associate Director for Joint Polar Satellite System Program.
|  | Associate Director for Joint Polar Satellite System Program.
|  | Associate Director for Space Servicing Capabilities Project.
|  | Associate Director for Landsat Data Continuity Mission Project.
| Applied Engineering and Technology Directorate | Deputy Director of Applied Engineering and Technology.
|  | Chief, Information Systems Division.
|  | Chief, Mechanical Systems Division.
|  | Chief, Mission Engineering and Systems Analysis Division.
|  | Chief, Electrical Systems Division.
|  | Chief, Instrument Systems and Technology Division.
|  | Deputy Director of Applied Engineering and Technology for Planning and Business Management.
| Sciences and Exploration | Deputy Director of Sciences and Exploration.
|  | Director, Earth Sciences Division.
|  | Chief, Laboratory for Atmospheres.
|  | Deputy Director of Sciences and Exploration for Planning and Business Management.
|  | Director, Heliophysics Science Division.
|  | Deputy Director, Solar System Exploration Division.
|  | Director, Solar System Exploration Division.
|  | Director, Astrophysics Science Division.
|  | Deputy Director, Earth Sciences Division.
|  | Chief, Goddard Institute for Space Studies.
|  | Director of Sciences and Exploration.
| Suborbital Projects and Operations | Special Assistant for Project Management Training.
| Office of Security Management and Safeguards | Deputy Assistant Administrator for Security and Program Protection.
| Office of Chief Education Officer | Deputy Chief Education Officer.
|  | Director, Elementary and Secondary Education Division.
| Office of Security Management and Safeguards | Assistant Administrator for Security Management.
|  | Deputy Assistant Administrator for Security Management and Safeguards.
NATIONAL AERONAUTICS AND SPACE ADMINISTRATION—OFFICE OF THE INSPECTOR GENERAL | National Aeronautics and Space Administration—Office of the Inspector General | Counsel to the Inspector General. Assistant Inspector General for Management and Planning. Deputy Inspector General.
|  | Assistant Inspector General for Investigations.
|  | Assistant Inspector General for Auditing.
NATIONAL ARCHIVES AND RECORDS ADMINISTRATION | Archivist of United States and Deputy Archivist of the United States | Deputy Archivist of the United States.
| Office of the Chief Operating Officer | Chief Operating Officer.
| Agency Services | Chief Records Officer.
|  | Agency Services Executive.
| Business Support Services | Business Support Services Executive.
|  | Chief Financial Officer.
| Research Services | Research Services Executive.
| Office of the Federal Register | Director of the Federal Register.
| Information Services | Director, Information Technology Operations.
|  | Information Services Executive/CIO.
| Legislative Archives, Presidential Libraries and Museum Services | Legislative Archives, Presidential Libraries and Museum Services Executive.
| Office of Presidential Libraries | Deputy for Presidential Libraries.
| Office of Human Capital | Chief Human Capital Officer.
| Office of Strategy and Communications | Chief Strategy and Communications Officer.
| Office of Innovation | Chief Innovation Officer.
NATIONAL ARCHIVES AND RECORDS ADMINISTRATION—OFFICE OF THE INSPECTOR GENERAL | National Archives and Records Administration—Office of the Inspector General | Inspector General.
NATIONAL CAPITAL PLANNING COMMISSION | National Capital Planning Commission Staff | General Counsel. Deputy Executive Director.
|  | Chief Operating Officer.
|  | Executive Director.
NATIONAL ENDOWMENT FOR THE ARTS | National Endowment for the Arts | Chief Information Officer.
|  | Deputy Chairman for Programs and Partnerships.
|  | Director , Research and Analysis.
|  | Deputy Chairman for Management and Budget.
NATIONAL ENDOWMENT FOR THE ARTS—OFFICE OF THE INSPECTOR GENERAL | National Endowment for the Arts—Office of the Inspector General | Inspector General.
NATIONAL ENDOWMENT FOR THE HUMANITIES | National Endowment for the Humanities | Assistant Chairman for Planning and Operations.
NATIONAL LABOR RELATIONS BOARD | National Labor Relations Board | Deputy Associate General Counsel, Division of Enforcement Litigation.
| Office of the Board Members | Inspector General.
|  | Chief Information Officer.
|  | Executive Secretary.
|  | Deputy Executive Secretary.
| Division of Enforcement Litigation | Deputy Associate General Counsel, Appellate Court Branch.
|  | Director, Office of Appeals.
| Division of Advice | Deputy Associate General Counsel, Division of Advice.
|  | Associate General Counsel, Division of Advice.
| Division of Administration | Deputy Director, Division of Administration.
|  | Director, Division of Administration.
| Division of Operations Management | Assistant to General Counsel.
|  | Deputy Associate General Counsel, Division of Operations-Management.
|  | Associate General Counsel, Division of Operations-Management.
|  | Assistant General Counsel (3).
| Regional Offices | Regional Director, Region 34, Hartford, Connecticut.
|  | Regional Director, Region 31, Los Angeles, California.
|  | Regional Director, Region 32, Oakland, California.
|  | Regional Director, Region 30, Milwaukee, Wisconsin.
|  | Regional Director, Region 29, Brooklyn, New York.
|  | Regional Director, Region 28, Phoenix, Arizona.
|  | Regional Director, Region 27, Denver, Colorado.
|  | Regional Director, Region 26, Memphis, Tennessee.
|  | Regional Director, Region 25, Indianapolis, Indiana.
|  | Regional Director, Region 24, Hato Rey, Puerto Rico.
|  | Regional Director, Region 22, Newark, New Jersey.
|  | Regional Director, Region 21, Los Angeles, California.
|  | Regional Director, Region 20, San Francisco, California.
|  | Regional Director, Region 19, Seattle, Washington.
|  | Regional Director, Region 18, Minneapolis, Minnesota.
|  | Regional Director, Region 17, Kansas City, Kansas.
|  | Regional Director, Region 16, Fort Worth, Texas.
|  | Regional Director, Region 15, New Orleans, Louisiana.
|  | Regional Director, Region 14, Saint Louis, Missouri.
|  | Regional Director, Region 13, Chicago, Illinois.
|  | Regional Director, Region 12, Tampa, Florida.
|  | Regional Director, Region 11, Winston Salem, North Carolina.
|  | Regional Director, Region 10, Atlanta, Georgia.
|  | Regional Director, Region 9, Cincinnati, Ohio.
|  | Regional Director, Region 8, Cleveland, Ohio.
|  | Regional Director, Region 7, Detroit, Michigan.
|  | Regional Director, Region 6, Pittsburgh, Pennsylvania.
|  | Regional Director, Region 5, Baltimore, Maryland.
|  | Regional Director, Region 4, Philadelphia, Pennsylvania.
|  | Regional Director, Region 3, Buffalo, New York.
|  | Regional Director Region 2, New York.
|  | Regional Director, Region 1, Boston, Massachusetts.
NATIONAL SCIENCE FOUNDATION | Office of the Director | Chief Technology Officer.
| Office of Integrative Activities | Senior Advisor (3).
|  | Senior Scientist.
|  | Senior Advisor (Level -Ii).
| Office of Diversity and Inclusion | Office Head, Office of Diversity and Inclusion.
| Office of the General Counsel | Deputy General Counsel (2).
| Antarctic Infrastructure and Logistics Division | Division Director, Ail.
| Office of International Science and Engineering | Senior Staff Associate. Deputy Office Head.
| Directorate for Geosciences | Senior Facilities Advisor.
| Division of Atmospheric and Geospace Sciences | Section Head NCAR/Facilities Section.
| Division of Earth Sciences | Head, Deep Earth Processes Section.
| Division of Ocean Sciences | Section Head, Integrative Programs Section.
| Directorate for Engineering | Senior Advisor.
| Division of Engineering Education and Centers | Deputy Division Director (Education). Senior Staff Associate.
| Division of Civil, Mechanical, and Manufacturing Innovation | Deputy Division Director (2).
| Division of Industrial Innovation and Partnerships | Senior Advisor.
| Division of Chemical, Bioengineering, Environmental, and Transport Systems | Senior Advisor. Deputy Division Director.
| Division of Electrical, Communication and Cyber Systems | Deputy Division Director.
| Directorate for Biological Sciences | Deputy Assistant Director.
| Division of Environmental Biology | Deputy Division Director.
| Division of Integrative Organismal Systems | Deputy Division Director.
| Directorate for Mathematical and Physical Sciences | Senior Advisor (2). Deputy Assistant Director.
|  | Executive Officer.
|  | Senior Science Associate.
| Division of Astronomical Sciences | Deputy Division Director.
| Division of Mathematical Sciences | Deputy Division Director.
| Division of Materials Research | Deputy Division Director.
| Directorate for Education and Human Resources | Deputy Assistant Director for Integrative Activities.
| Division of Research on Learning in Formal and Informal Settings | Senior Advisor for Research.
| Directorate for Social, Behavioral and Economic Sciences | Deputy Assistant Director.
| Directorate for Computer and Information Science and Engineering | Senior Staff Associate. Deputy Assistant Director (2).
|  | Executive Officer.
| Office of Budget, Finance and Award Management | Deputy Director, Management, Operations and Policy.
|  | Deputy Director, Planning, Coordination and Analysis.
|  | Director, Budget, Finance and Award and Chief Financial Officer.
| Budget Division | Division Director.
|  | Deputy Director.
| Division of Financial Management | Division Director and Deputy Chief Financial Officer.
|  | Deputy Division Director, Division of Financial Management.
| Division of Grants and Agreements | Division Director.
| Division of Acquisition and Cooperative Support | Division Director.
| Division of Institutional and Award Support | Deputy Division Director.
|  | Division Director.
| Office of Information and Resource Management | Director. Senior Staff Associate.
|  | Senior Advisor.
|  | Head, Office of Information and Resource Management and Chief Human Capital Officer.
|  | Deputy Director.
| Division of Information Systems | Deputy Division Director.
| Division of Human Resource Management | Division Director.
|  | Deputy Division Director.
| Division of Administrative Services | Division Director.
|  | Deputy Division Director (2).
NATIONAL SCIENCE FOUNDATION—OFFICE OF THE INSPECTOR GENERAL | National Science Foundation—Office of the Inspector General | Assistant Inspector General for Legal, Legislative and External Affairs.
|  | Assistant Inspector General for Audit.
|  | Inspector General.
|  | Deputy Inspector General.
|  | Assistant Inspector General for Investigations.
NATIONAL TRANSPORTATION SAFETY BOARD | Office of the Managing Director | Managing Director. Deputy Managing Director.
| Office of Administration | Director, Office of Administration.
| Office of Aviation Safety | Director, Bureau of Accident Investigation.
|  | Deputy Director, Office of Aviation Safety.
|  | Deputy Director, Regional Operations.
| Office of Research and Engineering | Director, Office of Research and Engineering.
|  | Deputy Director, Office of Research and Engineering.
| Office of Chief Financial Officer | Chief Financial Officer.
| Office of Railroad, Pipeline and Hazardous Materials Investigations | Deputy Director, Office of Railroad, Pipeline and Hazardous Materials Safety.
|  | Director, Office of Railroad, Pipeline and Hazardous Materials Investigations.
| Office of Communications | Deputy Director, Office of Communications.
| Office of Highway Safety | Director, Office of Highway Safety.
| Office of Chief Information Officer | Chief Information Officer.
| Office of Marine Safety | Director, Office of Marine Safety.
NUCLEAR REGULATORY COMMISSION | Office of the Chief Financial Officer | Deputy Director, Division of Planning, Budget, and Analysis.
|  | Deputy Chief Financial Officer.
|  | Budget Director.
|  | Controller.
| Office of Commission Appellate Adjudication | Director, Office of Commission Appellate Adjudication.
| Office of Information Services | Director, Business Process Improvement and Applications Division.
|  | Director, Infrastructure and Computer Operations Division.
|  | Director, Program Management, Policy Development and Analysis Staff.
|  | Director, Information and Records Services Division.
|  | Deputy Director, Office of Information Services.
| Computer Security Office | Chief Information Security Officer/Director, Computer Security Office.
| Office of Administration | Deputy Director, Office of Administration.
|  | Director, Division of Facilities and Security.
|  | Director, Division of Administrative Services.
|  | Director, Division of Contracts.
|  | Associate Director for Space Planning and Consolidation.
|  | Associate Director for Strategic Acquisitions.
| Office of Nuclear Security and Incident Response | Deputy Director, Office of Nuclear Security and Incident Response.
|  | Director, Program Management, Policy Development, and Analysis Staff.
|  | Deputy Director, Division of Security Operations.
| Division of Security Policy | Deputy Director for Material Security.
|  | Deputy Director for Reactor Security and Rulemaking.
|  | Director, Division of Security Policy.
|  | Deputy Director, Division of Security Policy.
| Division of Preparedness and Response | Director, Division of Preparedness and Response.
|  | Deputy Director for Emergency Preparedness.
|  | Deputy Director for Incident Response.
| Division of Security Operations | Director, Division of Security Operations.
|  | Deputy Director for Security Oversight.
|  | Deputy Director for Security Programs.
| Office of Investigations | Deputy Director, Office of Investigations.
| Office of Small Business and Civil Rights | Director, Office of Small Business and Civil Rights.
| Office of New Reactors | Deputy Director, Office of New Reactors.
|  | Director, Division of Advanced Reactors and Rulemaking.
|  | Director, Division of Program Management, Policy Development and Analysis.
| Division of New Reactor Licensing | Director, Division of New Reactor Licensing.
|  | Deputy Director for Infrastructure and Policy.
|  | Deputy Director, Division of New Reactor Licensing (2).
|  | Deputy Director for Licensing Operations.
| Division of Site Safety and Environmental Analysis | Director, Division of Site Safety and Environmental Analysis (2).
| Division of Safety Systems and Risk Assessment | Deputy Director, Division of Safety Systems and Risk Assessment.
|  | Director, Division of Safety Systems and Risk Assessment.
| Division of Engineering | Director, Division of Engineering.
|  | Deputy Director, Division of Engineering.
| Division of Construction Inspection and Operational Programs | Deputy Director, Division of Construction Inspection and Operational Programs.
|  | Director, Division of Construction Inspection and Operational Programs.
| Office of Nuclear Reactor Regulation | Deputy Director for Engineering and Corporate Support.
|  | Director, Program Management, Policy Development and Planning Staff.
|  | Director, Japan Lessons Learned Project Directorate.
|  | Deputy Director for Reactor Safety Programs.
|  | Associate Director, Japan Lessons Learned Project Directorate.
| Division of Safety Systems | Deputy Director, Division of Safety Systems.
|  | Director, Division of Safety Systems.
| Division of Component Integrity | Deputy Director, Division of Component Integrity.
| Division of Engineering | Director, Division of Engineering.
|  | Deputy Director, Division of Engineering.
| Division of Risk Assessment | Director, Division of Risk Assessment.
|  | Deputy Director, Division of Risk Assessment.
| Deputy Director for Reactor Safety Programs | Deputy Director for Reactor Safety Programs.
| Division of License Renewal | Deputy Director, Division of License Renewal.
|  | Director, Division of License Renewal.
| Division of Operating Reactor Licensing | Director, Division of Operating Reactor Licensing.
|  | Deputy Director, Division of Operating Reactor Licensing (2).
| Division of Inspection and Regional Support | Deputy Director, Division of Inspection and Regional Support (2).
|  | Director, Division of Inspection and Regional Support.
| Division of Policy and Rulemaking | Director, Division of Policy and Rulemaking.
|  | Deputy Director, Division of Policy and Rulemaking (2).
| Office of Nuclear Material Safety and Safeguards | Director, Program Planning, Budgeting, and Program Analysis Staff.
| Waste Confidence Directorate | Director, Waste Confidence Directorate.
| Division of Fuel Cycle Safety and Safeguards | Director, Division of Fuel Cycle Safety and Safeguards.
|  | Deputy Director, Fuel Facility Licensing Directorate.
|  | Deputy Director, Special Projects and Technical Support Directorate.
|  | Deputy Director, Division of Fuel Cycle Safety and Safeguards.
| Division of Spent Fuel Alternative Strategies | Deputy Director, Technical Review Directorate.
|  | Deputy Director, Licensing and Inspection Directorate.
|  | Deputy Director, Division of Spent Fuel Alternative Strategies.
|  | Director, Division of Spent Fuel Alternative Strategies.
| Division of Spent Fuel Storage and Transportation | Deputy Director, Division of Spent Fuel Storage and Transportation.
|  | Director, Division of Spent Fuel Storage and Transportation.
|  | Deputy Director, Technical Review Directorate.
|  | Deputy Director, Licensing and Inspection Directorate.
| Office of Federal and State Materials and Environmental Management Programs | Deputy Director, Office of Federal and State Materials and Environmental Management Programs.
|  | Director, Program Planning, Budgeting, and Program Analysis Staff.
| Division of Materials Safety and State Agreements | Director, Division of Materials Safety and State Agreements.
|  | Deputy Director, National Materials Program Directorate.
|  | Deputy Director, Division of Materials Safety and State Agreements.
| Division of Intergovernmental Liaison and Rulemaking | Director, Division of Intergovernmental Liaison and Rulemaking.
|  | Deputy Director, Division of Intergovernmental Liaison and Rulemaking.
| Division of Waste Management and Environmental Protection | Director, Division of Waste Management and Environmental Protection.
|  | Deputy Director, Decommissioning and Uranium Recovery Licensing Directorate.
|  | Deputy Director, Environmental Protection and Performance Assessment Directorate.
| Office of Nuclear Regulatory Research | Director, Program Management, Policy Development and Analysis Staff.
| Division of Engineering | Deputy Director, Division of Engineering.
|  | Director, Division of Engineering.
| Division of Systems Analysis | Director, Division of Systems Analysis.
|  | Deputy Director, Division of Systems Analysis.
| Division of Risk Analysis | Director, Division of Risk Analysis.
|  | Deputy Director, Division of Risk Analysis.
| Region I | Deputy Director, Division of Reactor Projects.
|  | Deputy Regional Administrator.
|  | Deputy Director, Division of Reactor Safety.
|  | Director, Division of Nuclear Materials Safety.
|  | Director, Division of Reactor Projects.
|  | Director, Division of Reactor Safety.
| Region II | Deputy Director, Division of Construction Projects.
|  | Director, Division of Construction Inspection.
|  | Deputy Director, Division of Construction Inspection.
|  | Deputy Director, Division of Fuel Facility Inspection.
|  | Deputy Director, Division of Reactor Safety.
|  | Director, Division of Construction Projects.
|  | Deputy Director, Division of Reactor Projects.
|  | Director, Division of Fuel Facility Inspection.
|  | Director, Division of Reactor Projects.
|  | Deputy Regional Administrator for Operations.
|  | Director, Division of Reactor Safety.
|  | Deputy Regional Administrator for Construction.
| Region III | Deputy Regional Administrator.
|  | Director, Division of Reactor Projects.
|  | Director, Division of Reactor Safety.
|  | Deputy Director, Division of Reactor Projects.
|  | Deputy Director, Division of Reactor Safety.
|  | Director, Division of Nuclear Materials Safety.
| Region IV | Deputy Director, Division of Reactor Projects.
|  | Deputy Regional Administrator.
|  | Director, Division of Nuclear Materials Safety.
|  | Director, Division of Reactor Projects.
|  | Director, Division of Reactor Safety.
|  | Deputy Director, Division of Reactor Safety.
NUCLEAR REGULATORY COMMISSION—OFFICE OF THE INSPECTOR GENERAL | Nuclear Regulatory Commission—Office of the Inspector General | Deputy Inspector General.
| Assistant Inspector General for Audits | Assistant Inspector General for Audits.
| Assistant Inspector General for Investigations | Assistant Inspector General for Investigations.
OCCUPATIONAL SAFETY AND HEALTH REVIEW COMMISSION | Office of the Executive Director | Executive Director.
OFFICE OF GOVERNMENT ETHICS | Office of Government Ethics | Deputy Director for Administration and Information Management.
|  | Deputy Director for Agency Programs.
|  | Deputy Director for Government Relations and Special Projects.
|  | Deputy Director for Administration.
|  | Deputy General Counsel.
OFFICE OF MANAGEMENT AND BUDGET | Office of the Director | Associate Director for Management and Operations.
|  | Deputy Assistant Director for Management.
|  | Deputy Associate Director for Economic Policy.
|  | Senior Advisor to the Deputy Director for Management.
|  | Assistant Director for Management and Operations.
| Legislative Reference Division | Assistant Director, Legislative Reference.
|  | Chief, Labor, Welfare, Personnel Branch.
|  | Chief, Resources-Defense-International Branch.
|  | Chief, Economics, Science and Government Branch.
| Office of Federal Procurement Policy | Associate Administrator.
|  | Associate Administrator (Acquisition Policy).
|  | Associate Administrator for Procurement Law and Legislation.
|  | Associate Administrator for Acquisition Implementation.
|  | Deputy Administrator for Federal Procurement Policy.
|  | Associate Administrator.
| General Counsel | Associate General Counsel for Budget.
| Office of Information and Regulatory Affairs | Chief, Food, Health and Labor Branch.
|  | Chief, Statistical Policy Branch.
|  | Senior Advisor (2).
|  | Chief, Health, Transportation and General Government.
|  | Chief, Natural Resources and Environment Branch.
|  | Chief, Information Policy Branch.
| Office of E-Government and Information Technology | Chief Architect.
| Office of Federal Financial Management | Chief, Financial Integrity and Analysis Branch.
|  | Senior Advisor to the Director.
|  | Chief, Federal Financial Systems Branch.
|  | Chief, Financial Standards and Grants Branch.
|  | Chief, Accountability, Performance and Reporting Branch.
| Budget Review | Deputy Chief, Budget Review Branch.
|  | Chief, Budget Review Branch.
|  | Chief, Budget Systems Branch.
|  | Deputy Chief, Budget Analysis Branch.
|  | Deputy Assistant Director for Budget Review.
|  | Assistant Director for Budget Review.
|  | Deputy Assistant Director for Budget Analysis and Systems.
|  | Chief, Budget Concepts Branch.
|  | Chief, Budget Analysis Branch.
| International Affairs Division | Chief, State/United States International Affairs Branch.
|  | Deputy Associate Director for International Affairs.
|  | Chief, Economic Affairs Branch.
| National Security Division | Deputy Associate Director for National Security.
|  | Chief, Veterans Affairs and Defense Health Branch.
|  | Chief, Force Structure and Investment Branch.
|  | Chief, Command, Control, Communication, Computers and Intelligence Branch.
|  | Chief, Operations and Support Branch.
|  | Chief, Veteran Affairs Branch.
| Human Resource Programs | Senior Advisor.
|  | Chief, Personnel Policy Branch.
|  | Chief, Labor Branch.
|  | Deputy Associate Director for Education, Income Maintenance and Labor.
|  | Chief, Income Maintenance Branch.
|  | Deputy Associate Director, Education and Human Resources Division.
|  | Chief, Education Branch.
| Health Division | Chief, Health and Human Services Branch.
|  | Chief, Medicaid Branch.
|  | Chief, Health Insurance and Data Analysis Branch.
|  | Chief, Public Health Branch.
|  | Chief, Health and Financing Branch.
|  | Deputy Associate Director for Health.
|  | Chief, Medicare Branch.
| Transportation, Homeland, Justice and Services Division | Chief, Transportation Branch. Chief, Justice Branch.
|  | Chief, Transportation/General Services Administration Branch.
|  | Deputy Associate Director, Transportation, Homeland, Justice and Services.
|  | Chief, Homeland Security Branch.
| Housing, Treasury and Commerce Division | Chief, Commerce Branch.
|  | Chief, Housing Branch.
|  | Chief, Treasury Branch.
|  | Deputy Associate Director for Housing, Treasury and Commerce.
| Natural Resource Programs | Senior Advisor.
| Natural Resources Division | Chief, Environment Branch.
|  | Chief, Interior Branch.
|  | Deputy Associate Director for Natural Resources.
|  | Chief, Agricultural Branch.
| Energy, Science and Water Division | Chief, Energy Branch.
|  | Chief, Science and Space Programs Branch.
|  | Chief, Water and Power Branch.
|  | Deputy Associate Director for Energy and Science Division.
OFFICE OF NATIONAL DRUG CONTROL POLICY | Office of Supply Reduction | Associate Director for Intelligence.
|  | Assistant Deputy Director of Supply Reduction.
| National Youth Anti-Drug Media Campaign | Associate Deputy Director for State, Local and Tribal Affairs (National Youth Anti-Drug Media Campaign).
OFFICE OF PERSONNEL MANAGEMENT | Planning and Policy Analysis | Deputy Director, Actuary.
| Facilities, Security and Contracting | Deputy Director, Facilities, Security and Contracting.
|  | Director, Facilities, Security and Contracting.
| Healthcare and Insurance | Assistant Director, Federal Employee Insurance Operations (2).
| Retirement Services | Deputy Associate Director, Retirement Operations.
|  | Associate Director, Retirement Services.
|  | Deputy Associate Director, Retirement Services.
| Merit System Audit and Compliance | Deputy Associate Director, Merit System Audit and Compliance.
| Federal Investigative Services | Deputy Associate Director, Operations.
| Office of the Chief Financial Officer | Associate Chief Financial Officer, Financial Services.
|  | Deputy Chief Financial Officer.
|  | Chief, Financial Officer.
| Chief Information Officer | Chief, Information Officer.
OFFICE OF PERSONNEL MANAGEMENT—OFFICE OF THE INSPECTOR GENERAL | Office of the Inspector General | Deputy Inspector General.
| Office of Investigations | Deputy Assistant Inspector General for Investigations.
|  | Assistant Inspector General for Investigations.
| Office of Audits | Deputy Assistant Inspector General for Audits (2).
|  | Assistant Inspector General for Audits.
| Office of Legal Affairs | Assistant Inspector General for Legal Affairs.
| Office of Policy, Resources Management and Oversight | Assistant Inspector General for Management.
OFFICE OF SPECIAL COUNSEL | Headquarters, Office of Special Counsel | Associate Special Counsel for Investigation and Prosecution.
|  | Chief Financial Officer and Director of Administrative Services.
|  | Director, Office of Planning and Analysis.
|  | Associate Special Counsel for Investigation and Prosecution.
|  | Director of Management and Budget.
|  | Associate Special Counsel for Planning and Oversight.
|  | Associate Special Counsel for Legal Counsel and Policy.
|  | Associate Special Counsel for Investigation and Prosecution.
|  | Senior Associate Special Counsel for Investigation and Prosecution.
OFFICE OF THE UNITED STATES TRADE REPRESENTATIVE | Labor | Assistant United States Trade Representative for Labor.
| Industry, Market Access and Telecommunications | Assistant United States Trade Representative for Industry, Market Access and Telecommunications.
| South Asian Affairs | Assistant United States Trade Representative for South Asian Affairs.
RAILROAD RETIREMENT BOARD | Board Staff | Director of Policy and Systems.
|  | Director of Fiscal Operations.
|  | Chief Information Officer.
|  | Director of Programs.
|  | General Counsel.
|  | Assistant Inspector General for Audit.
|  | Chief Financial Officer.
|  | Assistant Inspector General for Investigations.
|  | Deputy General Counsel.
|  | Director of Administration.
|  | Director of Field Service.
|  | Chief Actuary.
|  | Director of Hearings and Appeals.
|  | Chief of Technology Service.
|  | Director of Operations.
SELECTIVE SERVICE SYSTEM | Selective Service System | Associate Director for Operations.
| Office of the Director | Associate Director for Operations.
|  | Senior Advisor to the Director.
SMALL BUSINESS ADMINISTRATION | Office of the Inspector General | Counsel to the Inspector General.
|  | Deputy Inspector General.
| Management and Policy Division | Assistant Inspector General for Management and Policy.
| Auditing Division | Assistant Inspector General for Auditing.
| Investigations Division | Assistant Inspector General for Investigations.
| Office of the General Counsel | Associate General Counsel for Procurement Law.
|  | Associate General Counsel for Financial Law and Lender Oversight.
|  | Associate General Counsel for Litigation.
|  | Associate General Counsel for General Law.
| Office of Field Operations | District Director (4).
|  | Senior Advisor to the Deputy Associate Administrator for Field Operations.
|  | District Director (2).
| Office of Equal Employment Opportunity and Civil Rights Compliance | Assistant Administrator for Equal Employment Opportunity and Civil Rights Compliance.
| Office of Hearings and Appeals | Assistant Administrator for Hearings and Appeals.
| Office of the Chief Financial Officer | Associate Administrator for Performance Management and Chief Financial Officer.
|  | Deputy Chief Financial Officer.
| Office of Capital Access | Deputy Associate Administrator for Capital Access.
| Office of Financial Assistance | Assistant Administrator for Portfolio Management.
|  | Deputy Associate Administrator for Financial Assistance.
|  | Director of Financial Assistance.
| Office of Surety Guarantees | Director for Surety Bonds and Guarantees Programs.
| Office of Entrepreneurial Development | Associate Administrator for Small Business Development Centers.
|  | Deputy Associate Administrator for Entrepreneurial Development.
| Office of Human Capital Management | Chief Human Capital Officer.
| Office of the Chief Information Officer | Deputy Chief Information Officer.
| Office of Government Contracting and Business Development | Director of Business Development.
| Office of Hubzone Empowerment Contracting | Director of Hubzone.
| Office of Business Development | Associate Administrator for Business Development.
| Office of Policy, Planning and Liaison | Associate Administrator for Procurement Policy and Liaison.
SMALL BUSINESS ADMINISTRATION—OFFICE OF THE INSPECTOR GENERAL | Small Business Administration—Office of the Inspector General | Assistant Inspector General for Auditing. Counsel to the Inspector General.
|  | Assistant Inspector General for Management and Policy.
|  | Assistant Inspector General for Investigations.
|  | Assistant Inspector General for Auditing Division.
|  | Deputy Inspector General.
SOCIAL SECURITY ADMINISTRATION | Office of the Chief Information Officer | Deputy Chief Information Officer.
|  | Associate Chief Information Officer for Information Technology Investment Management.
| Office of Quality Performance | Deputy Commissioner for Quality Performance.
|  | Assistant Deputy Commissioner for Quality Performance.
| Office of Disability Adjudication and Review | Assistant Deputy Commissioner for Disability Adjudication and Review.
|  | Deputy Commissioner for Disability Adjudication and Review.
| Office of Federal Reviewing Official | Chief Federal Reviewing Official.
| Office of Appellate Operations | Deputy Executive Director, Office of Appellate Operations.
|  | Executive Director, Office of Appellate Operations.
| Office of Medical and Vocational Expertise | Associate Commissioner for Medical and Vocational Expertise.
| Office of the Chief Actuary | Deputy Chief Actuary (Long-Range).
|  | Deputy Chief Actuary (Short-Range).
|  | Chief Actuary.
| Office of Disability Determinations | Associate Commissioner for Disability Determinations.
| Office of Personnel | Associate Commissioner for Personnel.
|  | Deputy Associate Commissioner for Personnel.
| Office of Civil Rights and Equal Opportunity | Associate Commissioner for Civil Rights and Equal Opportunity.
|  | Deputy Associate Commissioner for Civil Rights and Equal Opportunity.
| Office of Labor-Management and Employee Relations | Associate Commissioner for Labor-Management and Employee Relations.
|  | Deputy Associate Commissioner for Labor-Management and Employee Relations.
| Office of Budget, Finance and Management | Assistant Deputy Commissioner for Budget, Finance and Management.
| Office of Financial Policy and Operations | Deputy Associate Commissioner for Financial Policy and Operations (Payments, Conference Management and Travel).
|  | Deputy Associate Commissioner, Financial Policy and Operations.
|  | Associate Commissioner, Office of Finance Policy and Operations.
| Office of Budget | Associate Commissioner for Budget.
|  | Deputy Associate Commissioner for Budget.
| Office of Acquisition and Grants | Deputy Associate Commissioner for Acquisition and Grants.
|  | Associate Commissioner for Acquisition and Grants.
| Office of Telecommunications and Systems Operations | Deputy Associate Commissioner for Telecommunications and Systems Operations.
|  | Associate Commissioner for Telecommunications and Systems Operations.
|  | Assistant Associate Commissioner for Enterprise Information Technology Services Management.
| Office of Information Security | Associate Commissioner for Information Security.
| Office of General Law | Deputy Associate General Counsel for General Law.
|  | Associate General Counsel for General Law.
| Office of Program Law | Deputy Associate General Counsel for Program Law.
| Office of Public Disclosure | Executive Director for Public Disclosure.
SOCIAL SECURITY ADMINISTRATION—OFFICE OF THE INSPECTOR GENERAL | Immediate Office of the Inspector General Office of Counsel to the Inspector General | Deputy Inspector General. Counsel to the Inspector General.
| Office of External Relations | Assistant Inspector General for External Relations (2).
| Office of Audit | Deputy Assistant Inspector General for Audit (Program Audit and Evaluations).
|  | Deputy Assistant Inspector General for Audit (Financial Systems and Operations Audits).
|  | Assistant Inspector General for Audit.
| Office of Investigations | Assistant Inspector General for Investigations.
|  | Deputy Assistant Inspector General for Investigations (NIO) (2).
|  | Deputy Assistant Inspector General for Investigations (FO).
| Office of Technology and Resource Management | Assistant Inspector General for Technology and Resource Management.
|  | Deputy Assistant Inspector General for Technology and Resource Management.
DEPARTMENT OF STATE | Office of the Legal Adviser | Assistant Legal Adviser.
| Office of the Inspector General | General Counsel to the Inspector General.
|  | Assistant Inspector General for Investigations.
|  | Assistant Inspector General for Audits.
|  | Deputy Inspector General.
|  | Assistant Inspector General for Audits.
|  | Assistant Inspector General for Management.
|  | Deputy Inspector General (2).
|  | Deputy Assistant Inspector General for Investigations.
|  | Deputy Assistant Inspector General for Audits.
| Bureau of Intelligence and Research | Executive Director.
| Office of the Under Secretary for Management | Ombudsman. Managing Director.
| Bureau of Administration | Director, Office of Acquisitions.
| Bureau of Human Resources | Human Resources Officer.
|  | Principal Deputy Assistant Secretary.
| Bureau of Consular Affairs | Director for Consular Technology.
| Bureau of International Security and Nonproliferation | Office Director (2).
| Bureau of Political and Military Affairs | Managing Director.
|  | Political Advisor.
| Bureau of Arms Control, Verification, and Compliance | Director, Office of Strategic Negotiations and Implementation.
DEPARTMENT OF STATE—OFFICE OF THE INSPECTOR GENERAL | Office of Inspector General | General Counsel to the Inspector General. Assistant Inspector General for Investigations.
|  | Deputy Assistant Inspector General for Audits.
|  | Deputy Assistant Inspector General for Middle East Regional Office.
|  | Deputy Inspector General.
|  | Assistant Inspector General for Management.
|  | Assistant Inspector General for Audits (2).
|  | Deputy Assistant Inspector General for Investigations.
TRADE AND DEVELOPMENT AGENCY | Office of the Director | Assistant Director for Policy and Programs.
DEPARTMENT OF TRANSPORTATION | Office of Intelligence, Security and Emergency Response | Director, Office of Intelligence, Security and Emergency Response.
|  | Deputy Director.
| Chief Information Officer | Chief Information Security Officer.
| Office of Safety, Energy and Environment | Director.
| Assistant Secretary for Budget and Programs | Chief Financial Officer.
|  | Deputy Chief Financial Officer.
| Assistant Secretary for Administration | Assistant Secretary for Administration.
| Office of the Senior Procurement Executive | Senior Procurement Executive.
| Administrator | Chief Financial Officer.
|  | Executive Director.
| Associate Administrator for Railroad Safety | Associate Administrator for Railroad Safety/Chief Safety Officer.
| Administrator | Executive Director.
| Associate Administrator for Environment and Compliance | Associate Administrator for Environment and Compliance.
|  | Deputy Associate Administrator for Environment and Compliance.
| Administrator | Director of Innovative Program Delivery.
|  | Executive Director.
| Office of the Chief Financial Officer | Chief Financial Officer.
|  | Deputy Chief Financial Officer and Chief Budget Officer.
| Office of Real Estate Services | Director, Office of Real Estate Services.
| Associate Administrator for Safety | Associate Administrator for Safety.
| Office of Acquisition Management | Director, Office of Acquisition Management.
| Office of Safety Research and Development | Director, Office of Safety Research, Development and Technology.
| Administrator | Chief Financial Officer.
|  | Assistant Administrator/Chief Safety Officer.
| Office of Licensing and Safety Information | Director, Office for Licensing and Safety Information.
| Office of Bus and Truck Standards and Operations | Director, Office of Bus and Truck Standards and Operations.
| Office of Enforcement and Compliance | Director, Office of Enforcement and Compliance.
| Associate Administrator for Enforcement | Associate Administrator for Enforcement.
|  | Director, Office of Defects Investigation.
|  | Director, Office of Vehicle Safety Compliance.
| Proceedings | Deputy Director, Legal Analysis.
| Office of Economic, Environmental Analysis and Administration | Director of Economic, Environmental Analysis and Administration.
| Office of Chief Safety Officer | Assistant Administrator and Chief Safety Officer.
| Office of Pipeline Safety | Deputy Associate Administrator for Field Operations.
|  | Deputy Associate Administrator for Policy and Programs.
|  | Associate Administrator for Pipeline Safety.
DEPARTMENT OF TRANSPORTATION—OFFICE OF THE INSPECTOR GENERAL | Deputy Inspector General Principal Assistant Inspector General for Auditing and Evaluation | Deputy Inspector General. Principal Assistant Inspector General for Auditing and Evaluation.
| Assistant Inspector General for Financial and Information Technology Audits | Assistant Inspector General for Financial and Information Technology Audits.
| Assistant Inspector General for Acquisition and Procurement Audits | Assistant Inspector General for Acquisition and Procurement Audits.
| Assistant Inspector General for Aviation and Special Program Audits | Assistant Inspector General for Aviation and Special Program Audits.
| Assistant Inspector General for Surface and Maritime Program Audits | Assistant Inspector General for Highway and Transit Audits.
| Assistant Inspector General for Amtrak, High Speed Rail and Economic Analysis | Assistant Inspector General for Amtrak, High Speed Rail and Economic Analysis.
| Deputy Assistant Inspector General for Aviation and Special Program Audits | Deputy Assistant Inspector General for Aviation and Special Program Audits.
| Deputy Assistant Inspector General for Surface and Maritime Program Audits | Deputy Assistant Inspector General for Highway and Transit Audits.
| Principal Assistant Inspector General for Investigations | Principal Assistant Inspector General for Investigations.
| Assistant Inspector General for Investigations | Deputy Assistant Inspector General for Investigations.
| Assistant Inspector General for Administration | Assistant Inspector General for Administration.
| Assistant Inspector General for Legal, Legislative and External Affairs | Assistant Inspector General for Legal, Legislative and External Affairs.
DEPARTMENT OF THE TREASURY | Fiscal Assistant Secretary | Fiscal Assistant Secretary.
|  | Deputy Assistant Secretary for Fiscal Operations and Policy.
|  | Deputy Assistant Secretary, Accounting Policy.
| Financial Management Service | Senior Advisor.
|  | Director, Debt Management Services Operations, West.
|  | Assistant Commissioner, Business Architecture.
|  | Deputy Assistant Commissioner, Payment Management.
|  | Director, Cash Management Infrastructure Group.
|  | Assistant Commissioner, Payment Management.
|  | Comptroller/Deputy Chief Financial Officer.
|  | Senior Advisor.
|  | Deputy Commissioner, Financial Services and Operations.
|  | Commissioner, Bureau of the Fiscal Service.
|  | Assistant Commissioner, Federal Finance.
|  | Deputy Assistant Commissioner, Debt Management Services.
|  | Director, Regional Financial Center (Kansas City).
|  | Director, Regional Financial Center (Philadelphia).
|  | Assistant Commissioner, Governmentwide Accounting.
|  | Assistant Commissioner, Financial Operations.
|  | Assistant Commissioner, Debt Management Services.
|  | Assistant Commissioner, Regional Operations.
|  | Assistant Commissioner, Management, Chief Financial Officer.
|  | Director, Revenue Collection Group.
|  | Deputy Commissioner, Financial Management Service.
|  | Commissioner, Financial Management Service.
|  | Assistant Commissioner, Information Resources.
|  | Director, Regional Financial Center (San Francisco).
|  | Director, Regional Financial Center (Austin).
|  | Assistant Commissioner, Governmentwide Accounting Operations.
|  | Deputy Chief Information Officer.
|  | Director, Cash Management Enterprise Architecture.
|  | Deputy Assistant Commissioner, Governmentwide Accounting.
|  | Director, Information Services Directorate.
| Bureau of the Public Debt | Deputy Assistant Commissioner, Financing.
|  | Assistant Commissioner, Office of Management Services.
|  | Deputy Commissioner, Finance and Administration.
|  | Deputy Commissioner, Accounting and Shared Services.
|  | Executive Director, Do Not Pay Staff.
|  | Deputy Assistant Commissioner, Office of Retail Securities.
|  | Deputy Assistant Commissioner, Office of Information and Security Services.
|  | Assistant Commissioner, Office of Retail Securities.
|  | Senior Advisor.
|  | Deputy Executive Director, Administrative Resources Center.
|  | Assistant Commissioner, Public Debt Accounting.
|  | Assistant Commissioner, Office of Information Technology.
|  | Executive Director, Government Securities Regulations.
|  | Commissioner of the Public Debt.
|  | Deputy Commissioner of the Public Debt.
|  | Executive Director, Administrative Resource Center.
|  | Assistant Commissioner, Financing.
| Assistant Secretary for Financial Institutions | Deputy Director, Federal Insurance Office.
|  | Director, Federal Insurance Office.
| Assistant Secretary for Terrorist Financing | Director, Executive Office for Asset Forfeiture.
| Financial Crimes Enforcement Network | Executive Advisor.
|  | Director, Financial Crimes Enforcement Network.
|  | Deputy Director.
|  | Associate Director, Analysis and Liaison Division.
|  | Chief Counsel, Financial Crimes Enforcement Network.
|  | Deputy Associate Director, Compliance and Enforcement Programs.
|  | Associate Director, International.
|  | Associate Director, Management Programs Division.
|  | Associate Director, Technology Solutions and Services Division/Chief Information Officer.
|  | Associate Director, Regulatory Policy and Programs Division.
| Assistant Secretary for Intelligence and Analysis | Deputy Assistant Secretary for Security.
| Inspector General | Deputy Assistant Inspector General for Audit (Program Audits).
|  | Deputy Assistant Inspector General for Investigations.
|  | Counsel to the Inspector General.
|  | Deputy Assistant Inspector General for Audit (Financial Management).
|  | Assistant Inspector General for Management Services.
|  | Assistant Inspector General for Audit.
|  | Assistant Inspector General for Investigations.
|  | Senior Technical Advisor to the Inspector General.
| Treasury Inspector General for Tax Administration | Assistant Inspector General for Investigations (Field Operations).
|  | Assistant Inspector General for Audit (Wage and Investment).
|  | Assistant Inspector General for Audit (Small Business and Corporate Entities).
|  | Assistant Inspector General for Investigation.
|  | Assistant Inspector General for Audit (Headquarters Operations).
|  | Deputy Inspector General for Audit.
|  | Counsel to the Treasury Inspector General for Tax Administration.
|  | Deputy Assistant Inspector General for Investigations.
|  | Deputy Inspector General for Inspections and Evaluations.
|  | Deputy Inspector General.
|  | Associate Inspector General for Mission Support.
|  | Deputy Inspector General for Investigations.
|  | Assistant Inspector General for Audit (Information Systems Programs).
| Assistant Secretary (Tax Policy) | Deputy Director and Chief Economist.
|  | Director, Economic Modeling and Computer Applications.
| Alcohol and Tobacco Tax and Trade Bureau | Deputy Administrator, Alcohol and Tobacco Tax and Trade Bureau.
|  | Assistant Administrator, Field Operations.
|  | Assistant Administrator, Headquarter Operations.
|  | Assistant Administrator, Management/Chief Financial Officer.
|  | Administrator, Alcohol and Tobacco Tax and Trade Bureau.
|  | Assistant Administrator, Information Resources/Chief Information Officer.
| Assistant Secretary for Management | Director, Office of Minority and Women Inclusion.
|  | Director, Office of Procurement.
|  | Deputy Chief Financial Officer.
| Internal Revenue Service | Director, Exempt Organizations Examinations.
|  | Director, Communications, Technology and Media Industry—Large and Mid-Size Business.
|  | Director, Personnel Policy.
|  | Director, Field Operations, Communications, Technology and Media—Northwest.
|  | Special Agent In-Charge, Los Angeles.
|  | Commissioner, Wage and Investment.
|  | Director, Human Resources—Small Business and Self Employed.
|  | Senior Counselor to the Commissioner (Tax Administration, Practice and Professional Responsibility).
|  | Area Director, Stakeholder Partnership Education and Communication.
|  | Director, Field Specialists—Large and Mid-size Business.
|  | Director, Field Operations, Special—Wage and Investment.
|  | Director, Real Estate and Facilities Management.
|  | Project Director (42).
|  | Director of Research.
|  | Director, Compliance Systems Division.
|  | Director, Program Analysis Customer Account Services—Wage and Investment.
|  | Director, Compliance Area.
|  | Division Information Officer—Large and Mid-Size Business.
|  | Director, Operations.
|  | Area Director, Field Assistance (San Francisco)—Wage and Investment.
|  | Director, Exempt Organizations, Rulings and Agreements.
|  | Director, Detroit Computing Center.
|  | Director, Portfolio Management.
|  | Director of Compliance, Atlanta—Wage and Investment.
|  | Deputy Director, Procurement.
|  | Director, Taxpayer Education and Communication Area, St Louis—Small Business and Self Employed.
|  | Area Director, Stakeholder, Partnership, Education, and Communication, Dallas—Wage and Investment.
|  | Director, Compliance Area, Baltimore—Small Business and Self Employed.
|  | Director, Procurement.
|  | Director, Taxpayer Education Area, Chicago—Small Business and Self Employed.
|  | Deputy Associate Commissioner, Systems Integration.
|  | Director, Compliance Area, Dallas—Small Business and Self Employed.
|  | Director, Media and Publications.
|  | Project Director.
|  | Director, Internet Development Services.
|  | Director, Strategic Services.
|  | Director, Compliance Area.
|  | Director, Compliance Area, Oakland—Small Business and Self-Employed.
|  | Director, Statistics of Income.
|  | Executive Director, Systemic Advocacy—National Taxpayer Advocate.
|  | Director, Mission Assurance.
|  | Compliance Service Field Director, Andover—Wage and Investment.
|  | Director, Security Policy, Support and Oversight.
|  | Director, Field Assistance Area.
|  | Accounts Management Field Director, Fresno—Wage and Investment.
|  | Director of Field Operations, New York—Large and Mid-Size Business.
|  | Associate Chief Financial Officer for Internal Financial Management—National Headquarters.
|  | Director, Pre-Filing and Technical Guidance.
|  | Director, Compliance Area—Denver, Small Business and Self Employed.
|  | Submission Processing Field Director—Fresno, California.
|  | Area Director, Stakeholder, Partnership, Education and Communication.
|  | Associate Chief Financial Officer for Corporate Strategy.
|  | Director, Strategic Planning and Program Management.
|  | Accounts Management Field Director.
|  | Director, Customer Account Manager.
|  | Director, Safety and Security.
|  | Deputy Director, Enterprise Operations Services.
|  | Director, Enterprise Operations Services.
|  | Director, Corporate Data and Systems Management Division.
|  | Deputy Director, Business Systems Development Division.
|  | Director, Management Services.
|  | Director, Change Management and Release Management.
|  | Director, Professional Responsibility.
|  | Director, Strategy and Finance, Appeals.
|  | Compliance Service, Field Director—Atlanta.
|  | Director, Strategy and Finance.
|  | Director, Management and Support.
|  | Director, Product Assurance.
|  | Submission Processing Field Director—Austin.
|  | Deputy Chief, Appeals.
|  | Deputy Director, Submission Processing, Cincinnati—Small Business and Self Employed.
|  | Chief, Information Technology Services.
|  | Director, Strategy, Research and Performance Management.
|  | Area Director, Stakeholder, Partnership, Education and Communications—New Orleans.
|  | Director, Compliance , Detroit—Small Business and Self Employed.
|  | Director, Business Systems Planning—Large and Mid-Size Business.
|  | Project Director—Appeals.
|  | Industry Director—Financial Services—Large and Mid-Size Business.
|  | Director, Performance, Quality and Innovation—Large and Mid-Size Business.
|  | Deputy Director, Pre-filing and Technical Guidance.
|  | Director, Equal Employment Opportunity and Diversity.
|  | Director, Tax Exempt Bonds.
|  | Compliance Service Field Director, Austin—Wage and Investment.
|  | Director, Taxpayer Education and Communication—Small Business and Self Employed.
|  | Director, Government Entities.
|  | Accounts Management Field Director, Austin—Wage and Investment.
|  | Deputy Director, Submission Processing.
|  | Deputy Division Commissioner, Tax Exempt and Government Entities.
|  | Compliance Service Field Director—Kansas City.
|  | Director, Personnel Services.
|  | Executive Director, Equity, Diversity, and Inclusion.
|  | Director, Legislative Affairs Division.
|  | Area Director, Western.
|  | National Director of Appeals.
|  | Compliance Service Field Director—Philadelphia.
|  | Submission Processing Field Director—Andover.
|  | Submission Processing Field Director—Atlanta.
|  | Director, Field Operations (Financial Services), Laguna Niguel.
|  | Director, Research, Analysis and Statistics of Income.
|  | Director, Field Assistance—Wage and Investment.
|  | Director, Strategy and Finance—Wage and Investment.
|  | Director, Field Assistance Area (Phoenix)—Wage and Investment.
|  | Director, Communication, Assistance, Research and Education.
|  | Director, Customer Account Services—Wage and Investment.
|  | Director, Submission Processing (Cincinnati)—Wage and Investment.
|  | Accounts Management Field Director—Andover.
|  | Accounts Management Field Director, Fresno.
|  | Submission Processing Field Director—Philadelphia.
|  | Deputy National Taxpayer Advocate.
|  | Commissioner, Tax Exempt and Government Entities Division.
|  | Deputy Chief, Agencywide Shared Services.
|  | Industry Director, Heavy Manufacturing and Pharmaceuticals.
|  | Chief, Management and Finance—Large and Mid-Size Business.
|  | Director, Exempt Organizations.
|  | Director, Human Resources—Wage and Investment.
|  | Director, Employee Plans.
|  | Director of Field Operations (Southeast Area)—Criminal Investigation.
|  | Associate Chief Information Officer for Management and Finance.
|  | Area Director, Field Assistance.
|  | Director, Office of Information Technology Acquisition.
|  | Deputy Director, Enterprise Operations Services.
|  | Director, Financial Management Services.
|  | Assistant Deputy Commissioner for Services and Enforcement.
|  | Director, Internal Management Systems Development Division.
|  | Deputy Chief Financial Officer.
|  | Project Director, Employee Tax Compliance.
|  | Director, Business Systems Planning.
|  | Deputy Associate Chief Information Officer, Business Systems Development.
|  | Project Director, Office of Professional Responsibility.
|  | Chief, Communications and Liaison.
|  | Director of Field Operations.
|  | Associate Chief Information Officer for Information Technology Services.
|  | Director, Employment, Talent and Security.
|  | Director, Operational Readiness.
|  | Director, Technical Systems Software.
|  | Director, Tax Forms and Publications.
|  | Director, Development Services.
|  | Director, Compliance Area.
|  | Director, Compliance Area.
|  | Director, Technical Services.
|  | Area Director, Field Assistance.
|  | Director, Enterprise Operations Services.
|  | Director, Research.
|  | Director, Employee Plan Determination Letter Redesign.
|  | Director, Regulatory Compliance.
|  | Chief, Criminal Investigation.
|  | Director, Strategy, Program Management and Personnel Security.
|  | Chief Financial Officer, Internal Revenue Service.
|  | Chief, Mission Assurance and Security Services.
|  | Director, Operations Policy and Support.
|  | Director, Stakeholder, Partnership, Education and Communications.
|  | Director, Competitive Sourcing.
|  | Assistant Deputy Commissioner for Operations Support.
|  | Chief Human Capital Officer, Internal Revenue Service.
|  | Director, Financial Management Services.
|  | Director, Strategy, Criminal Investigations.
|  | Assistant to Director, Real Estate and Facilities Management.
|  | Information Technology Manager, Policy and Planning.
|  | Chief Information Officer.
|  | Commissioner, Large and Mid-Sized Business Division.
|  | Commissioner, Small Business and Self Employed.
|  | Compliance Service Field Director.
|  | Project Manager.
|  | Deputy Commissioner, Operations Support.
|  | Chief of Staff, Internal Revenue Service.
|  | Field Director, Accounts Management, Wage and Investment.
|  | Director, Reporting Compliance.
|  | Deputy Director, Office of Professional Responsibility.
|  | Director, Accounts Management, Wage and Investment.
|  | Director, Media and Publications Distribution Division.
|  | Director, Field Operations, East, Appeals.
|  | Director, Field Operations, West, Appeals.
|  | Area Director, Information Technology.
|  | Director, Business Systems Planning.
|  | Deputy Director, Taxpayer Education and Communication.
|  | Deputy Chief, Criminal Investigation.
|  | Director, Taxpayer Education Area—Los Angeles.
|  | Director, Field Operations.
|  | Director, Abusive Transactions.
|  | Director, Examination Policy.
|  | Director, Examination Area.
|  | Director, Collection Area (6).
|  | Director, Collection Business Reengineering.
|  | Director, Planning and Analysis.
|  | Director, Collection Policy.
|  | Modernization Executive.
|  | Director, Taxpayer Education and Communication Field Operations.
|  | Director, Criminal Investigation Technology Operations and Investigative Services.
|  | Director, Collection.
|  | Director, Workforce Relations.
|  | Submission Processing Field Director.
|  | Director, Collection Area.
|  | Deputy Chief Human Capital Officer, Internal Revenue Service.
|  | Director, Compliance Services Campus Operations.
|  | Area Director of Information Technology.
|  | Submission Processing Field Director.
|  | Director, Media and Publications Distribution Division.
|  | Director, Office of Privacy and Information Protection.
|  | Director, Refund Crimes.
|  | Accounts Management Field Director.
|  | Director, Filing and Payment Compliance.
|  | Director, Joint Operations Center.
|  | Director, Examination Operations Support.
|  | Senior Advisor, Information Systems Current Processing Environment Security.
|  | Director, Emergency Management Programs.
|  | Director of Field Operations (2).
|  | Director, Advisory, Insolvency and Quality.
|  | Director, Field Operations.
|  | Director, Employee Support Services.
|  | Deputy Commissioner, Small Business/Self-Employed.
|  | Associate Chief Financial Officer for Revenue and Financial Management.
|  | Project Director (Business Requirements).
|  | Director, Operational Assurance.
|  | Deputy Division Commissioner.
|  | Deputy Director, Field Specialists.
|  | Director, Leadership and Education.
|  | Accounts Management Field Director.
|  | Director, Filing Systems.
|  | Deputy Director, Procurement.
|  | Special Agent In-Charge.
|  | Project Director—Small Business and Self Employed.
|  | Director, Internet Development Services.
|  | Deputy Director, Office of Professional Responsibility.
|  | Deputy Director, Operation Standards.
|  | Director, Field Operations-Heavy Manufacturing and Transportation.
|  | Director, Product Assurance.
|  | Compliance Service Field Director.
|  | Project Director, Small Business and Self Employed—Transition Executive.
|  | Submission Processing Field Director.
|  | Accounts Management Field Director.
|  | Compliance Service Field Director.
|  | Director, Field Operations-Natural Resources and Construction.
|  | Director, Field Operations-Financial Services.
|  | Director, Program Control and Process Management.
|  | Deputy Director, Electronic Tax Administration.
|  | Business Modernization Executive.
|  | Accounts Management Field Director.
|  | Deputy Commissioner, Large and Mid-Size Business, International.
|  | Director, Field Operations.
|  | Director, Contact Center Support Division.
|  | Director, Network Architecture, Engineering and Voice.
|  | Director, Capital Planning and Investment.
|  | Project Director, Technology Operations and Investigative Services.
|  | Director, E-File Systems.
|  | Director, Cyber Security Operations.
|  | Deputy Director, Field Assistance.
|  | Industry Director, Natural Resources and Construction.
|  | Director, Examination Planning and Delivery.
|  | Associate Chief Financial Officer for Corporate Planning and Internal Control.
|  | Associate Chief Financial Officer for Corporate Budget.
|  | Deputy Chief, Mission Assurance and Security Services.
|  | Director, Workforce Progression and Management.
|  | Director, Customer Relationship and Integration.
|  | Director, Emergency Management Programs.
|  | Director, Fraud/Bank Secrecy Act.
|  | Director, Burden Reduction and Compliance Strategies.
|  | Special Agent In-Charge.
|  | Director, Strategy, Research and Program Planning.
|  | Director, Field Operations.
|  | Project Director, Collection.
|  | Director, Stakeholder Liaison Field.
|  | Director, Research.
|  | Director, Communications and Stakeholder Outreach.
|  | Director, Correspondence Production Services.
|  | Area Director, Southeast.
|  | Director, Data Management.
|  | Director, Field Operations.
|  | Deputy Director, Accounts Management.
|  | Chief, Agency-Wide Shared Services.
|  | Director, Employee Plans, Rulings and Agreements.
|  | Director, Campus Collection Compliance.
|  | Director, Examination Area (6).
|  | Accounts Management Field Director (4).
|  | Submission Processing Field Director.
|  | Director, Special Programs and Oversight.
|  | Director, Strategy and Resource Management.
|  | Director, Compliance Campus Operations (5).
|  | Director, Specialty Programs.
|  | Director, Technical Services.
|  | Deputy Commissioner (Domestic), Large Business and International.
|  | Executive Director, Case Advocacy.
|  | Director, Campus Compliance Services.
|  | Project Director, Security and Law Enforcement.
|  | Director, Online Fraud Detection and Prevention.
|  | Deputy Associate Chief Information Officer, End User Equipment and Services.
|  | Project Director, Private Debt Collection.
|  | Associate Chief Information Officer, Enterprise Networks.
|  | Field Director, Accounts Management.
|  | Director, Office of Privacy, Information Protection and Data Security.
|  | Director, Operational Security Program.
|  | Senior Advisor, Operational Information.
|  | Director, Enterprise Networks Operations.
|  | Associate Chief Information Officer, Cybersecurity.
|  | Submission Processing Field Director.
|  | Director, Earned Income and Health Coverage Tax Credits.
|  | Director, Office of Taxpayer Burden.
|  | Director, Personnel Security.
|  | Director, Treaty Administration and Tax Advisory Services.
|  | Director, Office of Program Evaluation and Risk Analysis.
|  | Accounts Management Field Director.
|  | Director, Information Technology Security Engineering.
|  | Director, Information Technology Infrastructure.
|  | Director, Examination Area, Boston.
|  | Associate Chief Information Officer, Applications Development.
|  | Director, Field Operations.
|  | Supervisory Criminal Investigator (Project Director).
|  | Director, Office of Professional Responsibility.
|  | Director, Office of Communications.
|  | Director, Field Operations.
|  | Director, Whistleblower Office.
|  | Director, Program Management and Technology.
|  | Director, Product and Partnership Development.
|  | Director, Portal Program Management.
|  | Director, Business Systems Planning.
|  | Special Agent In-Charge.
|  | Director, International Compliance, Strategy and Policy.
|  | Director, Management Services and Security.
|  | Director, Reporting Compliance.
|  | Deputy Commissioner, Services and Enforcement.
|  | Director, Enterprise Systems Testing.
|  | Deputy Associate Chief Information Officer, Applications Development.
|  | Director, Corporate Data.
|  | Director, Individual Master File.
|  | Director, Project Services.
|  | Director, Internal Management.
|  | Director, Submission Processing.
|  | Deputy Director, Submission Processing.
|  | Director, Client Services Division.
|  | Director, Customer Applications Development.
|  | Accounts Management Field Director.
|  | Director, Earned Income and Health Coverage Tax Credits.
|  | Director, Centers of Excellence.
|  | Deputy Director, Customer Relationships and Integration.
|  | Deputy Commissioner for Support, Wage and Investment.
|  | Director, Global High Wealth Industry.
|  | Associate Chief Information Officer for Enterprise Operations.
|  | Director, Management Services.
|  | Director, Business Systems Planning.
|  | Director, Compliance Campus Operations.
|  | Deputy Director, Enterprise Systems Testing.
|  | Deputy Director, Employment, Talent and Security.
|  | Associate Chief Information Officer, Strategy and Planning.
|  | Deputy Commissioner for Operations, Wage and Investment.
|  | Director, Individual Master Files.
|  | Director, Strategy and Capital Planning.
|  | Senior Advisor to the Deputy Commissioner (Operations Support).
|  | Director, Appeals Policy and Valuation.
|  | Deputy Associate Chief Information Officer for Cybersecurity.
|  | Counselor.
|  | Director, Capital Planning and Investment.
|  | Project Director, Customer Account Data Engine.
|  | Director, Planning, Research and Analysis.
|  | Deputy Director, Submission Processing.
|  | Special Assistant to the Associate Chief Information Officer for Applications Development.
|  | Deputy Director, Program Management.
|  | Director, Collection Policy.
|  | Deputy Division Counsel #2 (Operations)/Small Business and Self Employed.
|  | Director, Service Delivery Management.
|  | Project Director, Taxpayer Communication.
|  | Director, Program Integration.
|  | Deputy Associate Chief Information Officer.
|  | Project Director, Workforce of Tomorrow.
|  | Director, Enterprise Voice Networks.
|  | Director, Continuity Operations.
|  | Deputy Director, Electronic Tax Administration and Refund Credits.
|  | Special Assistant to the Deputy Commissioner for Services and Enforcement.
|  | Deputy Chief of Staff.
|  | Director, Filing and Payment Compliance.
|  | Submission Processing Field Director.
|  | Director, Enforcement.
|  | Director, Collection Area.
|  | Senior Advisor to Associate Chief Information Officer (Enterprise Network).
|  | Director, Business Rules and Requirements Management.
|  | Deputy Chief Information Officer for Operations.
|  | Director, Field Operations (East).
|  | Director, Retail, Food, Pharmaceutical and Health Care.
|  | Deputy Director, Customer Account Data Engine.
|  | Special Agent In-Charge—Criminal Investigation.
|  | Director, Development Services.
|  | Field Director, Accounts Management.
|  | Director, Stakeholder, Partnerships, Education and Communications.
|  | Director, Reporting Compliance.
|  | Director, Infrastructure Architecture and Engineering.
|  | Director, Data Strategy Implementation.
|  | Director, Cyber Security Policy and Programs.
|  | Associate Chief Information Officer, End User Equipment and Services.
|  | Project Director.
|  | Deputy Associate Chief Information Officer, Enterprise Operations.
|  | Director, Electronic Tax Administration.
|  | Director, Program Management.
|  | Director, Business Modernization.
|  | Director, Examination Area.
|  | Director, Implementation Oversight.
|  | Director, Information Technology Technical Director.
|  | Director, Campus Compliance Operations.
|  | Director, Examination Area.
|  | Director, Enterprise Collection Strategy.
|  | Director, Transition State 2 Program Management.
|  | Director, Field Operations, International Business Compliance (West).
|  | Director, Field Operations, Field Specialists (East).
|  | Compliance Services Field Director.
|  | Director, Return Preparer Office.
|  | Deputy Director, Pre-Filing and Technical Guidance.
|  | Deputy Director, Strategy and Finance.
|  | Director, Examination Operations Support.
|  | Director, Operations Service Support.
|  | Deputy Commissioner, Operations Support.
|  | Associate Chief Information Officer, Affordable Care Act—Program Management Office.
|  | Chief Engineer.
|  | Deputy Associate Chief Information Officer for Applications.
|  | Deputy Associate Chief Information Officer for Enterprise Networks.
|  | Director, Examination Policy.
|  | Area Director, Stakeholder Partnership, Education and Communication (2).
|  | Director, Refund Crimes.
|  | Area Director, Field Assistance.
|  | Director, Transfer Pricing Operations.
|  | Director, International Operations.
|  | Deputy Director, Research, Analysis and Statistics.
|  | Director, Program Strategy and Integration.
|  | Director, Field Operations, Retailers, Food, Transportation and Healthcare (East).
|  | Director, International Business Compliance.
|  | Director, Collection Area.
|  | Deputy Associate Chief Information Officer for Enterprise Services.
|  | Director, Field Operations, Field Specialists (West).
|  | Director, Cade 2 Database.
|  | Director, Accounts Management Services.
|  | Deputy Director, Portal Program Management.
|  | Director, Filing and Payment Compliance.
|  | Director, Large Systems and Storage Infrastructure Division.
|  | Director, Business Performance Solutions.
|  | Director, Earned Income Tax Credit.
|  | Director, E-File Systems.
|  | Director, Real Estate and Facilities Operations.
|  | Accounts Management Field Director.
|  | Director, Customer Service.
|  | Director, Telecommunications Center of Excellence.
|  | Director, Examination Area.
|  | Area Director, Field Assistance.
|  | Director, Server, Middleware and Test Systems Infrastructure Division.
|  | Director, Requirements and Demand Management.
|  | Field Director, Compliance Services.
|  | Director, Headquarters Operations.
|  | Deputy Director, Enterprise Architecture.
|  | Field Director, Compliance Services (Atlanta).
|  | Director, Collection Area, Gulf States.
|  | Director, Financial Management Services.
|  | Deputy Chief of Staff.
|  | Director, Delivery Management.
|  | Senior Advisor to the Deputy Commissioner for Services and Enforcement.
|  | Director, Privacy and Information Protection.
|  | Director, International Data Management.
|  | Director, Customer Service Support.
|  | Director, Strategy, Research and Program Planning.
|  | Area Director, Stakeholder, Partnerships, Education and Communication.
|  | Director, Program Strategy and Integration.
|  | Director, Compliance Strategy and Policy.
|  | Director, Technical Services.
|  | Director, Data Delivery Services.
|  | Deputy Associate Chief Information Officer, Affordable Care Act Program Management Office.
|  | Director, Examination Policy.
|  | Director, Strategic Supplier Management.
|  | Director, Transfer Pricing Operations.
|  | Director, Infrastructure and Portal Programs.
|  | Director, Collection Area (California).
|  | Director, Exempt Organizations Examination.
|  | Director, Leadership, Education and Development.
|  | Director, Business Relationship and Service Delivery.
|  | Director, Examination Area (North Atlantic).
|  | Executive Director, Investigative and Enforcement Services.
|  | Executive Director, Investigative and Enforcement Operations.
|  | Director, Large Systems and Storage Infrastructure Division.
|  | Director, Filing and Payment Compliance.
|  | Director, Contact Center Support Division.
|  | Director, Field Operations, Retail Food, Pharmaceuticals and Healthcare (West).
|  | Director, Cybersecurity Policy and Programs.
|  | Director, Return Integrity and Correspondence Services.
|  | Director, Advanced Pricing and Mutual Agreement.
|  | Director, Product Management.
|  | Associate Chief Financial Officer, Corporate Planning and Internal Control.
|  | Director, International Individual Compliance.
|  | Director, Customer Service Support.
|  | Director, Abusive Transactions and Technical Issues.
|  | Deputy Director, Office of Professional Responsibility Operations.
|  | Director, Examination Area.
|  | Accounts Management Field Director.
|  | Director, Campus Compliance Operations.
|  | Director, Collection Area.
|  | Director, Field Operations, Natural Resources and Construction (West).
|  | Field Director, Submission Processing.
|  | Director, Information Technology Transition Initiatives.
|  | Assistant Deputy Commissioner (International).
|  | Director, Filing and Premium Tax Credit.
|  | Director, Field Operations, International Business Compliance.
|  | Accounts Management Field Director.
|  | Deputy Director, Return Preparer Office.
|  | Director, Compliance Campus Operations.
|  | Deputy Commissioner for Support, Wage and Investment.
|  | Director, Filing and Payment Compliance.
|  | Director, Tax Forms and Publications.
|  | Director, Customer Service and Stakeholders.
|  | Deputy Associate Chief Financial Officer for Financial Management.
|  | Director, Business Services and Management.
|  | Director, Portfolio Control and Performance.
|  | Director, Real Estate and Facilities Operations.
|  | Executive Director, Systems Advocacy.
|  | Area Director, Field Assistance (Area 1).
|  | Area Director, Field Assistance (Area 2).
|  | Director, Network Engineering.
|  | Director, Enforcement.
|  | Director, Shared Support.
|  | Director, Field Operations, Engineering.
|  | Director of Field Operations, Heavy Manufacturing and Pharmaceuticals (Southeast).
|  | Director, Collection Strategy and Organization.
|  | Executive Director, Business Modernization.
|  | Area Director, Stakeholder, Partnership, Education and Communication.
|  | Director, Business Planning and Risk Management.
|  | Director, Implementation and Testing.
|  | Director, Campus Operations.
|  | Director, Business Reengineering.
|  | Director, Campus Compliance Operations.
|  | Project Director, Extension Legislation.
|  | Compliance Services Field Director.
|  | Submission Processing Field Director.
|  | Director, Service Delivery Management.
|  | Director, Detroit Program Management Office.
| Internal Revenue Service Chief Counsel | Deputy Division Counsel (Technical), Large Business and International.
|  | Deputy Associate Chief Counsel (International Field Service and Litigation).
|  | Senior Counsel to the Chief Counsel (Legislation).
|  | Director, Employee Plans Examinations.
|  | Special Counsel to the Chief Counsel.
|  | Deputy Division Counsel and Deputy Associate Chief Counsel (Tax Exempt and Government Entities).
|  | Deputy Division Counsel/Deputy Associate Chief Counsel.
|  | Assistant Chief Counsel (International), Litigation.
|  | Associate Chief Counsel (Financial Institutions and Products).
|  | Associate Chief Counsel (Finance and Management).
|  | Associate Chief Counsel (International).
|  | Deputy Chief Counsel (Operations).
|  | Deputy Chief Counsel (Technical).
|  | Associate Chief Counsel/Operating Division Counsel (Tax Exempt and Government Entities).
|  | Deputy Associate Chief Counsel (International Technical).
|  | Special Counsel to the National Taxpayer Advocate.
|  | Associate Chief Counsel (General Legal Services).
|  | Deputy Associate Chief Counsel (General Legal Services).
|  | Assistant Chief Counsel (Administrative Provisions and Judicial Practice).
|  | Associate Chief Counsel (Corporate).
|  | Associate Chief Counsel (Procedure and Administration).
|  | Assistant Chief Counsel (Disclosure and Privacy Law).
|  | Assistant Chief Counsel (Collection, Bankruptcy and Summonses).
|  | Deputy Division Counsel/Deputy Assistant Chief Counsel (Criminal Tax).
|  | Associate Chief Counsel (Income Tax and Accounting).
|  | Deputy Associate Chief Counsel (Procedure and Administration).
|  | Associate Chief Counsel (Pass-through and Special Industries).
|  | Deputy Division Counsel (Large and Mid-Size Business).
|  | Deputy Associate Chief Counsel (Corporate).
|  | Deputy Associate Chief Counsel #2 (Pass-through and Special Industries).
|  | Division Counsel (Large and Mid-Size Business).
|  | Deputy Associate Chief Counsel #2 (Income Tax and Accounting).
|  | Area Counsel (Large and Mid-Size Business—Area 3, Food, Mass Retailers and Pharmaceuticals).
|  | Division Counsel (Small Business and Self Employed).
|  | Division Counsel/Associate Chief Counsel (Criminal Tax).
|  | Deputy Associate Chief Counsel #1 (Income Tax and Accounting).
|  | Area Counsel (Small Business and Self Employed, Area 7).
|  | Area Counsel (Small Business and Self Employed—Los Angeles).
|  | Area Counsel (Small Business and Self Employed—Denver).
|  | Area Counsel (Small Business and Self Employed).
|  | Area Counsel (Small Business and Self Employed—Chicago).
|  | Area Counsel (Small Business and Self Employed—Jacksonville).
|  | Area Counsel (Small Business and Self Employed—Philadelphia).
|  | Area Counsel (Small Business and Self Employed)—New York.
|  | Deputy Division Counsel (Small Business and Self Employed).
|  | Area Counsel (Large and Mid-Size Business—Area 5, Communications, Technology and Media).
|  | Area Counsel (Large and Mid-Size Business—Area 4, Natural Resources).
|  | Area Counsel (Large and Mid-Size Business—Area 2, Heavy Manufacturing, Construction and Transportation).
|  | Deputy Associate Chief Counsel (Finance and Management).
|  | Deputy Associate Chief Counsel #1 (Pass-through and Special Industries).
|  | Area Counsel (Large and Mid-Size Business—Area 1, Financial Services and Health Care).
|  | Deputy Division Counsel/Deputy Associate Chief Counsel (Tax Exempt and Government Entities).
|  | Deputy Associate Chief Counsel (General Legal Services—Labor and Personnel Law).
|  | Deputy Associate Chief Counsel (Strategic International Programs).
|  | Division Counsel (Wage and Investment).
|  | Deputy Associate Chief Counsel (Financial Institutions and Products).
|  | Deputy to the Special Counsel to the Chief Counsel.
|  | Special Counsel to the Chief Counsel.
|  | Area Counsel, (Small Business and Self Employed, Area 9).
| United States Mint | Chief Administrative Officer.
|  | Associate Director for Systems Integration.
|  | Associate Director for Workforce Solutions.
|  | Plant Manager, Philadelphia.
|  | Associate Director for Information Technology (Chief Information Officer).
|  | Senior Advisor.
|  | Associate Director for Manufacturing.
|  | Associate Director for Sales and Marketing.
|  | Associate Director for Financial Management/Chief Financial Officer.
|  | Plant Manager.
DEPARTMENT OF THE TREASURY—OFFICE OF THE INSPECTOR GENERAL | Immediate Office | Special Deputy Inspector General for Small Business Lending Fund.
|  | Deputy Inspector General.
| Office of Counsel | Counsel to the Inspector General.
| Office of Management | Assistant Inspector General for Management.
| Office of Audit | Deputy Assistant Inspector General for Audit (Program Audits).
|  | Deputy Assistant Inspector General for Audit (Financial Management).
|  | Assistant Inspector General for Audit.
| Office of Investigations | Deputy Assistant Inspector General for Investigations.
DEPARTMENT OF THE TREASURY, SPECIAL INSPECTOR GENERAL FOR THE TROUBLED ASSET RELIEF PROGRAM | Department of the Treasury, Special Inspector General for the Troubled Asset Relief Program | Chief Investigative Counsel. Assistant Deputy Special Inspector General for Audit and Evaluation.
|  | Deputy Special Inspector General, Operations.
|  | Deputy Special Inspector General, Audit.
|  | Chief Counsel for SIGTARP.
|  | Deputy Special Inspector General for Investigations.
|  | Assistant Deputy Special Inspector General for Investigations.
DEPARTMENT OF THE TREASURY, TAX ADMINISTRATION—OFFICE OF THE INSPECTOR GENERAL | Department of the Treasury, Tax Administration—Office of the Inspector General | Chief Counsel. Associate Inspector General for Mission Support.
|  | Assistant Inspector General for Investigations (2).
|  | Deputy Inspector General for Investigations.
|  | Assistant Inspector General Compliance and Enforcement Operations.
|  | Assistant Inspector General, Management Planning and Workforce Development.
|  | Assistant Inspector General, Returns Processing and Accounting Services.
|  | Assistant Inspector General for Audit, Management Services and Exempt Organizations.
|  | Deputy Inspector General for Audit.
|  | Deputy Counsel to the Inspector General.
|  | Assistant Inspector General for Investigations.
|  | Deputy Assistant Inspector General for Investigations.
|  | Chief Information Officer.
|  | Assistant Inspector General for Management, Planning and Workforce Development.
|  | Chief Information Officer.
|  | Assistant Inspector General for Audit, Compliance and Enforcement Organizations.
|  | Deputy Assistant Inspector General for Investigations.
|  | Deputy Inspector General for Inspections and Evaluations.
|  | Principal Deputy Inspector General.
|  | Assistant Inspector General for Investigations.
UNITED STATES AGENCY FOR INTERNATIONAL DEVELOPMENT | United States Agency for International Development | Assistant General Counsel for Democracy, Conflict and Humanitarian Assistance.
| Office of the Inspector General | Deputy Inspector General.
|  | Deputy Assistant Inspector General for Audit.
|  | Counselor to the Inspector General.
|  | Assistant Inspector General for Management.
|  | Supervisory Criminal Investigator.
|  | Assistant Inspector General for Millennium Challenge Corporation.
| Office of Security | Director, Office of Security.
| Office of Small and Disadvantaged Business Utilization | Director, Office of Small and Disadvantage Business Utilization.
| Office of Civil Rights and Diversity | Equal Opportunity Officer.
| Bureau for Democracy, Conflict and Humanitarian Assistance | Deputy Assistant Administrator. Deputy Director, Office of Foreign Disaster Assistance.
|  | Deputy Director, OMA.
| Bureau for Global Health | Deputy Assistant Administrator of Bureau for Global Health.
|  | Deputy Assistant Administrator.
| Bureau for Africa | Deputy Assistant Administrator, Bureau for Africa.
| Bureau for Management | Deputy Director for OAA Policy, Support and Evaluation.
|  | Deputy Director, OAA Operations.
|  | Director, Office of Administrative Service.
|  | Deputy Director, Office of Management, Policy, Budget and Performance.
|  | Chief Information Officer.
|  | Deputy Assistant Administrator.
|  | Director, Office of Management, Policy, Budget and Performance.
|  | Deputy Chief Financial Officer (2).
|  | Deputy Controller.
| Bureau for Foreign Assistance | Senior Coordinator.
UNITED STATES AGENCY FOR INTERNATIONAL DEVELOPMENT—OFFICE OF THE INSPECTOR GENERAL | United States Agency for International Development—Office of the Inspector General | Deputy Inspector General.
UNITED STATES INTERNATIONAL TRADE COMMISSION | Office of External Relations | Director, Office of External Relations.
| Office of Industries | Director, Office of Industries.
| Office of Investigations | Director, Office of Investigations.
DEPARTMENT OF VETERANS AFFAIRS | Office of the Secretary and Deputy | Director, Office of Employment Discrimination Complaint Adjudication.
|  | Executive Director.
| Office of Acquisitions, Logistics and Construction | Associate Chief Facilities Management Officer for Strategic Management.
|  | Executive Director, Construction and Facilities Management.
|  | Associate Chief Facilities Management Officer for Service Delivery.
|  | Director, Facilities Engineering Operations and Support.
|  | Associate Chief Facilities Management Officer for Resource Management.
|  | Director, Facilities, Programs and Plans.
|  | Director, Facilities Acquisition Support.
|  | Executive Director.
|  | Associate Executive Director, Strategic Acquisition Center.
| Office of Acquisition and Material Management | Deputy Assistant Secretary for Acquisition and Material Management.
|  | Associate Deputy Assistant Secretary for Acquisition Program Support.
|  | Associate Deputy Assistant Secretary for Acquisitions.
|  | Executive Director, Center for Acquisition Innovation.
| Board of Veterans' Appeals | Director, Management, Planning and Analysis.
|  | Principal Deputy Vice Chairman.
|  | Vice Chairman.
| Office of the General Counsel | Regional Counsel (22).
| Office of the Assistant Secretary for Management | Program Manager (Financial Systems). Principal Deputy Assistant Secretary for Management.
|  | Deputy Program Manager (Financial Systems).
| Office of Finance | Associate Deputy Assistant Secretary for Finance.
|  | Director, Financial Services Center.
|  | Associate Deputy Assistant Secretary for Financial Business Operations.
|  | Director, Debt Management Center.
| Office of Acquisition and Material Management | Associate Deputy Assistant Secretary for Acquisitions.
| Office of Asset Enterprise Management | Deputy Director, Asset Enterprise Management.
| Office of Business Oversight | Director, Office of Business Oversight.
| Office of the Assistant Secretary for Policy and Planning | Senior Advisor.
| Office of Human Resources Management | Associate Deputy Assistant Secretary for Human Resources Management.
| Office of the Assistant Secretary for Information and Technology | Associate Deputy Assistant Secretary for Human Resources Career Development.
|  | Executive Director for Quality and Performance.
|  | Deputy Assistant Secretary for Information Technology Resource Management.
|  | Executive Director for Business Operations.
|  | Executive Director, Budget and Finance.
|  | Associate Deputy Assistant Secretary for Information Technology Operations.
|  | Associate Deputy Assistant Secretary for Privacy and Records Management.
|  | Executive Director (Enterprise Operations).
|  | Associate Deputy Assistant Secretary for Policy, Portfolio Oversight and Execution.
|  | Associate Deputy Assistant Secretary for Security Operations.
| National Cemetery Administration | Director, Office of Finance and Planning.
| Veterans Benefits Administration | Deputy Director for Policy and Procedures.
|  | Deputy Director for Operations.
|  | Deputy Chief Financial Officer.
|  | Chief Financial Officer.
| Veterans Health Administration | Associate Chief Financial Officer.
|  | Director, Acquisition Service Area Organization (West).
|  | Director, Service Area Office.
|  | Deputy Chief Procurement Officer.
|  | Deputy Chief Financial Officer.
|  | Director, Veterans Canteen Service.
|  | Associate Chief Financial Officer for Core Financial and Logistics System and Decision Support Systems.
|  | Chief Compliance and Business Integrity Officer.
|  | Chief Operating Officer.
|  | Financial Manager.
|  | Chief Procurement and Logistics Officer.
|  | Associate Chief Information Officer, Implementation and Training Services.
|  | Chief Financial Officer.
| Office of Emergency Management | Deputy Assistant Secretary for Emergency Management.
| Office of Operations, Security and Preparedness | Director for Security and Law Enforcement.
DEPARTMENT OF VETERANS AFFAIRS—OFFICE OF THE INSPECTOR GENERAL | Immediate Office of the Inspector General | Counselor to the Inspector General. Deputy Inspector General.
| Office of the Assistant Inspector General for Investigations | Deputy Assistant Inspector General for Investigations (Headquarters Operations).
|  | Deputy Inspector General for Investigations (Field Operations).
|  | Assistant Inspector General for Investigations.
| Office of the Assistant Inspector General for Audits and Evaluations | Deputy Assistant Inspector General for Audits and Evaluations (Headquarters Management and Inspections).
|  | Deputy Assistant Inspector General for Audits and Evaluations (Field Operations).
|  | Assistant Inspector General for Audits and Evaluations.
| Office of the Assistant Inspector General for Management and Administration | Deputy Assistant Inspector General for Management and Administration.
|  | Assistant Inspector General for Management and Administration.
| Office of the Assistant Inspector General for Healthcare Inspections | Medical Officer (Deputy Director of Medical Consultation and Review).
|  | Medical Officer (Director of Medical Consultation and Review).
|  | Deputy Assistant Inspector General for Healthcare Inspections.
|  | Assistant Inspector General for Healthcare Inspections.

Authority: 5 U.S.C. 3132.

U.S. Office of Personnel Management.
Elaine Kaplan,
Acting Director.

[FR Doc. 2013-11220 Filed 5-13-13; 8:45 am]

BILLING CODE 6325-39-P